DEPARTMENT OF THE INTERIOR

Fish and Wildlife Service

50 CFR Parts 32 and 71

[Docket No. FWS-HQ-NWRS-2021-0027; FXRS12610900000-212-FF09R20000]

RIN 1018-BF09

2021-2022 Station-Specific Hunting and Sport Fishing Regulations

AGENCY: Fish and Wildlife Service, Interior.

ACTION: Proposed rule.

SUMMARY: We, the U.S. Fish and Wildlife Service (Service), propose to open, for the first time, seven National Wildlife Refuges (NWRs) that are currently closed to hunting and sport fishing. In addition, we propose to open or expand hunting and sport fishing at 83 other NWRs, and add pertinent station-specific regulations for other NWRs that pertain to migratory game bird hunting, upland game hunting, big game hunting, and sport fishing for the 2021-2022 season. We also propose to open hunting or sport fishing on one unit of the National Fish Hatchery System (NFH). We propose to add pertinent station-specific regulations that pertain to migratory game bird hunting, upland game hunting, big game hunting, and sport fishing at this NFH for the 2021-2022 season. Finally, we propose to make regulatory changes to existing station-specific regulations in order to reduce the regulatory burden on the public, increase access for hunters and anglers on Service lands and waters, and comply with a Presidential mandate for plain language standards.

DATES:

Written comments: We will accept comments received or postmarked on or before July 6, 2021.

Information collection requirements: If you wish to comment on the information collection requirements in this proposed rule, please send your comments and suggestions on this information collection by July 6, 2021.

ADDRESSES:

Written comments: You may submit comments by one of the following methods:

• Electronically: Go to the Federal eRulemaking Portal: http://www.regulations.gov. In the Search box, type in FWS-HQ-NWRS-2021-0027, which is the docket number for this rulemaking. Then, click on the Search button. On the resulting screen, find the correct document and submit a comment by clicking on “Comment Now!”

• By hard copy: Submit by U.S. mail or hand delivery: Public Comments Processing, Attn: FWS-HQ-NWRS-2021-0027; U.S. Fish and Wildlife Service; 5275 Leesburg Pike, MS: PRB (JAO/3W); Falls Church, VA 22041-3803.

We will not accept email or faxes. We will post all comments on http://www.regulations.gov. This generally means that we will post any personal information you provide us (see Request for Comments, below, for more information).

Information collection requirements: Send your comments and suggestions on the information collection requirements to the Service Information Collection Clearance Officer, U.S. Fish and Wildlife Service, 5275 Leesburg Pike, MS: PRB (JAO/3W), Falls Church, VA 22041-3803 (mail); or Info_Coll@fws.gov (email). Please reference OMB Control Number 1018-0140 in the subject line of your comments.

Supporting documents: For information on a specific refuge's or hatchery's public use program and the conditions that apply to it, contact the respective regional office at the address or phone number given in Available Information for Specific Stations under SUPPLEMENTARY INFORMATION.

FOR FURTHER INFORMATION CONTACT: Christian Myers, (571) 422-3595.

SUPPLEMENTARY INFORMATION:

Background

The National Wildlife Refuge System Administration Act of 1966 (16 U.S.C. 668dd-668ee), as amended (Administration Act), closes NWRs in all States except Alaska to all uses until opened. The Secretary of the Interior (Secretary) may open refuge areas to any use, including hunting and/or sport fishing, upon a determination that the use is compatible with the purposes of the refuge and National Wildlife Refuge System mission. The action also must be in accordance with provisions of all laws applicable to the areas, developed in coordination with the appropriate State fish and wildlife agency(ies), consistent with the principles of sound fish and wildlife management and administration, and otherwise in the public interest. These requirements ensure that we maintain the biological integrity, diversity, and environmental health of the Refuge System for the benefit of present and future generations of Americans.

We annually review hunting and sport fishing programs to determine whether to include additional stations or whether individual station regulations governing existing programs need modifications. Changing environmental conditions, State and Federal regulations, and other factors affecting fish and wildlife populations and habitat may warrant modifications to station-specific regulations to ensure the continued compatibility of hunting and sport fishing programs and to ensure that these programs will not materially interfere with or detract from the fulfillment of station purposes or the Service's mission.

Provisions governing hunting and sport fishing on refuges are in title 50 of the Code of Federal Regulations at part 32 (50 CFR part 32), and on hatcheries at part 71 (50 CFR part 71). We regulate hunting and sport fishing to:

• Ensure compatibility with refuge and hatchery purpose(s);

• Properly manage fish and wildlife resource(s);

• Protect other values;

• Ensure visitor safety; and

• Provide opportunities for fish- and wildlife-dependent recreation.

On many stations where we decide to allow hunting and sport fishing, our general policy of adopting regulations identical to State hunting and sport fishing regulations is adequate in meeting these objectives. On other stations, we must supplement State regulations with more-restrictive Federal regulations to ensure that we meet our management responsibilities, as outlined under Statutory Authority, below. We issue station-specific hunting and sport fishing regulations when we open wildlife refuges and fish hatcheries to migratory game bird hunting, upland game hunting, big game hunting, or sport fishing. These regulations may list the wildlife species that you may hunt or fish; seasons; bag or creel (container for carrying fish) limits; methods of hunting or sport fishing; descriptions of areas open to hunting or sport fishing; and other provisions as appropriate.

Statutory Authority

The Administration Act, as amended by the National Wildlife Refuge System Improvement Act of 1997 (Improvement Act; Pub. L. 105-57), governs the administration and public use of refuges, and the Refuge Recreation Act of 1962 (16 U.S.C. 460k-460k-4) (Recreation Act) governs the administration and public use of refuges and hatcheries.

Amendments enacted by the Improvement Act were built upon the Administration Act in a manner that provides an “organic act” for the Refuge System, similar to organic acts that exist for other public Federal lands. The Improvement Act serves to ensure that we effectively manage the Refuge System as a national network of lands, waters, and interests for the protection and conservation of our Nation's wildlife resources. The Administration Act states first and foremost that we focus our Refuge System mission on conservation of fish, wildlife, and plant resources and their habitats. The Improvement Act requires the Secretary, before allowing a new use of a refuge, or before expanding, renewing, or extending an existing use of a refuge, to determine that the use is compatible with the purpose for which the refuge was established and the mission of the Refuge System. The Improvement Act established as the policy of the United States that wildlife-dependent recreation, when compatible, is a legitimate and appropriate public use of the Refuge System, through which the American public can develop an appreciation for fish and wildlife. The Improvement Act established six wildlife-dependent recreational uses as the priority general public uses of the Refuge System. These uses are hunting, fishing, wildlife observation and photography, and environmental education and interpretation.

The Recreation Act authorizes the Secretary to administer areas within the Refuge System and Hatchery System for public recreation as an appropriate incidental or secondary use only to the extent that doing so is practicable and not inconsistent with the primary purpose(s) for which Congress and the Service established the areas. The Recreation Act requires that any recreational use of refuge or hatchery lands be compatible with the primary purpose(s) for which we established the refuge and not inconsistent with other previously authorized operations.

The Administration Act and Recreation Act also authorize the Secretary to issue regulations to carry out the purposes of the Acts and regulate uses.

We develop specific management plans for each refuge prior to opening it to hunting or sport fishing. In many cases, we develop station-specific regulations to ensure the compatibility of the programs with the purpose(s) for which we established the refuge or hatchery and the Refuge and Hatchery System mission. We ensure initial compliance with the Administration Act and the Recreation Act for hunting and sport fishing on newly acquired land through an interim determination of compatibility made at or near the time of acquisition. These regulations ensure that we make the determinations required by these acts prior to adding refuges to the lists of areas open to hunting and sport fishing in 50 CFR parts 32 and 71. We ensure continued compliance by the development of comprehensive conservation plans and step-down management plans, and by annual review of hunting and sport fishing programs and regulations.

Proposed Amendments to Existing Regulations

Updates to Hunting and Fishing Opportunities on NWRs and NFHs

This document proposes to codify in the Code of Federal Regulations all of the Service's hunting and/or sport fishing regulations that we would update since the last time we published a rule amending these regulations (85 FR 54076; August 31, 2020) and that are applicable at Refuge System and Hatchery System units previously opened to hunting and/or sport fishing. We propose this to better inform the general public of the regulations at each station, to increase understanding and compliance with these regulations, and to make enforcement of these regulations more efficient. In addition to now finding these regulations in 50 CFR parts 32 and 71, visitors to our refuges and hatcheries may find them reiterated in literature distributed by each station or posted on signs.

Table 1—Proposed Changes for 2021-2022 Hunting/Sport Fishing Season
Station | State | Migratory bird hunting | Upland game hunting | Big game hunting | Sport fishing
Audubon NWR | North Dakota | Closed | Already Open | E | Already Open.
Bald Knob NWR | Arkansas | O/E | O/E | Already Open | Already Open.
Bayou Sauvage NWR | Louisiana | O/E | O | O | E.
Bayou Teche NWR | Louisiana | O/E | O/E | E | Already Open.
Big Branch Marsh NWR | Louisiana | O/E | O/E | O/E | E.
Big Lake NWR | Arkansas | Closed | O | O/E | Already Open.
Bill Williams River NWR | Arizona | E | O/E | O/E | Already Open.
Bogue Chitto NWR | Louisiana & Mississippi | O/E | O/E | E | Already Open.
Bond Swamp NWR | Georgia | E | E | E | Already Open.
Brazoria NWR | Texas | O | Closed | Closed | E.
Cache River NWR | Arkansas | O/E | O | E | Already Open.
Caddo Lake NWR | Texas | Closed | O | Already Open | Closed.
Camas NWR | Idaho | O | Already Open | O | Closed.
Cape May NWR | New Jersey | O/E | O/E | E | E.
Cat Island NWR | Louisiana | O/E | O/E | E | Already Open.
Charles M. Russell NWR | Montana | Already Open | Already Open | O | Already Open.
Cherry Valley NWR | Pennsylvania | E | O/E | E | Already Open.
Choctaw NWR | Alabama | O | O/E | E | Already Open.
Crab Orchard NWR | Illinois | Already Open | Already Open | Already Open | E.
Cypress Creek NWR | Illinois | E | E | E | E.
Dale Bumpers White River NWR | Arkansas | O | Already Open | Already Open | Already Open.
Delta NWR | Louisiana | O/E | O/E | O/E | Already Open.
Desert NWR | Nevada | O | O | Already Open | Closed.
Don Edwards NWR | California | E | Closed | Closed | Already Open.
Eastern Shore of Virginia NWR | Virginia | O | O | O/E | O.
Elizabeth Hartwell Mason Neck NWR | Virginia | Closed | Closed | E | O.
Ernest F. Hollings ACE Basin NWR | South Carolina | Already Open | Closed | O | Already Open.
Everglades Headwaters NWR | Florida | E | E | E | Already Open.
Featherstone NWR | Virginia | N | Closed | Closed | N.
Felsenthal NWR | Arkansas | O/E | E | E | Already Open.
Fisherman Island NWR | Virginia | N | Closed | Closed | Closed.
Florida Panther NWR | Florida | Closed | Closed | N | N.
Franklin Island NWR | Maine | N | Closed | Closed | Closed.
Grand Bay NWR | Alabama & Mississippi | O | O | O | O.
Great Dismal Swamp NWR | Virginia | Closed | O | O/E | Already Open.
Great River NWR | Missouri | C | C | C | Already Open.
Great Swamp NWR | New Jersey | O | O | O/E | Closed.
Green Lake NFH | Maine | Closed | Closed | Closed | N.
Hackmatack NWR | Illinois | E | E | E | E.
Harbor Island NWR | Michigan | O | O | E | O.
Harris Neck NWR | Georgia | Closed | Closed | O/E | Already Open.
Havasu NWR | Arizona | O/E | O | Already Open | Already Open.
Holla Bend NWR | Arkansas | Closed | O/E | O/E | E.
J. Clark Salyer NWR | North Dakota | Already Open | E | E | Already Open.
James River NWR | Virginia | Closed | O | O/E | O.
Julia Butler Hansen Refuge | Oregon & Washington | E | Closed | Already Open | Already Open.
Kern NWR | California | O | Already Open | Closed | Closed.
Kootenai NWR | Idaho | Already Open | Already Open | Already Open | E.
Lacreek NWR | South Dakota | Already Open | Already Open | Already Open | E.
Lake Alice NWR | North Dakota | Already Open | E | E | Already Open.
Las Vegas NWR | New Mexico | O | O | O | Closed.
Loess Bluffs NWR | Missouri | O | O | O/E | Already Open.
Mackay Island NWR | North Carolina & Virginia | O | Closed | O/E | Already Open.
Malheur NWR | Oregon | E | E | E | Already Open.
Mandalay NWR | Louisiana | O/E | O | E | Already Open.
Middle Mississippi River NWR | Missouri | Already Open | E | E | Already Open.
Minnesota Valley NWR | Minnesota | Already Open | Already Open | E | Already Open.
Missisquoi NWR | Vermont | Already Open | O | Already Open | Already Open.
Moosehorn NWR | Maine | E | E | E | Already Open.
Muleshoe NWR | Texas | N | N | N | Closed.
National Elk Refuge | Wyoming | Closed | Closed | O | Already Open.
Neal Smith NWR | Iowa | E | E | E | Closed.
Necedah NWR | Wisconsin | E | E | E | Already Open.
Neches River NWR | Texas | N | N | N | Closed.
Northern Tallgrass Prairie NWR | Minnesota & Iowa | E | E | E | E.
Occoquan Bay NWR | Virginia | Closed | O | O/E | O.
Ohio River Islands NWR | Pennsylvania, Kentucky, & West Virginia | O | O | O | Already Open.
Ottawa NWR | Ohio | E | E | E | E.
Ouray NWR | Utah | O | Already Open | O | Already Open.
Patoka River NWR | Indiana | E | E | E | E.
Petit Manan NWR | Maine | E | E | E | Closed.
Plum Tree Island NWR | Virginia | E | Closed | Closed | O.
Pond Island NWR | Maine | N | Closed | Closed | Closed.
Presquile NWR | Virginia | Closed | O | O/E | O.
Rappahannock River Valley NWR | Virginia | Closed | O | O/E | Already Open.
Red River NWR | Louisiana | O | O | Already Open | Already Open.
Rice Lake NWR | Minnesota | Already Open | Already Open | E | Already Open.
Sam D. Hamilton Noxubee NWR | Mississippi | O/E | O/E | E | Already Open.
Sequoyah NWR | Oklahoma | Already Open | Already Open | Already Open | E.
Sherburne NWR | Minnesota | O | E | E | Already Open.
Silvio O. Conte NWR | New Hampshire | E | O/E | E | E.
Sunkhaze Meadows NWR | Maine | Already Open | E | Already Open | Already Open.
Supawna Meadows NWR | New Jersey | O | O | O/E | E.
Tensas River NWR | Louisiana | O | O | O | Already Open.
UL Bend NWR | Montana | Already Open | Already Open | O | Already Open.
Upper Ouachita NWR | Louisiana | O/E | O | Already Open | Already Open.
Wallkill River NWR | New York & New Jersey | E | E | E | Already Open.
Wapanocca NWR | Arkansas | C | O | E | Already Open.
Waubay NWR | South Dakota | Closed | Closed | Already Open | E.
Wichita Mountains NWR | Oklahoma | Already Open | Closed | Already Open | E.
William L. Finley NWR | Oregon | O | Closed | E | Already Open.
Key:
N = New station opened (New Station).
O = New species and/or new activity on a station previously open to other activities (Opening).
E = Station already open to activity adds new lands/waters, modifies areas open to hunting or fishing, extends season dates, adds a targeted hunt, modifies season dates, modifies hunting hours, etc. (Expansion).
C = Station closing the activity on some or all acres (Closing).

The changes for the 2021-2022 hunting/fishing season noted in the table above are each based on a complete administrative record which, among other detailed documentation, also includes a hunt plan, a compatibility determination (for refuges), and the appropriate National Environmental Policy Act (NEPA; 42 U.S.C. 4321 et seq.) analysis, all of which were the subject of a public review and comment process. These documents are available upon request.

Through these openings and expansions, we are proposing to open or expand hunting or sport fishing on 2,084,538 acres within the National Wildlife Refuge System and the National Fish Hatchery System.

Fish Advisory

For health reasons, anglers should review and follow State-issued consumption advisories before enjoying recreational sport fishing opportunities on Service-managed waters. You can find information about current fish-consumption advisories on the internet at: http://www.epa.gov/fish-tech.

Request for Comments

You may submit comments and materials on this proposed rule by any one of the methods listed in ADDRESSES. We will not accept comments sent by email or fax or to an address not listed in ADDRESSES. We will not consider hand-delivered comments that we do not receive, or mailed comments that are not postmarked, by the date specified in DATES.

We will post your entire comment on http://www.regulations.gov. Before including personal identifying information in your comment, you should be aware that we may make your entire comment—including your personal identifying information—publicly available at any time. While you can ask us in your comment to withhold your personal identifying information from public review, we cannot guarantee that we will be able to do so. We will post all hardcopy comments on http://www.regulations.gov.

Required Determinations

Clarity of This Proposed Rule

Executive Orders 12866 and 12988 and the Presidential Memorandum of June 1, 1998, require us to write all rules in plain language. This means that each rule we publish must:

(a) Be logically organized;

(b) Use the active voice to address readers directly;

(c) Use clear language rather than jargon;

(d) Be divided into short sections and sentences; and

(e) Use lists and tables wherever possible.

If you feel that we have not met these requirements, send us comments by one of the methods listed in ADDRESSES. To better help us revise the rule, your comments should be as specific as possible. For example, you should tell us the numbers of the sections or paragraphs that are unclearly written, which sections or sentences are too long, the sections where you feel lists or tables would be useful, etc.

Regulatory Planning and Review (Executive Orders 12866 and 13563)

Executive Order 12866 provides that the Office of Information and Regulatory Affairs (OIRA) will review all significant rules. OIRA has determined that this rulemaking is not significant.

Executive Order (E.O.) 13563 reaffirms the principles of E.O. 12866 while calling for improvements in the nation's regulatory system to promote predictability, to reduce uncertainty, and to use the best, most innovative, and least burdensome tools for achieving regulatory ends. The executive order directs agencies to consider regulatory approaches that reduce burdens and maintain flexibility and freedom of choice for the public where these approaches are relevant, feasible, and consistent with regulatory objectives. E.O. 13563 emphasizes further that regulations must be based on the best available science and that the rulemaking process must allow for public participation and an open exchange of ideas. We have developed this rule in a manner consistent with these requirements.

Regulatory Flexibility Act

Under the Regulatory Flexibility Act (as amended by the Small Business Regulatory Enforcement Fairness Act [SBREFA] of 1996) (5 U.S.C. 601 et seq.), whenever a Federal agency is required to publish a notice of rulemaking for any proposed or final rule, it must prepare and make available for public comment a regulatory flexibility analysis that describes the effect of the rule on small entities (i.e., small businesses, small organizations, and small government jurisdictions). However, no regulatory flexibility analysis is required if the head of an agency certifies that the rule will not have a significant economic impact on a substantial number of small entities. Thus, for a regulatory flexibility analysis to be required, impacts must exceed a threshold for “significant impact” and a threshold for a “substantial number of small entities.” See 5 U.S.C. 605(b). SBREFA amended the Regulatory Flexibility Act to require Federal agencies to provide a statement of the factual basis for certifying that a rule will not have a significant economic impact on a substantial number of small entities.

This proposed rule would open or expand hunting and sport fishing on 90 NWRs and 1 NFH. As a result, visitor use for wildlife-dependent recreation on these stations will change. If the stations establishing new programs were a pure addition to the current supply of those activities, it would mean an estimated maximum increase of 41,232 user days (one person per day participating in a recreational opportunity; see Table 2). Because the participation trend is flat in these activities since 1991, this increase in supply will most likely be offset by other sites losing participants. Therefore, this is likely to be a substitute site for the activity and not necessarily an increase in participation rates for the activity.

Table 2—Estimated Maximum Change in Recreation Opportunities in 2021-2022
[Dollars in thousands]
Station | Additional hunting days | Additional fishing days | Additional expenditures
Audubon NWR | 10 |  | $0.3
Bald Knob NWR | 30 |  | 1.0
Bayou Sauvage NWR | 344 |  | 11.6
Bayou Teche NWR | 472 |  | 15.9
Big Branch Marsh NWR | 120 |  | 4.0
Big Lake NWR | 2 |  | 0.1
Bill Williams River NWR | 66 |  | 2.2
Bogue Chitto NWR | 45 |  | 1.5
Bond Swamp NWR | 220 | 160 | 13.0
Brazoria NWR | 86 | 365 | 15.7
Cache River NWR | 60 |  | 2.0
Caddo Lake NWR | 87 |  | 2.9
Camas NWR | 250 |  | 8.4
Cape May NWR | 100 |  | 3.4
Cat Island NWR | 45 |  | 1.5
Charles M. Russell NWR | 10 |  | 0.3
Cherry Valley NWR |  |  |
Choctaw NWR | 82 |  | 2.8
Crab Orchard NWR |  | 3,000 | 105.2
Cypress Creek NWR | 15 |  | 0.5
Dale Bumpers White River NWR | 132 |  | 4.4
Delta NWR | 85 |  | 2.9
Desert NWR | 103 |  | 3.5
Don Edwards NWR | 118 |  | 4.0
Eastern Shore of Virginia NWR | 414 |  | 13.9
Elizabeth Hartwell Mason Neck NWR |  | 1,200 | 42.1
Ernest F. Hollings ACE Basin NWR | 14 |  | 0.5
Everglades Headwaters NWR |  |  |
Featherstone NWR | 670 | 1,200 | 64.7
Felsenthal NWR | 1,000 |  | 33.7
Fisherman Island NWR | 150 |  | 5.1
Florida Panther NWR | 6 | 365 | 13.0
Franklin Island NWR | 137 |  | 4.6
Grand Bay NWR | 920 | 730 | 56.6
Great Dismal Swamp NWR | 465 |  | 15.7
Great River NWR |  |  |
Great Swamp NWR | 500 |  | 16.8
Green Lake NFH |  | 365 | 12.8
Hackmatack NWR | 40 | 30 | 2.4
Harbor Island NWR | 62 | 100 | 5.6
Harris Neck NWR | 68 |  | 2.3
Havasu NWR | 89 |  | 3.0
Holla Bend NWR | 100 |  | 3.4
J. Clark Salyer NWR | 10 |  | 0.3
James River NWR | 160 | 1,200 | 47.5
Julia Butler Hansen Refuge | 50 |  | 1.7
Kern NWR | 30 |  | 1.0
Kootenai NWR |  | 50 | 1.8
Lacreek NWR |  | 15 | 0.5
Lake Alice NWR | 10 |  | 0.3
Las Vegas NWR | 28 |  | 0.9
Loess Bluffs NWR | 363 |  | 12.2
Mackay Island NWR | 200 |  | 6.7
Malheur NWR | 232 |  | 7.8
Mandalay NWR | 519 |  | 17.5
Middle Mississippi River NWR | 10 |  | 0.3
Minnesota Valley NWR |  |  |
Missisquoi NWR | 400 |  | 13.5
Moosehorn NWR | 50 |  | 1.7
Muleshoe NWR | 75 | 10 | 2.9
National Elk Refuge | 48 |  | 1.6
Neal Smith NWR | 27 |  | 0.9
Necedah NWR | 30 |  | 1.0
Neches River NWR | 2,161 |  | 72.8
Northern Tallgrass Prairie NWR | 69.6 | 5.48 | 2.5
Occoquan Bay NWR | 280 | 1,200 | 51.5
Ohio River Islands NWR | 530 |  | 17.9
Ottawa NWR | 18 | 160 | 6.2
Ouray NWR | 45 |  | 1.5
Patoka River NWR | 15 | 2 | 0.6
Petit Manan NWR | 700 |  | 23.6
Plum Tree Island NWR |  | 300 | 10.5
Pond Island NWR | 138 |  | 4.6
Presquile NWR | 10 | 1,200 | 42.4
Rappahannock NWR | 497 |  | 16.7
Red River NWR |  |  |
Rice Lake NWR | 48 |  | 1.6
Sam D. Hamilton Noxubee NWR | 7 |  | 0.2
Sequoyah NWR |  | 2,000 | 70.1
Sherburne NWR | 444 |  | 15.0
Silvio O. Conte NWR | 50 | 0 | 1.7
Sunkhaze Meadows NWR | 10 |  | 0.3
Supawna Meadows NWR | 500 |  | 16.8
Tensas River NWR | 16 |  | 0.5
UL Bend NWR | 10 |  | 0.3
Upper Ouachita NWR | 45 |  | 1.5
Wallkill River NWR |  |  |
Wapanocca NWR | 130 | 90 | 7.5
Waubay NWR |  | 15 | 0.5
Wichita Mountains NWR |  | 12,123 | 425.2
William L. Finley NWR | 264 |  | 8.9
Total | 15,347 | 25,885 | 1,424.7

To the extent visitors spend time and money in the area of the station that they would not have spent there anyway, they contribute new income to the regional economy and benefit local businesses. Due to the unavailability of site-specific expenditure data, we use the national estimates from the 2016 National Survey of Fishing, Hunting, and Wildlife Associated Recreation to identify expenditures for food and lodging, transportation, and other incidental expenses. Using the average expenditures for these categories with the maximum expected additional participation of the Refuge System and the Hatchery System yields approximately $1.4 million in recreation-related expenditures (see Table 2, above). By having ripple effects throughout the economy, these direct expenditures are only part of the economic impact of these recreational activities. Using a national impact multiplier for hunting activities (2.51) derived from the report “Hunting in America: An Economic Force for Conservation” and for fishing activities (2.51) derived from the report “Sportfishing in America” yields a total maximum economic impact of approximately $5.4 million (2020 dollars) (Southwick Associates, Inc., 2018). Using a local impact multiplier would yield more accurate and smaller results. However, we employed the national impact multiplier due to the difficulty in developing local multipliers for each specific region.

Since we know that most of the fishing and hunting occurs within 100 miles of a participant's residence, then it is unlikely that most of this spending will be “new” money coming into a local economy; therefore, this spending will be offset with a decrease in some other sector of the local economy. The net gain to the local economies will be no more than $5.4 million, and likely less. Since 80 percent of the participants travel less than 100 miles to engage in hunting and fishing activities, their spending patterns will not add new money into the local economy and, therefore, the real impact will be on the order of about $1.1 million annually.

Small businesses within the retail trade industry (such as hotels, gas stations, taxidermy shops, bait-and-tackle shops, and similar businesses) may be affected by some increased or decreased station visitation. A large percentage of these retail trade establishments in the local communities around NWRs and NFHs qualify as small businesses (see Table 3, below). We expect that the incremental recreational changes will be scattered, and so we do not expect that the rule will have a significant economic effect on a substantial number of small entities in any region or nationally. As noted previously, we expect at most 1.4 million to be spent in total in the refuges' local economies. The maximum increase will be less than three-hundredths of 1 percent for local retail trade spending (see Table 3, below). Table 3 does not include entries for those NWRs and NFHs for which we project no changes in recreation opportunities in 2021-2022; see Table 2, above.

Table 3—Comparative Expenditures for Retail Trade Associated With Additional Station Visitation for 2021-2022
[Thousands, 2020 dollars]
Station/county(ies) | Retail trade in 2017 ¹ | Estimated maximum addition from new activities | Addition as % of total | Establishments in 2017 ¹ | Establishments with fewer than 10 employees in 2017 ¹
Audubon
McLean, ND | $95,006 | $0.3 | <0.01 | 39 | 29
Bald Knob
White, AR | 1,110,661 | 1.0 | <0.01 | 311 | 234
Bayou Sauvage
Orleans, LA | 3,694,534 | 11.6 | <0.01 | 1,343 | 1,021
Bayou Teche
St. Mary, LA | 559,081 | 15.9 | <0.01 | 186 | 145
Big Branch Marsh
St. Tammany, LA | 4,242,548 | 4.0 | <0.01 | 901 | 596
Big Lake
Mississippi, AR | 442,920 | 0.1 | <0.01 | 144 | 115
Bill Williams River
La Paz, AZ | 475,421 | 1.1 | <0.01 | 82 | 59
Mohave, AZ | 3,234,501 | 1.1 | <0.01 | 615 | 397
Bogue Chitto
Washington, LA | 352,900 | 0.5 | <0.01 | 146 | 110
St. Tammany, LA | 4,242,548 | 0.5 | <0.01 | 901 | 596
Pearl River, MS | 693,664 | 0.5 | <0.01 | 186 | 132
Bond Swamp
Bibb, GA | 2,835,352 | 6.5 | <0.01 | 780 | 555
Twiggs, GA | 22,447 | 6.5 | 0.03 | 13 | 11
Brazoria
Brazoria, TX | 4,992,876 | 15.7 | <0.01 | 831 | 546
Cache River
Woodruff, AR | 47,310 | 0.5 | <0.01 | 31 | 26
Monroe, AR | 66,530 | 0.5 | <0.01 | 35 | 27
Jackson, AR | 242,527 | 0.5 | <0.01 | 68 | 48
Prairie, AR | 54,178 | 0.5 | <0.01 | 32 | 23
Caddo Lake
Harrison, TX | 638,384 | 2.9 | <0.01 | 184 | 145
Camas
Jefferson, ID | 221,301 | 8.4 | <0.01 | 56 | 37
Cape May
Cape May, NJ | 2,043,622 | 3.4 | <0.01 | 644 | 502
Cat Island
East Feliciana, LA | 82,906 | 1.5 | <0.01 | 41 | 30
Charles M. Russell
Blaine, MT | 43,638 | <0.1 | <0.01 | 22 | 16
Phillips, MT | 46,381 | <0.1 | <0.01 | 24 | 17
McCone, MT | 17,671 | <0.1 | <0.01 | 9 | 6
Fergus, MT | 166,443 | <0.1 | <0.01 | 62 | 51
Petroleum, MT | D | <0.1 | <0.01 | 3 | 3
Garfield, MT | 14,204 | <0.1 | <0.01 | 4 | 2
Valley, MT | 145,264 | <0.1 | <0.01 | 49 | 39
Choctaw
Choctaw, AL | 95,301 | 2.8 | <0.01 | 55 | 42
Crab Orchard
Williamson, IL | 1,240,677 | 105.2 | 0.01 | 259 | 168
Cypress Creek
Alexander, IL | 19,644 | 0.5 | <0.01 | 18 | 14
Dale Bumpers White River
Arkansas, AR | 319,247 | 1.1 | <0.01 | 94 | 64
Monroe, AR | 66,530 | 1.1 | <0.01 | 35 | 27
Phillips, AR | 156,413 | 1.1 | <0.01 | 79 | 62
Desha, AR | 130,625 | 1.1 | <0.01 | 64 | 49
Delta
Plaquemines, LA | 119,957 | 2.9 | <0.01 | 65 | 52
Desert
Clark, NV | 33,837,749 | 3.5 | <0.01 | 6,178 | 3,828
Don Edwards
Alameda, CA | 28,390,575 | 4.0 | <0.01 | 4,347 | 2,923
Eastern Shore of Virginia
Northampton, VA | 117,772 | 13.9 | 0.01 | 59 | 45
Elizabeth Hartwell Mason Neck
Fairfax, VA | 1,818,140 | 42.1 | <0.01 | 252 | 136
Ernest F. Hollings ACE Basin
Charleston, SC | 9,065,573 | 0.5 | <0.01 | 2,003 | 1,334
Hampton, SC | 178,354 | 0.5 | <0.01 | 76 | 59
Lancaster, SC | 825,599 | 0.5 | <0.01 | 237 | 174
Featherstone, VA
Prince William, VA | 6,705,340 | 64.7 | <0.01 | 1,164 | 683
Felsenthal
Ashley, AR | 193,246 | 11.2 | 0.01 | 68 | 53
Union, AR | 591,376 | 11.2 | <0.01 | 186 | 131
Bradley, AR | 75,395 | 11.2 | 0.01 | 33 | 25
Fisherman Island
Northampton, VA | 117,772 | 5.1 | <0.01 | 59 | 45
Florida Panther
Collier, FL | 7,710,838 | 13.0 | <0.01 | 1,455 | 1,019
Franklin Island
Knox, ME | 760,425 | 4.6 | <0.01 | 256 | 183
Grand Bay
Mobile, AL | 5,921,035 | 28.3 | <0.01 | 1,514 | 1,040
Jackson, MS | 1,410,824 | 28.3 | <0.01 | 407 | 296
Great Dismal Swamp
Sufolk City, VA | 1,225,412 | 7.8 | <0.01 | 229 | 148
Chesapeake City, VA | 4,415,609 | 7.8 | <0.01 | 782 | 445
Great Swamp
Morris, NJ | 11,015,983 | 16.8 | <0.01 | 1,809 | 1,221
Green Lake
Hancock, ME | 1,001,578 | 12.8 | <0.01 | 350 | 261
Hackamatack
McHenry, IL | 4,115,924 | 1.2 | <0.01 | 938 | 607
Walworth, WI | 1,596,199 | 1.2 | <0.01 | 361 | 258
Harbor Island
Chippewa, MI | 521,726 | 5.6 | <0.01 | 148 | 98
Harris Neck
McIntosh, GA | 96,007 | 2.3 | <0.01 | 45 | 35
Havasu
Mohave, AZ | 3,234,501 | 3.0 | <0.01 | 615 | 397
Holla Bend
Pope, AR | 945,241 | 1.7 | <0.01 | 272 | 185
Yell, AR | 132,972 | 1.7 | <0.01 | 50 | 38
J. Clark Salyer
Bottineau, ND | 109,978 | 0.2 | <0.01 | 29 | 21
McHenry, ND | 33,913 | 0.2 | <0.01 | 19 | 14
James River
Prince George, VA | 303,359 | 47.5 | 0.02 | 65 | 42
Julie Butler Hansen
Clatsop, OR | 808,973 | 0.6 | <0.01 | 269 | 215
Columbia, OR | 417,825 | 0.6 | <0.01 | 119 | 77
Wahkiakum, WA | 8,582 | 0.6 | 0.01 | 6 | 5
Kern
Kern, CA | 9,906,906 | 1.0 | <0.01 | 1,966 | 1,250
Kootenai
Boundary, ID | 123,467 | 1.8 | <0.01 | 47 | 37
Lacreek
Meade, SD | 325,901 | 0.5 | <0.01 | 91 | 67
Lake Alice
Bottineau, ND | 109,978 | 0.2 | <0.01 | 29 | 21
McHenry, ND | 33,913 | 0.2 | <0.01 | 19 | 14
Las Vegas
San Miguel, NM | 231,666 | 0.9 | <0.01 | 79 | 49
Loess Bluffs
Holt, MO | 60,133 | 3.1 | 0.01 | 22 | 18
Andrew, MO | 154,801 | 3.1 | <0.01 | 41 | 28
Gentry, MO | 57,342 | 3.1 | 0.01 | 36 | 25
Daviess, MO | 68,607 | 3.1 | <0.01 | 34 | 25
Mackay Island
Currituck, NC | 327,336 | 3.4 | <0.01 | 135 | 109
Virginia Beach City, VA | 6,499,109 | 3.4 | <0.01 | 1,468 | 893
Malheur
Harney, OR | 169,776 | 7.8 | <0.01 | 29 | 17
Mandalay
Terrebonne, LA | 1,964,261 | 17.5 | <0.01 | 475 | 317
Middle Mississippi River
Perry, MO | 294,900 | 0.3 | <0.01 | 82 | 46
Missisquoi
Franklin, VT | 876,359 | 13.5 | <0.01 | 176 | 112
Moosehorn
Washington, ME | 438,713 | 1.7 | <0.01 | 141 | 88
Muleshoe
Bailey, TX | 49,284 | 2.9 | 0.01 | 21 | 15
National Elk Refuge
Teton, WY | 676,935 | 1.6 | <0.01 | 255 | 211
Neal Smith
Jasper, IA | 408,507 | 0.9 | <0.01 | 105 | 73
Necedah
Juneau, WI | 318,073 | 1.0 | <0.01 | 86 | 57
Neches River
Cameron, TX | 4,868,360 | 36.4 | <0.01 | 1,084 | 686
Anderson, TX | 631,510 | 36.4 | 0.01 | 167 | 124
Northern Tallgrass Prairie
Murray, MN | 60,148 | 0.6 | <0.01 | 44 | 33
Kandiyohi, MN | 914,193 | 0.6 | <0.01 | 208 | 145
Clay, MN | 779,998 | 0.6 | <0.01 | 161 | 95
Clay, IA | 504,926 | 0.6 | <0.01 | 102 | 70
Occoquan Bay
Prince William, VA | 6,705,340 | 51.5 | <0.01 | 1,164 | 683
Ohio River Islands
Beaver, PA | 1,717,000 | 4.5 | <0.01 | 495 | 325
Boyd, KY | 903,141 | 4.5 | <0.01 | 236 | 137
Wood, OH | 1,976,330 | 4.5 | <0.01 | 369 | 218
Wood, WV | 1,631,635 | 4.5 | <0.01 | 361 | 210
Ottawa
Ottawa, OH | 467,388 | 6.2 | <0.01 | 133 | 99
Ouray
Uintah, UT | 471,207 | 1.5 | <0.01 | 134 | 88
Patoka River
Pike, IN | 67,144 | 0.3 | <0.01 | 32 | 23
Gibson, IN | 529,720 | 0.3 | <0.01 | 116 | 76
Petit Manan
Washington, ME | 438,713 | 4.7 | <0.01 | 141 | 88
Hancock, ME | 1,001,578 | 4.7 | <0.01 | 350 | 261
Knox, ME | 760,425 | 4.7 | <0.01 | 256 | 183
Lincoln, ME | 511,948 | 4.7 | <0.01 | 204 | 157
Cumberland, ME | 7,424,447 | 4.7 | <0.01 | 1,454 | 936
Plum Tree Island
York, VA | 1,014,306 | 10.5 | <0.01 | 201 | 135
Pond Island
Knox, ME | 760,425 | 4.6 | <0.01 | 256 | 183
Presquile
Chesterfield, VA | 7,122,893 | 42.4 | <0.01 | 958 | 589
Rappahannock
Essex, VA | 233,522 | 3.3 | <0.01 | 65 | 48
King George, VA | 362,404 | 3.3 | <0.01 | 64 | 42
Westmoreland, VA | 122,436 | 3.3 | <0.01 | 44 | 31
Richmond, VA | 2,386,644 | 3.3 | <0.01 | 795 | 578
Caroline, VA | 324,067 | 3.3 | <0.01 | 63 | 48
Rice Lake
Aitkin, MN | 148,260 | 1.6 | <0.01 | 69 | 48
Sam D. Hamilton Noxubee
Noxubee, MS | 65,033 | 0.1 | <0.01 | 40 | 35
Winston, MS | 211,903 | 0.1 | <0.01 | 86 | 67
Oktibbeha, MS | 558,982 | 0.1 | <0.01 | 173 | 130
Sequoyah
Sequoyah, OK | 362,456 | 23.4 | 0.01 | 116 | 87
Muskogee, OK | 958,492 | 23.4 | <0.01 | 263 | 175
Haskell, OK | 154,591 | 23.4 | 0.02 | 37 | 23
Sherburne
Sherburne, MN | 985,715 | 15.0 | <0.01 | 203 | 126
Silvio O. Conte
Coos, NH | 575,506 | 0.6 | <0.01 | 172 | 126
Essex, VT | 14,718 | 0.6 | <0.01 | 18 | 15
Windham, VT | 606,157 | 0.6 | <0.01 | 236 | 171
Sunkhaze Meadows
Waldo, ME | 417,407 | 0.1 | <0.01 | 171 | 131
Kennebec, ME | 2,624,338 | 0.1 | <0.01 | 522 | 320
Penobscot, ME | 3,443,680 | 0.1 | <0.01 | 705 | 445
Supawna Meadows
Salem County, NJ | 607,072 | 16.8 | <0.01 | 174 | 119
Tensas River
Madison, LA | 115,029 | 0.3 | <0.01 | 32 | 20
Tensas, LA | 25,165 | 0.3 | <0.01 | 14 | 12
UL Bend
Phillips, MT | 46,381 | 0.3 | <0.01 | 24 | 17
Upper Ouachita
Union, LA | 184,987 | 0.8 | <0.01 | 56 | 45
Morehouse, LA | 207,578 | 0.8 | <0.01 | 74 | 53
Wapanocca
Crittenden, AR | 702,406 | 7.5 | <0.01 | 149 | 104
Waubay
Day, SD | 86,538 | 0.5 | <0.01 | 30 | 18
Wichita Mountains
Comanche, OK | 1,412,420 | 425.2 | 0.03 | 407 | 274
William L. Finley
Linn, OR | 1,504,418 | 8.9 | <0.01 | 357 | 241
¹ U.S. Census Bureau. “D” denotes sample size too small to report data.

With the small change in overall spending anticipated from this proposed rule, it is unlikely that a substantial number of small entities will have more than a small impact from the spending change near the affected stations. Therefore, we certify that this rule, as proposed, will not have a significant economic effect on a substantial number of small entities as defined under the Regulatory Flexibility Act (5 U.S.C. 601 et seq.). A regulatory flexibility analysis is not required. Accordingly, a small entity compliance guide is not required.

Small Business Regulatory Enforcement Fairness Act

The proposed rule is not a major rule under 5 U.S.C. 804(2), the Small Business Regulatory Enforcement Fairness Act. We anticipate no significant employment or small business effects. This proposed rule:

a. Would not have an annual effect on the economy of $100 million or more. The minimal impact would be scattered across the country and would most likely not be significant in any local area.

b. Would not cause a major increase in costs or prices for consumers; individual industries; Federal, State, or local government agencies; or geographic regions. This proposed rule would have only a slight effect on the costs of hunting opportunities for Americans. If the substitute sites are farther from the participants' residences, then an increase in travel costs would occur. The Service does not have information to quantify this change in travel cost but assumes that, since most people travel less than 100 miles to hunt, the increased travel cost would be small. We do not expect this proposed rule to affect the supply or demand for hunting opportunities in the United States, and, therefore, it should not affect prices for hunting equipment and supplies, or the retailers that sell equipment.

c. Would not have significant adverse effects on competition, employment, investment, productivity, innovation, or the ability of U.S.-based enterprises to compete with foreign-based enterprises. This proposed rule represents only a small proportion of recreational spending at NWRs. Therefore, if adopted, this rule would have no measurable economic effect on the wildlife-dependent industry, which has annual sales of equipment and travel expenditures of $72 billion nationwide.

Unfunded Mandates Reform Act

Since this proposed rule would apply to public use of federally owned and managed refuges, it would not impose an unfunded mandate on State, local, or Tribal governments or the private sector of more than $100 million per year. The proposed rule would not have a significant or unique effect on State, local, or Tribal governments or the private sector. A statement containing the information required by the Unfunded Mandates Reform Act (2 U.S.C. 1531 et seq.) is not required.

Takings (E.O. 12630)

In accordance with E.O. 12630, this proposed rule would not have significant takings implications. This proposed rule would affect only visitors at NWRs and NFHs, and would describe what they can do while they are on a Service station.

Federalism (E.O. 13132)

As discussed under Regulatory Planning and Review and Unfunded Mandates Reform Act, above, this proposed rule would not have sufficient federalism implications to warrant the preparation of a federalism summary impact statement under E.O. 13132. In preparing this proposed rule, we worked with State governments.

Civil Justice Reform (E.O. 12988)

In accordance with E.O. 12988, the Department of the Interior has determined that this proposed rule would not unduly burden the judicial system and that it meets the requirements of sections 3(a) and 3(b)(2) of the Order.

Energy Supply, Distribution or Use (E.O. 13211)

On May 18, 2001, the President issued E.O. 13211 on regulations that significantly affect energy supply, distribution, and use. E.O. 13211 requires agencies to prepare Statements of Energy Effects when undertaking certain actions. Because this proposed rule would add 7 NWRs to the list of refuges open to hunting and sport fishing, open or expand hunting or sport fishing at 83 other NWRs, and open 1 NFH to sport fishing, it is not a significant regulatory action under E.O. 12866, and we do not expect it to significantly affect energy supplies, distribution, or use. Therefore, this action is not a significant energy action, and no Statement of Energy Effects is required.

Consultation and Coordination With Indian Tribal Governments (E.O. 13175)

In accordance with E.O. 13175, we have evaluated possible effects on federally recognized Indian tribes and have determined that there are no effects. We coordinate recreational use on NWRs and NFHs with Tribal governments having adjoining or overlapping jurisdiction before we propose the regulations.

Paperwork Reduction Act (PRA)

This proposed rule contains existing and new information collections. All information collections require approval by the Office of Management and Budget (OMB) under the Paperwork Reduction Act of 1995 (44 U.S.C. 3501 et seq.). We may not conduct or sponsor and you are not required to respond to a collection of information unless it displays a currently valid OMB control number. The OMB has reviewed and approved the information collection requirements associated with hunting and sport fishing activities across the National Wildlife Refuge System and National Fish Hatchery System and assigned the following OMB control numbers:

• 1018-0140, “Hunting and Sport Fishing Application Forms and Activity Reports for National Wildlife Refuges, 50 CFR 25.41, 25.43, 25.51, 26.32, 26.33, 27.42, 30.11, 31.15, 32.1 to 32.72” (Expires 12/31/2023),

• 1018-0102, “National Wildlife Refuge Special Use Permit Applications and Reports, 50 CFR 25, 26, 27, 29, 30, 31, 32, & 36” (Expires 01/31/2024),

• 1018-0135, “Electronic Federal Duck Stamp Program” (Expires 01/31/2023),

• 1018-0093, “Federal Fish and Wildlife Permit Applications and Reports—Management Authority; 50 CFR 13, 15, 16, 17, 18, 22, 23” (Expires 08/31/2023), and

• 1024-0252, “The Interagency Access Pass and Senior Pass Application Processes” (Expires 09/30/2023).

In accordance with the PRA and 5 CFR 1320.8(d)(1), we provide the general public and other Federal agencies with an opportunity to comment on our proposal to revise OMB control number 1018-0140. This helps us assess the impact of our information collection requirements and minimize the public's reporting burden. It also helps the public understand our information collection requirements and provide the requested data in the desired format.

The Service's proposed rule (RIN 1018-BF09) would open, for the first time, hunting and sport fishing on seven NWRs, open or expand hunting and sport fishing at 83 other NWRs, and open hunting or sport fishing on one unit of the NFH. The additional burden associated with these new or expanded hunting and sport fishing opportunities, as well as the revised information collections identified below, require OMB approval.

Many refuges offer hunting and sport fishing activities without collecting any information. Those refuges that do collect hunter and angler information do so seasonally, usually once a year at the beginning of the hunting or sport fishing season. Some refuges may elect to collect the identical information via a non-form format (letter, email, or through discussions in person or over the phone). Some refuges provide the form electronically over the internet. In some cases, because of high demand and limited resources, we often provide hunt opportunities by lottery, based on dates, locations, or type of hunt.

The proposed changes to the existing information collections identified below require OMB approval:

Hunting Applications/Permit (FWS Form 3-2439, Hunt Application—National Wildlife Refuge System)

Form 3-2439 collects the following information from individuals seeking hunting experiences on the NWRs:

• Lottery Application: Refuges who administer hunting via a lottery system will use Form 3-2439 as the lottery application. If the applicant is successful, the completed Form 3-2439 also serves as their permit application, avoiding a duplication of burden on the public filling out two separate forms.

• Date of application: We often have application deadlines and this information helps staff determine the order in which we received the applications. It also ensures that the information is current.

• Methods: Some refuges hold multiple types of hunts, i.e., archery, shotgun, primitive weapons, etc. We ask for this information to identify which opportunity(ies) a hunter is applying for.

• Species Permit Type: Some refuges allow only certain species, such as moose, elk, or bighorn sheep to be hunted. We ask hunters to identify which species hunt they are applying for.

• Applicant information: We collect name, address, phone number(s), and email so we can contact the applicant/permittee either during the application process, when the applicant is successful in a lottery drawing, or after receiving a permit.

• Party Members: Some refuges allow the permit applicant to include additional hunters in their group. We collect the names of all additional hunters, when allowed by the refuge.

• Parent/Guardian Contact Information: We collect name, relationship, address, phone number(s), and email for a parent/guardian of youth hunters. We ask for this information in the event of an emergency.

• Date: We ask hunters for their preferences for hunt dates.

• Hunt/Blind Location: We ask hunters for their preferences for hunt units, areas, or blinds.

• Special hunts: Some refuges hold special hunts for youth, hunters who are disabled, or other underserved populations. We ask hunters to identify if they are applying for these special hunts. For youth hunts, we ask for the age of the hunter at the time of the hunt.

• Signature and date: To confirm that the applicant (and parent/guardian, if a youth hunter) understands the terms and conditions of the permit.

Proposed revisions to FWS Form 3-2439:

With this submission, we updated the title of the form to include the NFHs. We also updated the Privacy Act Statement on the form to include applicability to all hunting permits (rather than migratory bird hunting) and to also include references to authorized hunting on the NFHs.

Harvest/Fishing Activity Reports

We have four harvest/fishing activity reports, depending on the species. We ask users to report on their success after their experience so that we can evaluate hunt quality and resource impacts. We propose to use the following activity reports, which we distribute during appropriate seasons, as determined by State or Federal regulations:

• FWS Form 3-2359 (Big Game Harvest Report).

• FWS Form 3-2360 (Sport Fishing Report).

• FWS Form 3-2361 (Migratory Bird Hunt Report).

• FWS Form 3-2362 (Upland/Small Game/Furbearer Report).

We collect the following information on the harvest reports:

• Name of refuge and location: We ask this to track responses by location, which is important when we manage more than one refuge or activity area from one office.

• Date: We ask when the hunter/angler participated in the activity. This helps us identify use trends so we have resources available.

• Hours/Time in/out: We ask this to determine how long the hunter/angler participated in the activity. We also use this to track use so we can allocate resources appropriately.

• Name, City, State: We ask for a name so we can identify the user. We ask for residence information to help establish use patterns (if users are local or traveling).

• Number harvested/caught based on species: We ask this to determine the impacts on wildlife/fish populations, relative success, and quality of experience.

• Species harvested/caught: We ask this to determine the impacts on wildlife/fish populations, relative success, and quality of experience.

Proposed revisions to harvest activity reports:

With this submission, we propose a new harvest form (FWS Form 3-2542, “Hunter Harvest Report”) to replace FWS Forms 3-2359, 3-2361, and 3-2362 to simplify reporting requirements and to reduce burden on the public. In addition to the fields previously approved by OMB on the original three harvest report forms, we added the following additional fields to aid the refuge in management of the reports:

• State issued hunter identification/license number (NOTE: Refuges/hatcheries that rely on the State agency to issue hunting permits are not required to collect the permittee's personal identifying information (PII) on the harvest form. Those refuges/hatcheries may opt to collect only the State ID number assigned to the hunter in order to match harvest data with their issued permit. Refuges/hatcheries will collect either hunter PII or State-issued ID#, but not both.)

• Species observed—Data will be used by refuge/hatchery staff to document the presence of rare or unusual species.

• Permit number/type—Data will be used to link the harvest report to the issued permit.

• Hunt Tag Number—Data will be used to link the harvest report to the species-specific hunt tag.

• Number of youth (under 18) in party—Data will be used to better understand volume of youth hunting on a refuge/hatchery. Specific hunter names are not collected, just total number of youths in hunting party.

• Harvested by—Data will be used to determine ratio of adults to youth hunters. Specific hunter names are not collected

• Species observed—Data will be used by a refuge/hatchery to determine the presence of any unusual species (e.g., threatened or endangered species, or invasive species).

Self-Clearing Check-in Permit (FWS Form 3-2405)

FWS Form 3-2405 has three parts:

• Self-Clearing Daily Check-in Permit. Each user completes this portion of the form (date of visit, name, and telephone numbers) and deposits it in the permit box prior to engaging in any activity on the refuge.

• Self-Clearing Daily Visitor Registration Permit. Each user must complete the front side of the form (date, name, city, State, zip code, and purpose of visit) and carry this portion while on the refuge. At the completion of the visit, each user must complete the reverse side of the form (number of hours on refuge, harvest information (species and number), harvest method, angler information (species and number), and wildlife sighted (e.g., black bear and hog)) and deposit it in the permit box.

• Self-Clearing Daily Vehicle Permit. The driver and each user traveling in the vehicle must complete this portion (date) and display in clear view in the vehicle while on the refuge.

We use FWS Form 3-2405 to collect:

• Information on the visitor (name, address, and contact information). We use this information to identify the visitor or driver/passenger of a vehicle while on the refuge. This is extremely valuable information should visitors become lost or injured. Law enforcement officers can easily check vehicles for these cards in order to determine a starting point for the search or to contact family members in the event of an abandoned vehicle. Having this information readily available is critical in a search and rescue situation.

• Purpose of visit (hunting, sport fishing, wildlife observation, wildlife photography, auto touring, birding, hiking, boating/canoeing, visitor center, special event, environmental education class, volunteering, other recreation). This information is critical in determining public use participation in wildlife management programs. This not only allows the refuge to manage its hunt and other visitor use programs, but also to increase and/or improve facilities for non-consumptive uses that are becoming more popular on refuges. Data collected will also help managers better allocate staff and resources to serve the public as well as develop annual performance measures.

• Success of harvest by hunters/anglers (number and type of harvest/caught). This information is critical to wildlife management programs on refuges. Each refuge will customize the form by listing game species and incidental species available on the refuge, hunting methods allowed, and data needed for certain species (e.g., for deer, whether itis a buck or doe and the number of points; or for turkeys, the weight and beard and spur lengths).

• Visitor observations of incidental species. This information will help managers develop annual performance measures and it provides information to help develop resource management planning.

• Photograph of animal harvested (specific refuges only). This requirement documents the sex of animal prior to the hunter being eligible to harvest the opposite sex (where allowed).

• Date of visit and/or area visited.

• Comments. We encourage visitors to comment on their experience.

Proposed revisions to FWS Form 3-2405:

With this submission, we added vehicle license plate number, state issued, and make/model of vehicle fields as optional fields for refuges/hatcheries. This information is required by law enforcement purposes for search and rescue/emergency response activities, as well as to verify ownership of vehicles in the event of damage on the refuge/hatchery, accidents, or other related law enforcement purposes.

We will not propose any changes to the remaining information collections identified below currently approved by OMB:

Sport Fishing Application/Permit (FWS Form 3-2358, “Sport Fishing-Shrimping-Crabbing-Frogging Permit Application”)

Form 3-2358 allows the applicant to choose multiple permit activities, and requests the applicant provide the state fishing license number. The form provides the refuge with more flexibility to insert refuge-specific requirements/instructions, along with a permit number and validity dates for season issued.

We collect the following information from individuals seeking sport fishing experiences:

• Date of application: We often have application deadlines and this information helps staff determine the order in which we received the applications. It also ensures that the information is current.

• State fishing license number: We ask for this information to verify the applicant is legally licensed by the state (where required).

• Permit Type: On sport fishing permits, we ask what type of activity (crabbing, shrimping, frogging, etc.) is being applied for.

• Applicant information: We collect name, address, phone number(s), and email so we can contact the applicant/permittee either during the application process or after receiving a permit.

• Signature and date: To confirm that the applicant (and parent/guardian, if a youth hunter) understands the terms and conditions of the permit.

Labeling/Marking Requirements

As a condition of the permit, some refuges require permittees to label hunting and/or sport fishing gear used on the refuge. This equipment may include items such as the following: Tree stands, blinds, or game cameras; hunting dogs (collars); flagging/trail markers; boats; and/or sport fishing equipment such as jugs, trotlines, and crawfish or crab traps. Refuges require the owner label their equipment with their last name, the state issued hunting/fishing license number, and/or hunting/fishing permit number. Refuges may also require equipment for youth hunters include “YOUTH” on the label. This minimal information is necessary in the event the refuge needs to contact the owner.

Required Notifications

On occasion, hunters may find their game has landed outside of established hunting boundaries. In this situation, hunters must notify an authorized refuge employee to obtain consent to retrieve the game from an area closed to hunting or entry only upon specific consent. Certain refuges also require hunters to notify the refuge manager when hunting specific species (e.g., black bear, bobcat, or eastern coyote) with trailing dogs. Refuges encompassing privately owned lands, referred to as “easement overlay refuges” or “limited-interest easement refuges,” may also require the hunter obtain written or oral permission from the landowner prior to accessing the land.

Due to the wide range of hunting and sport fishing opportunities offered on the NWRs and NFHs, the refuges and fish hatcheries may customize the forms to remove any fields that are not pertinent to the recreational opportunities they offer. Refuges will not add any new fields to the forms, but the order of the fields may be reorganized. Refuges may also customize the forms with instructions and permit conditions specific to a particular unit for the hunting/sport fishing activity.

Title of Collection: Hunting and Fishing Application Forms and Activity Reports for National Wildlife Refuges and National Fish Hatcheries, 50 CFR 32 and 71.

OMB Control Number: 1018-0140.

Form Number: FWS Forms 3-2358,3-2360, 3-2405, 3-2439, and 3-2542.

Type of Review: Revision of a currently approved collection.

Respondents/Affected Public: Individuals and households.

Respondent's Obligation: Required to Obtain or Retain a Benefit.

Frequency of Collection: On occasion.

Estimated Annual Non-hour Burden Cost: None.

Activity | Annual number of responses | Completion time per response (minutes) | Total annual burden hours
Fish/Crab/Shrimp Application/Permit (Form 3-2358) | 2,659 | 5 | 222
Harvest Reports (Forms 3-2360 and 3-2542 NEW) | 590,986 | 15 | 147,747
Hunt Application/Permit (Form 3-2439) | 360,998 | 10 | 60,166
Labeling/Marking Requirements | 2,326 | 10 | 388
Required Notifications | 489 | 30 | 245
Self-Clearing Check-In Permit (Form 3-2405) | 672,945 | 5 | 56,079
Totals | 1,630,403 |  | 264,847

The above burden estimates indicate an expected total of 1,630,403 responses and 264,847 burden hours across all of our forms. These totals reflect expected increases of 24,331 responses and 3,963 burden hours relative to our previous information collection request. We expect such burden increases as a direct result of the increased number of hunting and fishing opportunities on Service stations under the proposed rule.

As part of our continuing effort to reduce paperwork and respondent burdens, and in accordance with 5 CFR 1320.8(d)(1), we invite the public and other Federal agencies to comment on any aspect of this proposed information collection, including:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) Ways to minimize the burden of the collection of information on those who are to respond, including through the use of appropriate automated, electronic, mechanical, or other technological collection techniques or other forms of information technology, e.g., permitting electronic submission of response.

Send your comments and suggestions on this information collection by the date indicated under Information Collection Requirements in DATES to the Service Information Collection Clearance Officer, U.S. Fish and Wildlife Service, 5275 Leesburg Pike, MS: PRB (JAO/3W), Falls Church, VA 22041-3803 (mail); or Info_Coll@fws.gov (email). Please reference OMB Control Number 1018-0140 in the subject line of your comments.

Endangered Species Act Section 7 Consultation

We comply with section 7 of the Endangered Species Act of 1973, as amended (16 U.S.C. 1531 et seq.), when developing comprehensive conservation plans and step-down management plans—which would include hunting and/or fishing plans—for public use of refuges and hatcheries, and prior to implementing any new or revised public recreation program on a station as identified in 50 CFR 26.32. We have completed section 7 consultation on each of the affected stations.

National Environmental Policy Act

We analyzed this proposed rule in accordance with the criteria of the National Environmental Policy Act of 1969 (NEPA; 42 U.S.C. 4332(C)), 43 CFR part 46, and 516 Departmental Manual (DM) 8.

A categorical exclusion from NEPA documentation applies to publication of proposed amendments to station-specific hunting and fishing regulations because they are technical and procedural in nature, and the environmental effects are too broad, speculative, or conjectural to lend themselves to meaningful analysis (43 CFR 46.210 and 516 DM 8). Concerning the actions that are the subject of this proposed rulemaking, we have complied with NEPA at the project level when developing each proposal. This is consistent with the Department of the Interior instructions for compliance with NEPA where actions are covered sufficiently by an earlier environmental document (43 CFR 46.120).

Prior to the addition of a refuge or hatchery to the list of areas open to hunting and fishing in 50 CFR parts 32 and 71, we develop hunting and fishing plans for the affected stations. We incorporate these proposed station hunting and fishing activities in the station comprehensive conservation plan and/or other step-down management plans, pursuant to our refuge planning guidance in 602 Fish and Wildlife Service Manual (FW) 1, 3, and 4. We prepare these comprehensive conservation plans and step-down plans in compliance with section 102(2)(C) of NEPA, the Council on Environmental Quality's regulations for implementing NEPA in 40 CFR parts 1500 through 1508, and the Department of Interior's NEPA regulations 43 CFR part 46. We invite the affected public to participate in the review, development, and implementation of these plans. Copies of all plans and NEPA compliance are available from the stations at the addresses provided below.

Available Information for Specific Stations

Individual refuge and hatchery headquarters have information about public use programs and conditions that apply to their specific programs and maps of their respective areas. To find out how to contact a specific refuge or hatchery, contact the appropriate Service office for the States listed below:

Hawaii, Idaho, Oregon, and Washington. Regional Chief, National Wildlife Refuge System, U.S. Fish and Wildlife Service, Eastside Federal Complex, Suite 1692, 911 NE 11th Avenue, Portland, OR 97232-4181; Telephone (503) 231-6203.

Arizona, New Mexico, Oklahoma, and Texas. Regional Chief, National Wildlife Refuge System, U.S. Fish and Wildlife Service, P.O. Box 1306, 500 Gold Avenue SW, Albuquerque, NM 87103; Telephone (505) 248-6635.

Illinois, Indiana, Iowa, Michigan, Minnesota, Missouri, Ohio, and Wisconsin. Regional Chief, National Wildlife Refuge System, U.S. Fish and Wildlife Service, 5600 American Blvd. West, Suite 990, Bloomington, MN 55437-1458; Telephone (612) 713-5476.

Alabama, Arkansas, Florida, Georgia, Kentucky, Louisiana, Mississippi, North Carolina, South Carolina, Tennessee, Puerto Rico, and the Virgin Islands. Regional Chief, National Wildlife Refuge System, U.S. Fish and Wildlife Service, 1875 Century Boulevard, Atlanta, GA 30345; Telephone (404) 679-7356.

Connecticut, Delaware, District of Columbia, Maine, Maryland, Massachusetts, New Hampshire, New Jersey, New York, Pennsylvania, Rhode Island, Vermont, Virginia, and West Virginia. Regional Chief, National Wildlife Refuge System, U.S. Fish and Wildlife Service, 300 Westgate Center Drive, Hadley, MA 01035-9589; Telephone (413) 253-8307.

Colorado, Kansas, Montana, Nebraska, North Dakota, South Dakota, Utah, and Wyoming. Regional Chief, National Wildlife Refuge System, U.S. Fish and Wildlife Service, 134 Union Blvd., Lakewood, CO 80228; Telephone (303) 236-4377.

Alaska. Regional Chief, National Wildlife Refuge System, U.S. Fish and Wildlife Service, 1011 E Tudor Rd., Anchorage, AK 99503; Telephone (907) 786-3545.

California and Nevada. Regional Chief, National Wildlife Refuge System, U.S. Fish and Wildlife Service, 2800 Cottage Way, Room W-2606, Sacramento, CA 95825; Telephone (916) 767-9241.

Primary Author

Christian Myers, Division of Natural Resources and Conservation Planning, National Wildlife Refuge System, is the primary author of this rulemaking document.

List of Subjects

50 CFR Part 32

Fishing, Hunting, Reporting and recordkeeping requirements, Wildlife, Wildlife refuges.

50 CFR Part 71

Fish, Fishing, Wildlife.

Proposed Regulation Promulgation

For the reasons set forth in the preamble, we propose to amend title 50, chapter I, subchapters C and E of the Code of Federal Regulations as follows:

SUBCHAPTER C—THE NATIONAL WILDLIFE REFUGE SYSTEM

PART 32—HUNTING AND FISHING

1. The authority citation for part 32 continues to read as follows:

Authority: 5 U.S.C. 301; 16 U.S.C. 460k, 664, 668dd-668ee, and 715i; Pub. L. 115-20, 131 Stat. 86.

2. Amend § 32.7 by:

a. Redesignating paragraphs (i)(6) through (15) as paragraphs (i)(7) through (16) and adding a new paragraph (i)(6);

b. Revising paragraph (s);

c. Redesignating paragraphs (qq)(12) through (14) as paragraphs (qq)(14) through (16) and adding new paragraphs (qq)(12) and (13); and

d. Redesignating paragraphs (tt)(5) through (12) as paragraphs (tt)(7) through (14) and adding new paragraphs (tt)(5) and (6).

The additions and revision read as follows:

§ 32.7 What refuge units are open to hunting and/or sport fishing?

* * * * *

(i) * * *

(6) Florida Panther National Wildlife Refuge.

* * * * *

(s) Maine. (1) Franklin Island National Wildlife Refuge.

(2) Moosehorn National Wildlife Refuge.

(3) Petit Manan National Wildlife Refuge.

(4) Pond Island National Wildlife Refuge.

(5) Rachel Carson National Wildlife Refuge.

(6) Sunkhaze Meadows National Wildlife Refuge.

(7) Umbagog National Wildlife Refuge.

* * * * *

(qq) * * *

(12) Muleshoe National Wildlife Refuge.

(13) Neches River National Wildlife Refuge.

* * * * *

(tt) * * *

(5) Featherstone National Wildlife Refuge.

(6) Fisherman Island National Wildlife Refuge.

* * * * *

3. Amend § 32.20 by:

a. Adding paragraph (c)(1);

b. Revising paragraphs (c)(2) and (3);

c. Removing paragraph (c)(4)(ii); and

d. Redesignating paragraphs (c)(4)(iii) through (v) as paragraphs (c)(4)(ii) through (iv).

The addition and revisions read as follows:

§ 32.20 Alabama.

* * * * *

(c) Choctaw National Wildlife Refuge—(1) Migratory game bird hunting. We allow hunting of duck, light and dark geese, coot, and merganser on designated areas of the refuge subject to the following conditions:

(i) We only allow migratory game bird hunting during the Special Youth, Veteran, and Active Military Personnel Waterfowl Hunting Days determined by the State. Regular waterfowl season shooting hours, bag limits, and legal arms and ammunition apply to the special days.

(ii) You must remove all decoys, blind materials, and harvested game from the refuge (see § 27.93 of this chapter) by 1 p.m. each day.

(iii) Hunters may enter the refuge at 4 a.m. and must stop hunting at 12 p.m. (noon) each day.

(iv) We allow the use of dogs for retrieval of migratory birds.

(v) We allow the incidental take of coyote, beaver, opossum, nutria, raccoon, and feral hog during any refuge hunt with the weapons legal for that hunt, as governed by the State of Alabama.

(2) Upland game hunting. We allow hunting of squirrel and rabbit, and incidental take of coyote, beaver, raccoon, opossum, and nutria, on designated areas of the refuge subject to the following conditions:

(i) We prohibit leaving unattended personal property, including, but not limited to, boats or vehicles of any type, geocaches, lumber, and cameras, overnight on the refuge (see § 27.93 of this chapter).

(ii) All persons age 15 or younger, while hunting on the refuge, must be in the presence and under direct supervision of a licensed or exempt hunter age 21 or older. A licensed hunter supervising a youth must hold a valid State license for the species being hunted. One adult may supervise no more than two youth hunters.

(iii) We allow the use of dogs when hunting squirrel and rabbit.

(iv) Hunters may only hunt during designated days and times.

(v) The condition set forth at paragraph (c)(1)(v) of this section applies.

(3) Big game hunting. We allow hunting of white-tailed deer and incidental take of feral hog subject to the following conditions:

(i) The conditions set forth at paragraphs (c)(1)(v), and (c)(2)(i) and (ii) of this section apply.

(ii) Deer hunters may place one portable stand or blind on the refuge for use while deer hunting, but only during the open deer season. The stand must be clearly labeled with the hunter's State hunting license number. You may leave the stand or blind on the refuge overnight during the deer season.

(iii) While climbing a tree, installing a tree stand that uses climbing aids, or hunting from a tree stand on the refuge, hunters must use a fall-arrest system (full body harness) that is manufactured to the Tree Stand Manufacturers Association's standards.

(iv) Deer hunts are archery only except during the State Special Opportunity Areas (SOA) hunt.

(v) The State SOA hunt will occur 4 days per year on the refuge as specified by State SOA regulations.

(vi) Hunters must be selected for and possess a State limited quota permit in order to participate in the State SOA hunt on the refuge.

(vii) We allow the use of muzzleloaders only during the State SOA hunt.

* * * * *

4. Amend § 32.22 by:

a. Revising paragraphs (a)(1) through (3), (b)(1)(iii), (c)(1)(i), (c)(2) introductory text, (c)(3)(ii), and (e);

b. Adding paragraphs (h)(1)(iv) and (v); and

c. Revising paragraphs (h)(2)(ii) and (iii), and (h)(3)(ii).

The revisions and additions read as follows:

§ 32.22 Arizona.

* * * * *

(a) * * *

(1) Migratory game bird hunting. We allow hunting of mourning and white-winged dove on designated areas of the refuge subject to the following conditions:

(i) We allow only shotguns and archery equipment for hunting.

(ii) We prohibit hunting within 50 yards (45 meters) of any road or trail open to public use and within ¼ mile (402 meters) of any building.

(iii) You must remove boats, equipment, temporary blinds, stands, etc., at the end of each day's activities (see § 27.93 of this chapter).

(iv) Hunters may enter the refuge ½ hour before legal sunrise and must leave the refuge no later than ½ hour after legal sunset.

(2) Upland game hunting. We allow hunting of Gambel's quail, Eurasian collared-dove, cottontail rabbit, coyote, gray fox, and kit fox on designated areas of the refuge subject to the following conditions:

(i) The conditions set forth at paragraphs (a)(1)(i) through (iv) of this section apply, except that we also allow muzzleloading shotguns for cottontail rabbit hunting.

(ii) We allow hunting of Gambel's quail in alignment with the State quail season.

(iii) We allow hunting of cottontail rabbit from September through February aligning with the beginning of the State dove season and the end of the State quail season.

(iv) We allow hunting of Eurasian collared-dove during the State mourning and white-winged dove season.

(v) We prohibit night hunting from ½ hour after legal sunset until ½ hour before legal sunrise the following day.

(3) Big game hunting. We allow hunting of desert bighorn sheep and javelina on designated areas of the refuge subject to the following conditions:

(i) The conditions set forth at paragraphs (a)(1)(ii) through (iv) of this section apply.

(ii) We allow the use of rifles, muzzleloaders, and archery for desert bighorn sheep hunting.

(iii) We allow shotguns shooting shot and slugs, and archery equipment for javelina hunting.

* * * * *

(b) * * *

(1) * * *

(iii) We allow the use of dogs when hunting.

* * * * *

(c) * * *

(1) * * *

(i) We require hunters to obtain a visitor access permit (Department of Defense form/requirement) from the refuge.

* * * * *

(2) Upland game hunting. We allow hunting of Gambel's quail, Eurasian collared-dove, desert cottontail rabbit, antelope jackrabbit and black-tailed jackrabbit, coyote, bobcat, and kit and gray fox in designated areas of the refuge subject to the following conditions:

* * * * *

(3) * * *

(ii) We require Special Use Permits for all guides (FWS Form 3-1383-C), stock animals (FWS Form 3-1383-G), and bighorn sheep hunters (FWS Form 3-1383-G).

* * * * *

(e) Havasu National Wildlife Refuge—(1) Migratory game bird hunting. We allow hunting of mourning and white-winged dove, duck, American coot, common gallinule, goose, and snipe on designated areas of the refuge subject to the following conditions:

(i) We prohibit falconry.

(ii) We allow only shotguns, crossbows, and archery equipment for hunting.

(iii) You must remove all decoys, boats, trash items, cameras, temporary blinds, stands, and other equipment at the end of each day's activities (see §§ 27.93 and 27.94 of this chapter).

(iv) We allow the use of dogs when hunting.

(v) The following conditions apply to Pintail Slough (Quota Hunt Area):

(A) We require a fee for Quota waterfowl hunting.

(B) We limit the number of persons at each waterfowl hunt blind or field to four. Observers cannot hold shells or guns for hunting unless in possession of a valid State hunting license and stamps.

(C) Waterfowl hunters must hunt within the designated boundaries of their assigned blind or field.

(D) You may use only native vegetation or materials for making or fixing hunt blinds.

(E) We allow waterfowl hunting on Wednesdays, Saturdays, and Sundays. Waterfowl hunting ends at 2 p.m. MST (Mountain Standard Time). Hunters must be out of the Pintail Slough area by 3 p.m. MST.

(F) We allow dove hunting at the Pintail Slough Quota Hunt Area outside the general State waterfowl season.

(2) Upland game hunting. We allow hunting of Gambel's quail, cottontail rabbit, Eurasian collared-dove, African collared-dove, black-tailed jackrabbit, bobcat, coyote, gray fox, and kit fox on designated areas of the refuge subject to the following conditions:

(i) The conditions set forth at paragraphs (e)(1)(i) through (iv) of this section apply, except that we also allow pneumatic weapons, muzzleloaders, and hand guns for upland game hunting.

(ii) We prohibit night hunting from ½ hour after legal sunset until ½ hour before legal sunrise the following day.

(iii) We allow hunting of Gambel's quail, cottontail rabbit, Eurasian collared-dove, African collared-dove, black-tailed jackrabbit, bobcat, coyote, gray fox, and kit fox from September 1-March 15.

(iv) We allow the incidental take of Gambel's quail, cottontail rabbit, Eurasian collared-dove, African collared-dove, black-tailed jackrabbit, bobcat, coyote, gray fox, and kit fox in the Pintail Slough Quota Hunt Area during the general State waterfowl season by hunters possessing a valid permit (FWS 3-2439) at their designated waterfowl hunt blind or field.

(3) Big game hunting. We allow hunting of desert bighorn sheep and the incidental take of feral hog on designated areas of the refuge subject to the following conditions:

(i) The conditions set forth at paragraphs (e)(1)(i) and (iii) of this section apply.

(ii) We allow only rifles for desert bighorn sheep hunting.

(4) Sport fishing. We allow fishing on designated areas of the refuge subject to the following conditions:

(i) The condition set forth at paragraph (e)(1)(iii) of this section applies.

(ii) We prohibit overnight boat mooring and shore anchoring unless actively fishing, as governed by State regulations.

* * * * *

(h) * * *

(1) * * *

(iv) You must remove all equipment, cameras, temporary blinds, stands, etc., at the end of each day's activities (see § 27.93 of this chapter).

(v) We allow Eurasian collared-dove hunting only during mourning and white-winged dove seasons.

(2) * * *

(ii) We prohibit night hunting from ½ hour after legal sunset until ½ hour before legal sunrise the following day.

(iii) We allow quail hunting during State seasons. For all other upland game species, we only allow hunting when a species season dates overlap with a general or archery State deer or javelina hunt season, except for youth-only seasons.

(3) * * *

(ii) We allow hunting of black bear only when the State season dates overlap with a general or archery State deer or javelina hunt season, except for youth-only seasons.

* * * * *

5. Amend § 32.23 by revising paragraphs (a) through (f), and (i) to read as follows:

§ 32.23 Arkansas.

* * * * *

(a) Bald Knob National Wildlife Refuge—(1) Migratory game bird hunting. We allow hunting of duck, goose, coot, merganser, snipe, woodcock, rail, gallinule, crow, and dove on designated areas of the refuge subject to the following conditions:

(i) We require a signed refuge hunting permit (FWS Form 3-2439). Anyone on the refuge in possession of hunting equipment must sign and possess the permit (FWS Form 3-2439) at all times.

(ii) During the quota gun deer hunt, we close the refuge to all other hunts and public entry.

(iii) Hunters may enter the refuge beginning at 4 a.m. Except when hunting applicable goose species during the State Conservation Order, waterfowl hunters must exit the refuge by 1 p.m. All other hunters, including those hunting applicable goose species during the State Conservation Order, must exit the refuge no later than 1 hour after legal sunset.

(iv) We allow waterfowl hunting until 12 p.m. (noon), except that during the State Conservation Order, you may hunt for applicable goose species until legal sunset. Snipe, woodcock, rail, gallinule, crow, and dove hunters may hunt until legal sunset.

(v) When waterfowl hunting, you may not possess more than 25 shotgun shells while in the field, except that during the State Conservation Order, there is no limit on the number of shells you may possess while hunting applicable goose species.

(vi) We prohibit hunting closer than 100 yards (91 meters) to another hunter or hunting party.

(vii) You must remove decoys, blinds, boats, and all other equipment at the end of each day's hunt (see § 27.93 of this chapter).

(viii) All hunters age 12 and younger must possess valid hunter education certification and must be supervised by an adult who is age 18 or older and who possesses valid hunter education certification or was born before 1969.

(ix) We allow incidental take of beaver, muskrat, nutria, river otter, mink, bobcat, fox, striped skunk, armadillo, and coyote during any refuge hunt with the weapons legal for that hunt, subject to applicable State seasons and regulations.

(x) We allow the use of dogs when migratory game bird hunting.

(xi) We close the Waterfowl Sanctuary Hunt Unit to all entry and hunting from November 15 to February 28, except that quota gun deer hunters may hunt in that Unit when the season overlaps with these dates.

(xii) We allow waterfowl hunting from mowed and/or graveled road rights-of-way, but we prohibit all other hunting from these rights-of-way.

(xiii) We allow hunters to use all-terrain vehicles (ATVs) only from September 1 through March 31, except that during the State Conservation Order, hunters may use ATVs for hunting applicable goose species.

(xiv) Hunters may use conventional motor vehicles, ATVs, bicycles, and e-bikes only on public use roads, levee tops, designated ATV trails (open to ATVs only), and established parking lots not closed by a locked gate, other barrier, or signage.

(xv) Hunters and anglers may use conventional motor vehicles only in the Bison, Waterfowl Sanctuary, and Core Waterfowl Area Hunt Units and only from March 1 through November 14.

(xvi) From November 15 through February 28, we close the Core Waterfowl Area Hunt Unit to all hunting, fishing, and public entry at 1 p.m. daily, except that during the State Conservation Order, you may hunt applicable goose species in this Unit until legal sunset.

(xvii) We prohibit the use of personal watercraft (e.g., jet skis), airboats, and hovercraft for hunting and fishing on the refuge.

(2) Upland game hunting. We allow hunting of squirrel, rabbit, quail, raccoon, opossum, beaver, muskrat, nutria, river otter, mink, bobcat, fox, striped skunk, armadillo, and coyote on designated areas of the refuge subject to the following conditions:

(i) The conditions set forth at paragraphs (a)(1)(i), (ii), (ix), and (xi) through (xiii) of this section apply.

(ii) Hunters may use shotguns, rifles and handguns chambered for rimfire cartridges, air rifles, and archery tackle.

(iii) We allow squirrel, rabbit, opossum, raccoon, and quail hunting according to season dates and bag limits provided in the annual refuge public use brochure.

(iv) We allow the use of dogs when hunting upland game.

(v) Hunters may enter the refuge beginning at 4 a.m. and must exit the refuge by 1 hour after legal sunset, except that we allow hunting of raccoon and opossum at night (from 30 minutes after legal sunset to 30 minutes before legal sunrise) on the refuge.

(vi) We prohibit hunting from a vehicle.

(3) Big game hunting. We allow hunting of deer and turkey, and the incidental take of feral hog, on designated areas of the refuge subject to the following conditions:

(i) The conditions set forth at paragraphs (a)(1)(i) through (iii), (ix), and (xi) through (xvi) of this section apply.

(ii) We allow archery/crossbow, modern gun, and muzzleloader deer hunting according to season dates and bag limits provided in the annual refuge public use brochure.

(iii) Turkey hunting will be conducted in the Waterfowl Sanctuary and Mingo Creek Hunt Units according to season dates and bag limits provided in the annual refuge public use brochure.

(iv) Hunters may use only shotguns with slugs, muzzleloaders, handguns with barrel lengths greater than 4 inches, large-bore air rifles, and archery/crossbow tackle for modern gun deer hunting on the Bison, Core Waterfowl Area, and Waterfowl Sanctuary Hunt Units.

(v) You may erect portable stands and blinds 7 days prior to the refuge deer season and must remove them from the waterfowl sanctuaries prior to November 15, except for stands used by quota gun deer hunters, which you must remove by the last day of the quota gun deer hunt (see § 27.93 of this chapter). You must remove all stands on the remainder of the refuge within 7 days of the closure of archery season (see § 27.93 of this chapter).

(vi) We prohibit leaving any tree stand, blind, or game camera on the refuge without the owner's Arkansas Game and Fish Commission customer identification number clearly written on it in a conspicuous location.

(vii) We prohibit the possession or use of lead shot and buckshot for deer hunting. We allow lead shot for turkey hunting.

(viii) During the quota gun deer hunt, we allow only hunters possessing a valid quota gun deer hunting permit (FWS Form 3-2439) on the refuge and only for the purposes of deer hunting and the incidental take of allowable species.

(ix) Hunters may only take feral hog incidental to modern gun and muzzleloader deer hunts and during specified periods for archery deer hunting according to season dates provided in the annual refuge public use brochure.

(x) We prohibit the use of dogs for deer hunting.

(xi) During the quota turkey hunts, only hunters possessing a valid quota turkey hunting permit (FWS Form 3-2439) will be allowed to enter the open hunt units and only for the purposes of turkey hunting.

(4) Sport fishing. We allow sport fishing, frogging, and crawfishing on designated areas of the refuge subject to the following conditions:

(i) The conditions set forth at paragraph (a)(1)(ii), (xi), (xv) through (xvii), and (a)(3)(viii) and (xi) of this section apply.

(ii) We prohibit the take or possession of turtles and/or mollusks (see § 27.21 of this chapter).

(iii) We allow fishing, frogging, and crawfishing for personal use only. All crawfish traps must have the owner's Arkansas Game and Fish Commission license customer identification number permanently affixed.

(iv) You may enter the refuge to fish, frog, or crawfish beginning at 4 a.m. and must exit by 1 hour after legal sunset.

(v) We prohibit tournament fishing on the refuge.

(b) Big Lake National Wildlife Refuge. (1) [Reserved]

(2) Upland game hunting. We allow hunting of squirrel, rabbit, quail, raccoon, nutria, coyote, beaver, muskrat, river otter, mink, bobcat, fox, striped skunk, armadillo, and opossum on designated areas of the refuge subject to the following conditions:

(i) We require a signed refuge hunt permit (FWS Form 3-2439). Anyone on the refuge in possession of hunting equipment must sign and possess the permit (FWS Form 3-2439) at all times.

(ii) During the quota gun deer hunt, we close the refuge to all other hunts and public entry.

(iii) We allow incidental take of nutria, beaver, muskrat, river otter, mink, bobcat, fox, striped skunk, armadillo, and coyote during any refuge hunt with the weapons legal for that hunt, subject to applicable State seasons and regulations.

(iv) We allow squirrel, rabbit, raccoon, opossum, and quail hunting according to season dates and bag limits provided in the annual refuge public use brochure.

(v) We allow the use of dogs only for squirrel, rabbit, and quail hunting in the refuge area north of Timm's Point.

(vi) Hunters may only use shotguns, rifles and handguns chambered for rimfire cartridges, air rifles, and archery tackle.

(vii) We prohibit hunting from mowed and/or gravel road rights-of-way.

(viii) Hunters may enter the refuge beginning at 4 a.m. and must exit the refuge by 1 hour after legal sunset, except that we allow hunting of raccoon and opossum at night (from 30 minutes after legal sunset to 30 minutes before legal sunrise) on the refuge.

(ix) All hunters age 12 and younger must possess valid hunter education certification and must be supervised by an adult who is age 18 or older and who possesses valid hunter education certification or was born before 1969.

(x) From November 1 to February 28, we close all waterfowl sanctuaries to all hunting and public entry.

(xi) Hunters and anglers may not leave motor vehicles, bicycles, e-bikes, or boats overnight on the refuge.

(xii) We only allow use of all-terrain vehicles (ATVs) by hunters with mobility-impairments, and the refuge manager must authorize this use in writing.

(xiii) Hunters and anglers may use motor vehicles, bicycles, and e-bikes only on public use roads not closed by a locked gate, other barrier, or signage.

(xiv) From November 1 through February 28, boat access is restricted to launching at Seven Mile boat ramp and using Ditch 28 only.

(xv) We prohibit the use of personal watercraft (e.g., jet skis), airboats, and hovercraft for hunting and fishing on the refuge.

(xvi) We prohibit hunting from a vehicle.

(3) Big game hunting. We allow hunting of white-tailed deer, turkey, and incidental take of feral hog on designated areas of the refuge subject to the following conditions:

(i) The conditions set forth at paragraphs (b)(2)(i) through (iii), and (vii) through (xvi) of this section apply.

(ii) We allow archery/crossbow, modern gun, and muzzleloader deer hunting according to season dates and bag limits provided in the annual refuge public use brochure.

(iii) Modern gun deer hunters may only use shotguns with slugs, muzzleloaders, handguns with barrel lengths greater than 4 inches, large-bore air rifles, and archery/crossbow tackle.

(iv) You may erect portable stands or blinds 7 days prior to the refuge deer season and must remove them 7 days after the closure of archery season (see § 27.93 of this chapter).

(v) We prohibit leaving any tree stand, blind, or game camera on the refuge without the owner's Arkansas Game and Fish Commission customer identification number clearly written on it in a conspicuous location.

(vi) Hunters may only take feral hog incidental to modern gun and muzzleloader deer hunts and during a specified period during archery deer hunting according to season dates provided in the annual refuge public use brochure.

(vii) We prohibit the possession or use of lead shot or buckshot for deer hunting. We allow lead shot for turkey hunting.

(viii) Turkey hunting is conducted according to season dates and bag limits provided in the annual refuge public use brochure.

(ix) During the quota gun deer hunts, only hunters possessing a valid quota gun deer permit (FWS Form 3-2439) may use the refuge and only for the purposes of deer hunting and the incidental take of allowable species.

(x) During the quota gun turkey hunts, we close the refuge north of Timm's Point to other hunting and public entry, and only hunters possessing a valid quota gun turkey permit (FWS Form 3-2439) may use that area of the refuge and only for the purposes of turkey hunting.

(xi) We prohibit the use of dogs for deer hunting.

(4) Sport fishing. We allow sport fishing, frogging, and crawfishing on designated areas of the refuge subject to the following conditions:

(i) The conditions set forth at paragraphs (b)(2)(ii), (x), (xi), (xiii) through (xv), and (b)(3)(ix) and (x) of this section apply.

(ii) Anglers may launch boats only in designated areas.

(iii) We allow frogging and crawfishing for personal use only. All crawfish traps must have the owner's Arkansas Game and Fish Commission license customer identification number permanently affixed.

(iv) We prohibit the take or possession of turtles and/or mollusks (see § 27.21 of this chapter).

(v) We allow fishing, frogging, and crawfishing on all refuge waters from March 1 through October 31.

(vi) We allow fishing in the Sand Slough-Mud Slough area from November 1 through February 28 only with the use of nonmotorized boats and electric trolling motors; anglers may enter this area at 4 a.m. and must depart by 1 hour after legal sunset.

(vii) We prohibit climbing onto or fishing from any water control structure and associated wingwalls and fences, or the top of the Floodway Dam south of Highway 18.

(viii) We prohibit tournament fishing on the refuge.

(c) Cache River National Wildlife Refuge—(1) Migratory game bird hunting. We allow hunting of duck, goose, coot, merganser, snipe, woodcock, rail, gallinule, crow, and dove on designated areas of the refuge subject to the following conditions:

(i) We require a signed refuge hunting permit (FWS Form 3-2439). Anyone on the refuge in possession of hunting equipment must sign and possess the permit (FWS Form 3-2439) at all times.

(ii) Hunters may enter the refuge beginning at 4 a.m. Except when hunting applicable goose species during the State Conservation Order, waterfowl hunters must exit the refuge by 1 p.m. All other hunters, including those hunting applicable goose species during the State Conservation Order, must exit the refuge no later than 1 hour after legal sunset.

(iii) We allow waterfowl hunting until 12 p.m. (noon), except that during the State Conservation Order, you may hunt for applicable goose species until legal sunset.

(iv) You must remove decoys, blinds, boats, and all other equipment at the end of each day's hunt (see § 27.93 of this chapter).

(v) From March 1 through October 31, hunters and anglers may leave boats displaying valid registration on the refuge.

(vi) During the regular State waterfowl hunting season, we prohibit the use of boats on the refuge from 12 a.m. (midnight) to 4 a.m.

(vii) We allow the use of dogs when migratory game bird hunting.

(viii) We allow waterfowl hunting on flooded refuge roads.

(ix) During the quota gun deer hunt, we close the refuge to all other hunts and public entry.

(x) All hunters age 12 and younger must possess valid hunter education certification and must be supervised by an adult who is age 18 or older and who possesses valid hunter education certification or was born before 1969.

(xi) We allow incidental take of beaver, muskrat, nutria, river otter, mink, bobcat, fox, striped skunk, armadillo, and coyote during any refuge hunt with the weapons legal for that hunt, subject to applicable State season and regulations.

(xii) From November 15 to February 28, we close all waterfowl sanctuaries to all hunting and public entry.

(xiii) We allow hunters and anglers to use all-terrain vehicles (ATVs) only from September 1 through March 31, except that during the State Conservation Order, hunters may use ATVs for hunting applicable goose species.

(xiv) Hunters and anglers may not operate conventional motor vehicles, ATVs, bicycles, or e-bikes on any road or trail closed by a locked gate, other barrier, or signage.

(xv) Hunter and anglers may not leave motor vehicles, ATVs, bicycles, or e-bikes unattended overnight on the refuge.

(xvi) We prohibit the use of personal watercraft (e.g., jet skis), airboats, and hovercraft for hunting and fishing on the refuge.

(2) Upland game hunting. We allow hunting of squirrel, rabbit, quail, raccoon, opossum, beaver, muskrat, nutria, river otter, mink, bobcat, fox, striped skunk, armadillo, and coyote on designated areas of the refuge subject to the following conditions:

(i) The conditions set forth at paragraphs (c)(1)(i), (v), (vi), and (ix) through (xvi) of this section apply.

(ii) We allow squirrel, rabbit, raccoon, opossum, and quail hunting according to season dates and bag limits provided in the annual refuge public use brochure.

(iii) We allow the use of dogs when hunting upland game.

(iv) We prohibit hunting from mowed and/or graveled road rights-of-way.

(v) Hunters may use only shotguns, rifles and handguns chambered for rimfire cartridges, air rifles, and archery tackle.

(vi) Hunters may enter the refuge beginning at 4 a.m. and must exit the refuge by 1 hour after legal sunset, except that we allow hunting of raccoon and opossum at night (from 30 minutes after legal sunset to 30 minutes before legal sunrise) on the refuge.

(vii) We prohibit hunting from a vehicle.

(3) Big game hunting. We allow hunting of deer and turkey, and incidental take of feral hog, on designated areas of the refuge subject to the following conditions:

(i) The conditions set forth at paragraphs (c)(1)(i), (v), (vi), and (ix) through (xvi), and (c)(2)(v) and (vi) of this section apply.

(ii) We allow archery/crossbow, modern gun, and muzzleloader deer hunting according to season dates and bag limits provided in the annual refuge public use brochure.

(iii) Hunters may take only feral hog incidental to modern gun and muzzleloader deer hunts and during a specified period during archery deer hunting according to season dates provided in the annual refuge public use brochure.

(iv) Hunters may only use shotguns with slugs, muzzleloaders, handguns with barrel lengths greater than 4 inches, large-bore air rifles, and archery/crossbow tackle for modern gun deer hunting on the Dixie, Dixie Waterfowl Sanctuary, and Plunkett Farm Waterfowl Sanctuary Hunt Units.

(v) You may erect portable stands or blinds 7 days prior to the refuge deer season, and you must remove them from the waterfowl sanctuaries prior to November 15, and from the rest of the refuge within 7 days of the closure of archery season (see § 27.93 of this chapter).

(vi) We prohibit leaving any tree stand, blind, or game camera on the refuge without the owner's Arkansas Game and Fish Commission customer identification number clearly written on it in a conspicuous location.

(vii) We prohibit the possession or use of lead shot and buckshot for deer hunting. We allow lead shot for turkey hunting.

(viii) During the quota gun deer hunt, we allow only hunters possessing a valid quota gun deer hunting permit (FWS Form 3-2439) on the refuge and only for the purposes of deer hunting and the incidental take of allowable species.

(ix) Turkey hunting will be conducted in designated areas according to season dates and bag limits provided in the annual refuge public use brochure.

(x) We prohibit the use of dogs for deer hunting.

(4) Sport fishing. We allow sport fishing, frogging, and crawfishing on designated areas of the refuge subject to the following conditions:

(i) The conditions set forth at paragraphs (c)(1)(v), (vi), (ix), and (xii) through (xvi), and (c)(3)(viii) of this section apply.

(ii) We prohibit the take or possession of turtles and/or mollusks (see § 27.21 of this chapter).

(iii) We allow frogging and crawfishing for personal use only. All crawfish traps must have the owner's Arkansas Game and Fish Commission license customer identification number permanently affixed.

(iv) We prohibit tournament fishing on the refuge.

(d) Dale Bumpers White River National Wildlife Refuge—(1) Migratory game bird hunting. We allow hunting of waterfowl (duck, goose, merganser, and coot), dove, and woodcock on designated areas of the refuge subject to the following conditions:

(i) We require an annual public use permit (FWS Form 3-2439) to hunt, fish, launch boats, and utilize campgrounds.

(ii) We allow waterfowl hunting from legal shooting hours until 12 p.m. (noon).

(iii) We allow the use of dogs when migratory game bird hunting.

(iv) We allow woodcock hunting beginning December 1 until the end of the State woodcock season on the North Unit following State legal shooting hours and bag limit.

(v) We prohibit goose hunting outside the State duck season.

(vi) We allow dove hunting only during the Statewide season in September and October, as specified in the refuge public use brochure.

(vii) You must remove blinds, blind material, and decoys from the refuge by 1 p.m. each day (see § 27.93 of this chapter).

(viii) Waterfowl hunters may enter the North Unit, Jack's Bay Hunt Area, and Levee Hunt Area no earlier than 4 a.m. on days hunting is allowed, as identified in the refuge public use brochure.

(ix) We prohibit boating from November 1 to March 1 in the South Unit Waterfowl Hunt Areas, except from 4 a.m. to 1 p.m. on designated waterfowl hunt days.

(x) We allow waterfowl hunting on outlying tracts; the conditions set forth at paragraphs (d)(1)(ii) and (vii) of this section apply.

(xi) We only allow all-terrain vehicles (ATVs) for wildlife-dependent hunting and fishing activities. We prohibit the use of ATVs after December 15 each year in designated South Unit areas as shown in the refuge public use brochure.

(xii) We allow incidental take of beaver, coyote, and nutria during any refuge hunt with the weapons legal for that hunt, subject to applicable State seasons and regulations.

(xiii) During refuge-wide quota muzzleloader and quota gun deer hunts, we close the refuge to all non-quota hunting.

(xiv) All youth hunters age 15 and younger must remain within sight and normal voice contact of an adult age 21 or older who possesses a valid State hunting license. One adult may supervise no more than two youth hunters.

(2) Upland game hunting. We allow hunting of squirrel, rabbit, and all furbearers (as governed by State law), and the incidental take of beaver, coyote, and nutria, on designated areas of the refuge subject to the following conditions:

(i) The conditions set forth at paragraphs (d)(1)(i), and (xi) through (xiv) of this section apply.

(ii) We allow hunting of rabbit and squirrel on the North Unit from September 1 through January 31.

(iii) On the North Unit only, we allow the use of dogs when hunting rabbit and squirrel from December 1 through January 31.

(iv) We allow rabbit and squirrel hunting on the South Unit from September 1 through November 30.

(v) We allow furbearer hunting. The annual public use brochure provides season dates and methods.

(vi) We allow the use of dogs for hunting furbearers from legal sunset to legal sunrise. Hunters must tether or pen all dogs used for furbearer hunting from legal sunrise to legal sunset and at any time they are not involved in actual hunting.

(3) Big game hunting. We allow the hunting of white-tailed deer and turkey, and the incidental take of feral hog, on designated areas of the refuge subject to the following conditions:

(i) The conditions set forth at paragraphs (d)(1)(i), (xi), (xii), and (xiv) of this section apply.

(ii) Archery deer seasons on the North Unit are from October 1 through January 31, except during quota muzzleloader and quota gun deer hunts, when the archery season is closed.

(iii) Archery deer seasons on the South Unit are from October 1 through December 31, except during quota muzzleloader and quota gun deer hunts, when the archery season is closed.

(iv) Muzzleloader season for deer will begin in October and will continue for a period of up to 3 days of quota hunting in the North and South Units, and no more than 4 days of non-quota hunting in the North Unit.

(v) The gun deer hunt will begin in November and will continue for a period of no more than 3 days of quota hunting in the North and South Units, and no more than 2 days of non-quota hunting in the North Unit.

(vi) We restrict hunt participants for quota hunts to those drawn for a quota permit (FWS Form 3-2439). The permits are nontransferable and nonrefundable.

(vii) Hunters may only take feral hog incidental to deer season dates identified in the refuge public use brochure.

(viii) We prohibit organized deer drives. We define a “deer drive” as an organized or planned effort to pursue, drive, chase, or otherwise frighten or cause deer to move in the direction of any person(s) who is part of the organized or planned hunt and known to be waiting for the deer.

(ix) We prohibit firearm deer hunting from or across roads, ATV trails, levees, and maintained utility rights-of-way.

(x) You may only use portable deer stands and ground blinds. You may erect stands or blinds up to 7 days before each hunt, but you must remove them within 7 days after each hunt (see § 27.93 of this chapter). All unattended deer stands and blinds on the refuge must have the owner's State hunting license number clearly displayed.

(xi) We close the Kansas Lake Area to all entry on December 1 and reopen it on March 1.

(xii) We prohibit the possession of buckshot on the refuge.

(xiii) An adult age 21 or older possessing a valid hunting license must accompany and be within sight and normal voice contact of hunters age 15 and younger. One adult may supervise no more than one youth hunter.

(xiv) The annual refuge public use brochure provides season dates and methods for turkey hunting.

(4) Sport fishing. We allow sport fishing, frogging, and crawfishing on designated areas of the refuge subject to the following conditions:

(i) The conditions set forth at paragraphs (d)(1)(i) and (ix) of this section apply.

(ii) We allow sport fishing in refuge-owned waters as follows:

(A) We allow fishing year-round in:

(1) LaGrue, Essex, Prairie, Scrubgrass, and Brooks Bayous;

(2) Big Island Chute, Moon, and Belknap Lakes next to Arkansas Highway 1;

(3) Indian Bay;

(4) Arkansas Post Canal and adjacent drainage ditches;

(5) Borrow ditches located adjacent to the west bank of that portion of the White River Levee north of the Graham Burke pumping station; and

(6) All waters in the refuge-owned North Unit and scattered tracts.

(B) We open all other South Unit refuge waters to sport fishing from March 1 through November 30, unless posted otherwise.

(iii) We allow frogging on all refuge-owned waters open for sport fishing as follows:

(A) We allow frogging on the South Unit from the beginning of the State season through November 30.

(B) We allow frogging on the North Unit for the entire State season.

(iv) We prohibit all commercial and recreational harvest of turtle on all property administered by Dale Bumpers White River National Wildlife Refuge (see § 27.21 of this chapter).

(v) We prohibit take or possession of any freshwater mussel (see § 27.21 of this chapter), and we prohibit the shelling of mussels on the refuge.

(vi) Boats (16 feet or less) displaying valid registration or Arkansas Game and Fish Commission's license customer identification number may be left on the refuge from March 1 through October 31.

(e) Felsenthal National Wildlife Refuge—(1) Migratory game bird hunting. We allow hunting of American woodcock, duck, light and dark goose, merganser, and coot on designated areas of the refuge subject to the following conditions:

(i) Hunters and anglers must possess and carry a signed refuge public use brochure while hunting or fishing.

(ii) Waterfowl hunters may enter the refuge beginning at 4 a.m. We allow waterfowl hunting until 12 p.m. (noon).

(iii) Hunters must remove decoys, blinds, boats, and all other equipment by 1 p.m. each day (see § 27.93 of this chapter).

(iv) We close areas of the refuge posted with “Area Closed” signs and identify them on the refuge public use brochure map as a waterfowl sanctuary. We close waterfowl sanctuaries to all public entry and public use from November 15 to February 15.

(v) We allow hunting of duck, light and dark goose, merganser, and coot during the State waterfowl season except during scheduled refuge quota gun deer hunts.

(vi) We allow American woodcock hunting during the State season except during scheduled refuge quota hunts. Woodcock hunters may enter the refuge beginning at 4 a.m. and must exit by 1 hour after legal sunset.

(vii) All youth hunters age 15 and younger must remain within sight and normal voice contact of an adult age 21 or older who possesses a valid State hunting license. One adult may supervise no more than two youth hunters.

(viii) We allow only all-terrain vehicles/utility-type vehicles (ATVs/UTVs) for hunting and fishing activities according to regulations provided in the refuge public use brochure.

(ix) You may use bikes, horses, and mules on roads and ATV/UTV trails (when open to motor vehicle and ATV/UTV traffic, respectively) as a mode of transportation for hunting and fishing activities on the refuge except during the quota deer hunts.

(x) We prohibit hunting within 150 feet (45 meters) of roads, pipelines, and trails open to motor vehicle use (including ATV/UTV trails).

(xi) We allow the incidental take of beaver, nutria, and coyote during any daytime refuge hunt with weapons and ammunition allowed for that hunt. There is no bag limit.

(xii) We allow the use of dogs when hunting.

(2) Upland game hunting. We allow hunting of quail, squirrel, rabbit, raccoon, and opossum (as governed by State law), and incidental take of beaver, nutria, and coyote, on designated areas of the refuge subject to the following conditions:

(i) The conditions set forth at paragraphs (e)(1)(i), (iv), and (vii) through (xi) of this section apply.

(ii) We allow hunting for quail, squirrel, rabbit, raccoon, and opossum on the refuge during State seasons through January 31. We close upland game hunting during refuge quota gun deer hunts.

(iii) We do not open for the spring squirrel hunting season, or for the summer/early fall raccoon hunting season.

(iv) We allow the use of dogs for squirrel and rabbit hunting from December 1 through January 31, and for quail and raccoon/opossum hunting during the open season on the refuge for these species.

(3) Big game hunting. We allow hunting of white-tailed deer and turkey, and incidental take of feral hog, on designated areas of the refuge subject to the following conditions:

(i) The conditions set forth at paragraphs (e)(1)(i), (iv), and (viii) through (xi) of this section apply.

(ii) We allow archery deer hunting on the refuge from the opening of the State season through January 31, except during refuge deer quota hunts.

(iii) We allow muzzleloader and modern gun deer hunting during designated times and seasons, within specified State seasons as listed in the refuge public use brochure.

(iv) Total deer harvested refuge-wide is two deer (two does, or one buck and one doe, as governed by State law) regardless of method. A doe must be harvested before a buck.

(v) We prohibit buckshot for modern gun deer hunting.

(vi) You may only use portable deer stands erected no earlier than the opening day of archery season, and you must remove them no later than January 31 each year (see § 27.93 of this chapter).

(vii) We prohibit the use of deer decoy(s).

(viii) Turkey hunting (Archery, Youth, and Quota) will be conducted during designated times and seasons, within specified State seasons as listed in the refuge public use brochure.

(ix) We restrict quota hunt participants to those selected for a quota permit (FWS Form 3-2439), except that one nonhunting adult age 21 or older possessing a valid hunting license must accompany the youth hunter age 15 and younger.

(x) An adult age 21 or older possessing a valid hunting license must accompany and be within sight and normal voice contact of hunters age 15 and younger. One adult may supervise no more than one youth hunter.

(xi) We allow the use of one tree stand or ground blind, and one game camera, on the refuge if the owner's State hunting license number is clearly written on them in a conspicuous location.

(xii) We restrict hunt participants for quota hunts to those drawn for a quota permit (FWS Form 3-2439). These permits are nontransferable, and the permit fees are nonrefundable.

(xiii) The incidental taking of feral hogs will be governed by Arkansas Game and Fish Commission regulations concerning the taking of feral hogs on State Wildlife Management Areas (WMAs). Subject to State regulations, we allow incidental take of feral hogs during daytime refuge deer quota hunts (without the use of dogs) and during a specified period during archery deer hunting with legal hunting equipment and ammunition allowed for those hunts according to the season dates provided in the refuge public use brochure. There is no bag limit.

(4) Sport fishing. We allow sport fishing, frogging, and crawfishing on designated areas of the refuge subject to the following conditions:

(i) The conditions set forth at paragraphs (e)(1)(i), (iii), (iv), (viii), and (ix) of this section apply.

(ii) We prohibit fishing in the waterfowl sanctuary area when the sanctuary is closed, with the exception of the main channel of the Ouachita and Saline Rivers and the borrow pits along Highway 82. We post the waterfowl sanctuary area with “Area Closed” signs and identify those areas in refuge hunt brochures.

(iii) During the refuge quota gun deer hunts, we allow fishing only in areas accessible from the Ouachita and Saline Rivers and from Eagle, Jones, and Pereogeethe Lakes.

(iv) You must move or remove trotlines when receding water levels expose them.

(v) We allow frogging and crawfishing for personal use only during designated times and seasons, within specified State seasons as listed in the refuge public use brochure.

(vi) We prohibit the take or possession of turtles and/or mollusks (see § 27.21 of this chapter).

(f) Holla Bend National Wildlife Refuge. (1) [Reserved]

(2) Upland game hunting. We allow hunting of squirrel, rabbit, quail, raccoon, opossum, beaver, muskrat, nutria, river otter, mink, fox, striped skunk, armadillo, coyote, and bobcat on designated areas of the refuge subject to the following conditions:

(i) We require a signed refuge hunting permit (FWS Form 3-2439). Anyone on the refuge in possession of hunting equipment must sign and possess the permit (FWS Form 3-2439) at all times.

(ii) We allow squirrel, rabbit, raccoon, opossum, and quail hunting according to season dates and bag limits provided in the annual refuge public use brochure.

(iii) We only allow use of all-terrain vehicles (ATVs) by hunters and anglers with mobility impairments, and the refuge manager must authorize this use in writing.

(iv) Hunters and anglers may use boats in designated areas and at times provided in the annual refuge public use brochure.

(v) All hunters age 13 and younger must possess valid hunter education certification and must be supervised by an adult who is age 18 or older and who possesses valid hunter education certification or was born before 1969.

(vi) During the quota youth gun deer and turkey hunts, we close the refuge to all other hunting and public entry.

(vii) We allow incidental take of beaver, muskrat, nutria, river otter, mink, bobcat, fox, striped skunk, armadillo, and coyote during any refuge hunt with the weapons legal for that hunt, subject to applicable State seasons and regulations.

(viii) Hunters and anglers may use bicycles and e-bikes only on public use roads and designated trails not closed by a locked gate, other barrier, or signage.

(ix) During the mentored youth squirrel and rabbit hunts, the mentoring adult may supervise up to two hunting youths and the mentoring adult may also hunt.

(x) Hunters must enter and exit the refuge from designated roads and parking lots only.

(xi) We limit raccoon and opossum hunting to nighttime hunting only.

(xii) Hunter and anglers may not leave motor vehicles, bicycles, e-bikes, or boats unattended overnight on the refuge.

(xiii) We prohibit hunting from a vehicle.

(xiv) We prohibit the use of personal watercraft (e.g., jet skis), airboats, and hovercraft for hunting and fishing on the refuge.

(3) Big game hunting. We allow hunting of deer, black bear, and turkey on designated areas of the refuge subject to the following conditions:

(i) The conditions set forth at paragraphs (f)(2)(i), (iii) through (viii), (x), and (xii) through (xiv) of this section apply.

(ii) We allow archery/crossbow hunting for white-tailed deer and turkey according to season dates and bag limits provided in the annual refuge public use brochure.

(iii) Youth modern gun deer hunts will be conducted according to season dates and bag limits provided in the refuge public use brochure.

(iv) We allow the take of black bear incidental to refuge archery and modern gun deer hunts subject to applicable State seasons and regulations.

(v) The refuge will conduct youth-only quota spring gun turkey hunts according to season dates and bag limits provided in the refuge public use brochure.

(vi) You may erect portable stands or blinds 7 days before the start of the season, and you must remove them from the refuge within 7 days after the season ends (see § 27.93 of this chapter).

(vii) We prohibit leaving any tree stand, blind, or game camera on the refuge without the owner's Arkansas Game and Fish Commission customer identification number clearly written on it in a conspicuous location.

(viii) We prohibit organized drives. We define a “drive” as an organized or planned effort to pursue, drive, chase, or otherwise frighten or cause game to move in the direction of any person(s) who is part of the organized or planned hunt and known to be waiting for the game.

(ix) You must check all harvested turkey, bear, and deer at the refuge check station.

(x) We prohibit the use of dogs for deer hunting.

(xi) Big game hunters may enter the refuge 1 hour before legal sunrise and must exit by 1 hour after legal sunset.

(4) Sport fishing. We allow sport fishing, frogging, and crawfishing on designated areas of the refuge subject to the following conditions:

(i) The conditions set forth at paragraphs (f)(2)(iii), (iv), (vi), (viii), (xii), (xiv), and (xv) of this section apply.

(ii) We allow fishing, frogging, and crawfishing on all waters only from March 1 through October 31 from legal sunrise to legal sunset.

(iii) Anglers must remove boats from the refuge at the end of each day's fishing activity (see § 27.93 of this chapter).

(iv) We prohibit the take or possession of turtles and/or mollusks (see § 27.21 of this chapter).

(v) We allow frogging and crawfishing for personal use only. All crawfish traps must have the owner's Arkansas Game and Fish Commission license customer identification number permanently affixed.

(vi) We prohibit access to refuge waters and land from the Arkansas River.

(vii) We limit trotlines, setline, limblines, yo-yo and free-floating fishing devices to 20 per person; lines must be secured with cotton line that extends into the water.

(viii) Trotlines, setlines, limblines, yo-yos, and free-floating fishing devices must be clearly labelled with the angler's Arkansas Game and Fish Commission license customer identification number, and cannot be left overnight or unattended.

* * * * *

(i) Wapanocca National Wildlife Refuge—(1) [Reserved]

(2) Upland game hunting. We allow hunting of squirrel, rabbit, raccoon, nutria, beaver, coyote, quail, muskrat, river otter, mink, bobcat, fox, striped skunk, armadillo, and opossum on designated areas of the refuge subject to the following conditions:

(i) We require a signed refuge hunting permit (FWS Form 3-2439). Anyone on the refuge in possession of hunting equipment must sign and possess the permit (FWS Form 3-2439) at all times.

(ii) Hunters may enter the refuge at4 a.m. and must leave the refuge no later than 1 hour after legal sunset, except that we allow hunting of raccoon and opossum at night on the refuge.

(iii) During the quota gun hunts, we close the refuge to all other hunts and public entry.

(iv) We allow squirrel, rabbit, raccoon, opossum, and quail hunting according to season dates and bag limits provided in the annual refuge public use brochure.

(v) We allow the incidental take of nutria, beaver, muskrat, river otter, mink, bobcat, fox, striped skunk, armadillo, and coyote during any refuge hunt with the weapons allowed for that hunt, subject to applicable State seasons and regulations.

(vi) Hunters may use only shotguns, rifles chambered for rimfire cartridges, air rifles, and archery tackle.

(vii) We prohibit hunting from mowed and/or gravel road rights-of-way.

(viii) All hunters age 12 and younger must possess valid hunter education certification and must be supervised by an adult who is age 18 or older and who possesses valid hunter education certification or was born before 1969. Any additional requirements are provided in the refuge public use brochure.

(ix) From December 1 to February 28, we close all waterfowl sanctuaries (including Wapanocca Lake) to all hunting and public entry.

(x) We prohibit the use of all-terrain vehicles (ATVs), except that ATVs may be used by mobility-impaired hunters possessing written authorization issued by the refuge manager.

(xi) Hunters and anglers may use motor vehicles, bicycles, and e-bikes only on public use roads not closed by a locked gate, other barrier, or signage.

(xii) Hunters and anglers must use the public boat ramp on Highway 77 to launch motorized boats into Wapanocca Lake.

(xiii) Hunters and anglers must operate boats at speeds of less than 5 miles per hour between the Highway 77 boat launch and the open lake.

(xiv) We prohibit the use of personal watercraft (e.g., jet skis), airboats, and hovercraft for hunting and fishing on the refuge.

(xv) Hunter and anglers may not leave motor vehicles, bicycles, e-bikes, or boats unattended overnight on the refuge.

(xvi) We prohibit hunting from a vehicle.

(xvii) The Round Pond and Pygmon Units in St. Francis County are subject to all regulations for hunting and fishing for Wapanocca NWR.

(3) Big game hunting. We allow hunting of white-tailed deer and turkey, and incidental take of feral hog, on designated areas of the refuge subject to the following conditions:

(i) The conditions set forth at paragraphs (i)(2)(i) through (iii), (v), and (vii) through (xvii) of this section apply.

(ii) During the quota gun deer hunt, we allow only hunters possessing a valid quota gun deer hunting permit (FWS Form 3-2439) on the refuge and only for the purposes of deer hunting and the incidental take of allowable species.

(iii) You may erect portable stands or blinds 7 days prior to the refuge deer season, and you must remove them from the waterfowl sanctuaries by December 1 (see § 27.93 of this chapter). You must remove all stands and blinds on the remainder of the refuge within 7 days of the closure of archery season (see § 27.93 of this chapter).

(iv) We allow portable tree stands, blinds, and game cameras on the refuge only if the owner's Arkansas Game and Fish Commission customer identification number is clearly written on them in a conspicuous location.

(v) We allow archery/crossbow, muzzleloader, and modern gun deer hunting according to season dates and bag limits provided in the annual refuge public use brochure.

(vi) Hunters may only use shotguns with slugs, muzzleloaders, handguns, large-bore air rifles, and archery/crossbow tackle for modern gun deer hunting.

(vii) Hunters may only take feral hog incidental to modern gun and muzzleloader deer hunts and during a specified period during archery deer hunting according to season dates provided in the annual refuge public use brochure.

(viii) The annual refuge public use brochure provides season dates and bag limits for turkey hunting.

(ix) We prohibit the possession or use of lead shot or buckshot for deer hunting. We allow lead shot for turkey hunting.

(x) We prohibit the use of dogs for deer hunting.

(4) Sport fishing. We allow sport fishing, frogging, and crawfishing on designated areas of the refuge subject to the following conditions:

(i) The conditions set forth at paragraphs (i)(2)(iii), (ix), (xi) through (xv), and (xvii) of this section apply.

(ii) From March 1 through November 30, we allow fishing, frogging, and crawfishing on all refuge waters. From December 1 through February 28, we allow bank fishing only on Woody Pond and other non-waterfowl sanctuary areas.

(iii) Anglers, including those frogging and crawfishing, may enter the refuge at 4 a.m. and must leave the refuge no later than 1 hour after legal sunset.

(iv) We prohibit the take or possession of turtles and/or mollusks (see § 27.21 of this chapter).

(v) Anglers may launch boats only in designated areas.

(vi) We allow fishing, frogging, and crawfishing for personal use only. All crawfish traps must have the owner's Arkansas Game and Fish Commission license customer identification number permanently affixed.

(vii) We prohibit tournament fishing.

* * * * *

6. Amend § 32.24 by:

a. Removing the word “A8N” and adding in its place the word “A8” in the first sentence of paragraph (e)(1)(ii); and

b. Revising paragraphs (e)(1)(vii) and (i)(1) introductory text to read as follows:

§ 32.24 California.

* * * * *

(e) * * *

(1) * * *

(vii) You may not possess more than 25 shot shells while in the field once you have left your assigned parking lot for Ponds AB1, A2E, AB2, A3N, A3W, A5, A7, and A8, and the Ravenswood Unit.

* * * * *

(i) * * *

(1) Migratory game bird hunting. We allow hunting of goose, duck, coot, snipe, and moorhen on designated areas of the refuge subject to the following conditions:

* * * * *

7. Amend § 32.27 by revising paragraphs (a)(1)(ii) and (b)(1)(ii) to read as follows:

§ 32.27 Delaware.

* * * * *

(a) * * *

(1) * * *

(ii) You must complete and return a Harvest Report (FWS Form 3-2542), available at the refuge administration office or on the refuge's website, within 15 days of the close of the season.

* * * * *

(b) * * *

(1) * * *

(ii) You must complete and return a Harvest Report (FWS Form 3-2542), available at the refuge administration office or on the refuge's website, within 15 days of the close of the season.

* * * * *

8. Amend § 32.28 by:

a. Revising paragraphs (e)(1) through (3);

b. Redesignating paragraphs (f) through (o) as paragraphs (g) through (p);

c. Adding a new paragraph (f); and

d. Revising newly redesignated paragraphs (j)(2)(i), (j)(3)(i), (j)(3)(vii), (k)(1)(x), (n)(3)(ii), (iv), and (viii).

The revisions and addition read as follows:

§ 32.28 Florida.

* * * * *

(e) * * *

(1) Migratory game bird hunting. We allow hunting of migratory game birds and the incidental take of nonnative wildlife as defined by the State on designated areas of the refuge in accordance with State regulations and applicable State Wildlife Management Area regulations.

(2) Upland game hunting. We allow upland game hunting and the incidental take of nonnative wildlife as defined by the State on designated areas of the refuge in accordance with State regulations and applicable State Wildlife Management Area regulations.

(3) Big game hunting. We allow big game hunting and the incidental take of nonnative wildlife as defined by the State on designated areas of the refuge in accordance with State regulations and applicable State Wildlife Management Area regulations.

* * * * *

(f) Florida Panther National Wildlife Refuge—(1)-(2) [Reserved]

(3) Big game hunting. We allow hunting of turkey on designated areas of the refuge subject to the following conditions:

(i) We require a valid Florida Panther National Wildlife Refuge Big Game Quota Hunt Permit purchased through the Florida Fish and Wildlife Conservation Commission. The quota hunt permit is a limited entry quota permit, and is nontransferable.

(ii) You must have a valid signed Florida Panther NWR turkey hunt brochure, which is free and non-transferrable.

(iii) Each Big Game Quota Hunt Permit is issued for the take of 1 bearded turkey. A family hunt/camp experience permit is issued for take of 2 bearded turkeys.

(iv) We allow bows, crossbows, PCP air guns propelling a bolt or arrow, and shotguns using #2 or smaller shot size.

(v) We require an adult, age 18 or older, to supervise hunters age 15 and younger. The adult must remain within sight and normal voice contact of the youth hunter.

(vi) Hunters possessing a valid Big Game Quota Hunt Permit purchased through the Florida Fish and Wildlife Conservation Commission may access the refuge no earlier than 2 hours before legal sunrise and must leave the refuge no later than legal sunset. Hunters possessing a valid family hunt/camp experience permit may remain on the refuge overnight.

(vii) We allow hunting from ½ hour before legal sunrise until 1 p.m.

(viii) We allow only federally approved nontoxic shot (see § 32.2(k)).

(ix) We only allow permitted hunters participating in the limited entry quota hunt to operate off-road vehicles (swamp buggies, all-terrain/utility-type vehicles) on designated roads, trails, and firebreaks.

(x) We allow hunters with permits to scout 7 days prior to the individual's permitted hunt.

(4) Sport fishing. We allow fishing on designated areas of the refuge subject to the following conditions:

(i) We allow fishing from legal sunrise to legal sunset.

(ii) We only allow hook and line. We prohibit snatch hooks, cast nets, seines, trotlines, jugs, and yo-yos.

* * * * *

(j) * * *

(2) * * *

(i) The conditions set forth at paragraphs (j)(1)(i) through (viii) of this section apply.

* * * * *

(3) * * *

(i) The conditions set forth at paragraphs (j)(1)(i) through (viii) of this section apply.

* * * * *

(vii) Hunters must fill out a Harvest Report (FWS Form 3-2542) and check all game harvested during all deer and hog hunts.

* * * * *

(k) * * *

(1) * * *

(x) You must stop at a posted refuge waterfowl check station and report statistical hunt information on the Harvest Report (FWS Form 3-2542) to refuge personnel.

* * * * *

(n) * * *

(3) * * *

(ii) The conditions set forth at paragraphs (n)(2)(ii) and (iv) through (vii) of this section apply.

* * * * *

(iv) There is a two deer limit per hunt, as specified at paragraph (n)(3)(vi) of this section, except during the youth hunt, when the limit is as specified at paragraph (n)(3)(vii) of this section. The limit for turkey is one per hunt.

* * * * *

(viii) Mobility-impaired hunters may have an assistant accompany them. You may transfer permits (State-issued permit) issued to the hunter to assistants. We limit those hunt teams to harvesting white-tailed deer and feral hog within the limits provided at paragraph (n)(3)(vi) of this section.

* * * * *

9. Amend § 32.29 by revising paragraph (e)(3) to read as follows:

§ 32.29 Georgia.

* * * * *

(e) * * *

(3) Big game hunting. We allow hunting of white-tailed deer and turkey, and the incidental take of coyote, armadillo, and feral hog, on designated areas of the refuge subject to the following conditions:

(i) We require a signed refuge hunt permit (FWS Form 3-2439) for all hunters age 16 and older. Hunters must sign the permit and carry it with them at all times when hunting.

(ii) Each hunter may place one stand on the refuge during the week preceding each hunt, but must remove the stand by the end of each hunt (see § 27.93 of this chapter).

(iii) We prohibit hunting within 100 yards (91 meters) of Harris Neck Road, the refuge entrance drive, Visitor Contact Station/Office, Barbour River Landing, Barbour River Road, or Gould's Cemetery.

(iv) We require hunters to check-in and check-out each hunt day. We require personal identification to check-in and check-out.

(v) We require hunters to check all harvested game at the check station before leaving the refuge each day.

(vi) Hunters may take five deer (no more than two antlered), and we will issue State bonus tags for two of these.

(vii) During the gun hunt, we allow only shotguns (20 gauge or larger), muzzleloaders, bows, air rifles (.30 caliber or larger), and air bows, as governed by State regulations. We prohibit the use of centerfire rifles.

(viii) We allow the incidental take of armadillo, feral hog, and coyote during any refuge hunt with the weapons legal for that hunt, subject to applicable State seasons and regulations. There is no bag limit for these species.

(ix) The turkey hunt is a youth-only, archery hunt limited to 2 days per year. To participate in the turkey hunt, youth must complete an application (FWS Form 3-2439), submit the completed application to the refuge, and be selected by lottery. Each youth hunter selected by lottery to participate in the turkey hunt must possess a free signed refuge hunt brochure while hunting.

* * * * *

10. Amend § 32.31 by:

a. Revising paragraphs (b)(1) and (2);

b. Adding paragraph (b)(3); and

c. Revising paragraph (e)(4).

The revisions and addition read as follows:

§ 32.31 Idaho.

* * * * *

(b) * * *

(1) Migratory game bird hunting. We allow hunting of duck, goose, coot, snipe, and dove on designated areas of the refuge subject to the following conditions:

(i) We allow hunters to access the refuge 1 hour before legal shooting time.

(ii) You may only use portable blinds or construct temporary blinds of natural vegetation. Blinds will be available for general use on a first-come, first-served basis. You must remove portable blinds, decoys, and other personal property at the end of each day's hunt (see § 27.93 of this chapter).

(iii) We allow the use of dogs when hunting.

(iv) You may take Eurasian collared-doves only during the State seasons for migratory birds and upland game birds.

(2) Upland game hunting. We allow hunting of pheasant, grouse, and partridge on designated areas of the refuge subject to the following conditions:

(i) The condition set forth at paragraph (b)(1)(iii) of this section applies.

(ii) We allow hunters to access the refuge ½ hour before legal shooting time.

(iii) Hunters must wear a minimum of 36 square inches (232.3 square centimeters) of blaze orange, and a blaze orange head covering.

(3) Big game hunting. We allow hunting of elk on designated areas of the refuge subject to the following conditions:

(i) The conditions set forth at paragraphs (b)(2)(ii) and (iii) of this section apply.

(ii) You must carry a signed copy of the refuge hunting regulations and hunt map (signed brochure) in the field while hunting.

* * * * *

(e) * * *

(4) Sport fishing. We allow sport fishing on designated areas of the refuge subject to the following conditions:

(i) We allow bank fishing only.

(ii) We prohibit launching boats from, and landing boats on, the banks of Deep Creek.

* * * * *

11. Amend § 32.32 by:

a. Revising paragraph (b)(4);

b. Removing paragraph (c)(1)(ii);

c. Redesignating paragraph (c)(1)(iii) as paragraph (c)(1)(ii);

d. Revising paragraph (c)(2)(i);

e. Removing paragraphs (c)(4)(i), (v), and (vi);

f. Redesignating paragraphs (c)(4)(ii) through (iv) as paragraphs (c)(4)(i) through (iii); and

g. Revising paragraphs (f)(1) through (3), (g)(2)(ii), (g)(3), (k)(2)(v), and (k)(3)(i).

The revisions read as follows:

§ 32.32 Illinois.

* * * * *

(b) * * *

(4) Sport fishing. We allow sport fishing on designated areas of the refuge subject to the following conditions:

(i) On Crab Orchard Lake west of Wolf Creek Road:

(A) Anglers may fish from boats all year.

(B) Anglers must remove all trotlines/jugs from legal sunrise until legal sunset from the Friday immediately prior to Memorial Day through Labor Day.

(ii) On Crab Orchard Lake east of Wolf Creek Road:

(A) Anglers may fish from boats March 1 through October 15.

(B) Anglers may fish all year at the Wolf Creek and Route 148 causeways.

(iii) On A-41 and Bluegill Ponds:

(A) Anglers may fish only from legal sunrise to legal sunset from March 1 through October 15.

(B) We prohibit anglers from using gas-powered boats.

(iv) On Managers, Honkers, and Visitors Ponds:

(A) Anglers may fish all year from legal sunrise to legal sunset.

(B) We prohibit anglers from using gas-powered boats.

(v) Trotlines/jugs:

(A) We prohibit the use of trotlines/jugs on all refuge waters outside of Crab Orchard Lake.

(B) We prohibit the use of trotlines/jugs with any flotation device that has previously contained any petroleum-based material or toxic substances.

(C) Anglers must attach a buoyed device that is visible on the water's surface to all trotlines.

(vi) Anglers may use all legal noncommercial fishing methods, except they may not use any underwater breathing apparatus.

(vii) Anglers may not submerge any poles or similar objects to take or locate any fish.

(viii) Organizers of all fishing events must possess a Special Use Permit (FWS Form 3-1383-G or FWS Form 3-1383-C).

(ix) We prohibit anglers from fishing within 250 yards (228 meters) of an occupied waterfowl hunting blind.

(x) Specific creel and size limits apply on various refuge waters as listed in the Crab Orchard fishing brochure and the annual Illinois fishing digest.

(c) * * *

(2) * * *

(i) The conditions set forth at paragraphs (c)(1)(i) and (ii) of this section apply.

* * * * *

(f) * * *

(1) Migratory game bird hunting. We allow hunting of migratory game birds on designated areas of the refuge subject to the following conditions:

(i) You must remove personal belongings, including, but not limited to, all boats, decoys, blinds, blind materials, stands, and platforms brought onto the refuge at the end of each day's hunt (see §§ 27.93 and 27.94 of this chapter).

(ii) Hunters may enter the refuge no earlier than ½ hour before legal shooting hours and must exit the refuge no later than ½ hour after legal shooting hours.

(2) Upland game hunting. We allow upland game and turkey hunting on designated areas of the refuge subject to the following conditions:

(i) The conditions set forth at paragraphs (f)(1)(i) and (ii) of this section apply.

(ii) For hunting, you may use or possess only approved nontoxic shot shells while in the field, including shot shells used for hunting wild turkey (see § 32.2(k)).

(3) Big game hunting. We allow big game hunting on designated areas of the refuge subject to the following conditions:

(i) The conditions set forth at paragraphs (f)(1)(i) and (ii) of this section apply.

(ii) We prohibit organized deer drives. We define a “deer drive” as an organized or planned effort to pursue, drive, chase, or otherwise frighten or cause deer to move in the direction of any person(s) who is part of the organized or planned hunt and known to be waiting for the deer.

* * * * *

(g) * * *

(2) * * *

(ii) You must remove personal belongings, including, but not limited to, all boats, decoys, blinds, blind materials, stands, platforms, and other hunting equipment brought onto the refuge at the end of each day's hunt (see §§ 27.93 and 27.94 of this chapter).

(3) Big game hunting. We allow hunting of white-tailed deer on designated areas of the refuge subject to the following conditions:

(i) The condition set forth at paragraph (g)(2)(ii) of this section applies.

(ii) We prohibit organized deer drives. We define a “deer drive” as an organized or planned effort to pursue, drive, chase, or otherwise frighten or cause deer to move in the direction of any person(s) who is part of the organized or planned hunt and known to be waiting for the deer.

* * * * *

(k) * * *

(2) * * *

(v) Hunters may only hunt from ½ hour before legal sunrise to no later than ½ hour after legal sunset, and they must follow all State requirements for legal hunting hours.

(3) * * *

(i) The conditions set forth at paragraphs (k)(1)(i) and (k)(2)(v) of this section apply.

* * * * *

12. Amend § 32.37 by revising paragraphs (c), (d), (e), (g), (i)(1)(iv), (i)(3)(iii), (j), (m), (o)(1)(iv), (o)(3)(v), (q), (r), (s)(1)(iv), (t), and (u) to read as follows:

§ 32.37 Louisiana.

* * * * *

(c) Bayou Sauvage National Wildlife Refuge—(1) Migratory game bird hunting. We allow hunting of duck, merganser, teal, light and dark goose, coot, gallinule, rail, snipe, and dove on designated areas of the refuge subject to the following conditions:

(i) Hunters and anglers must possess and carry a valid, signed refuge hunting and fishing brochure.

(ii) We only allow youth to hunt migratory game birds.

(iii) All youth hunters age 15 and younger must be supervised by an adult during hunts. The youth must be capable of and must actively participate in the hunt by possessing and/or firing a legal weapon during the hunt for the express purpose of harvesting game.

(iv) One adult may supervise up to two youths during upland game hunts and migratory bird hunts, but may supervise only one youth during big game hunts. The supervising adult must maintain visual and voice contact with the youth at all times.

(v) Adults accompanying youth on any refuge hunts may participate by hunting (except during the State youth-only seasons), but are not allowed to harvest more than their own daily bag limit (see § 20.24 of this chapter). Youth must harvest their own bag limits.

(vi) We allow migratory bird hunting on Wednesdays, Thursdays, Saturdays, and Sundays from ½ hour before legal sunrise until 2 p.m.

(vii) We open the refuge to goose youth hunting during any segment of goose season that extends beyond the regular duck season.

(viii) Migratory bird hunters may not enter the refuge prior to 4 a.m. on the day of the hunt and must remove all portable blinds and decoys (see § 27.93 of this chapter) no later than 3 p.m.

(ix) We prohibit hunting within 500 feet (152 meters (m)) of any residence or structure adjacent to the refuge, and we prohibit hunting within 200 feet (61 m) of any road, railroad, levee, water control structure, designated public use trail, designated parking area, or other designated public use facility.

(x) We prohibit mud boats or air cooled propulsion vessels, including “surface-drive” boats, except when traversing through the Intracoastal Waterway and the Irish Bayou Straight Canal only.

(xi) We only allow the incidental take of nutria with approved shot and weapons during any open youth waterfowl season on the refuge.

(xii) We allow the incidental take of coyote, raccoon, feral hog, armadillo, and opossum with approved shot and weapons allowed during any open season on the refuge.

(xiii) We allow only the use of reflective tacks as marking devices.

(2) Upland game hunting. We allow hunting of rabbit, and the incidental take of nutria, coyote, raccoon, armadillo, and opossum, on designated areas of the refuge subject to the following conditions:

(i) We only allow youth hunting of upland game.

(ii) When hunting, you must possess only shot size 4 or smaller or 0.22 caliber rimfire rifles or smaller. We allow the use of air rifles.

(iii) When hunting rabbit, we allow the use of dogs only after the close of the State archery deer season.

(iv) The conditions set forth at paragraphs (c)(1)(i), (iii) through (v), and (ix) through (xiii) of this section apply.

(3) Big game hunting. We only allow youth hunting of white-tailed deer, and the incidental take of feral hog, on designated areas of the refuge subject to the following conditions:

(i) We are open to youth hunting only during the State deer archery season.

(ii) We prohibit organized deer drives. We define a “deer drive” as an organized or planned effort to pursue, drive, chase, or otherwise frighten or cause deer to move in the direction of any person(s) who is part of the organized or planned hunt and known to be waiting for the deer.

(iii) We allow placement of temporary deer stands no earlier than 48 hours prior to the start of deer archery season. Hunters must remove all deer stands within 48 hours after the archery deer season closes (see § 27.93 of this chapter).

(iv) We allow only one deer stand per hunter on the refuge. Deer stands must have the owner's State license/sportsmen's identification number clearly printed on the stand.

(v) We prohibit the use of deer decoys.

(vi) The conditions set forth at paragraphs (c)(1)(i), (iii) through (v), and (ix) through (xiii) of this section apply.

(4) Sport fishing. We allow recreational finfishing and shellfishing on designated areas of the refuge subject to the following conditions:

(i) We allow daytime sport finfishing and shellfishing year-round on designated areas of the refuge. On portions of the refuge outside of the Hurricane Protection Levee, we allow daytime sport finfishing and shellfishing from November 1 through January 31 and during the State teal season, but only after 2 p.m. We close the remainder of the refuge to sport fishing from November 1 through January 31.

(ii) We only allow sport fishing with hand-held rod and reel or hand-held rod and line.

(iii) You may take bait shrimp with cast nets only.

(iv) You may take crawfish (up to 100 pounds (45 kilograms) per person, per day) with crawfish or dip nets only.

(v) We allow recreational crabbing only.

(vi) You must attend all fishing, crabbing, and crawfishing equipment at all times.

(vii) We prohibit the use of trotlines, limblines, slat traps, gar sets, nets, and alligator lines on the refuge.

(viii) The conditions set forth at paragraphs (c)(1)(i), (x), and (xiii) of this section apply.

(d) Bayou Teche National Wildlife Refuge—(1) Migratory game bird hunting. We allow hunting of duck, merganser, teal, light and dark goose, coot, gallinule, rail, snipe, dove, and woodcock on designated areas of the refuge subject to the following conditions:

(i) Each person age 18 and older must possess and carry a valid, signed refuge user brochure while on the refuge.

(ii) We prohibit hunting or discharge of firearms (see § 27.42 of this chapter) within 500 feet (152 meters (m)) of any residence or oil and gas infrastructure, or within 200 feet (61 m) of any road, railroad, levee, water control structure, designated public use trail, designated parking area, or other designated public use facility.

(iii) All youth hunters age 15 and younger must be supervised by an adult during all hunts. One adult may supervise up to two youths during small game and migratory game bird hunts, but may supervise only one youth during big game hunts. The supervising adult must maintain visual and voice contact with the youth at all times. Adult guardians are responsible for ensuring that youth hunters do not violate refuge rules.

(iv) We require waterfowl and gallinule hunters to remove all portable blinds and decoys from the refuge by 2 p.m. each day (see §§ 27.93 and 27.94 of this chapter).

(v) Migratory bird hunters are only allowed to enter the refuge after 4 a.m.

(vi) We allow waterfowl and gallinule hunting daily until 2 p.m. during the State regular season, State teal season, and State youth and veteran waterfowl seasons.

(vii) When hunting migratory game birds, you may only use dogs to locate, point, and retrieve game.

(viii) We allow only the use of reflective tacks as marking devices.

(ix) We only allow the incidental take of nutria with approved shot and weapons during any open waterfowl season on the refuge.

(x) We allow the incidental take of raccoon, feral hog, armadillo, opossum, and coyote with approved shot and weapons during any open season on the refuge.

(2) Upland game hunting. We allow hunting of squirrel and rabbit, and the incidental take of nutria, coyote, raccoon, armadillo, and opossum, on designated areas of the refuge subject to the following conditions:

(i) We only allow hunting from the start of the State squirrel and rabbit seasons until the last day of State waterfowl season in the Coastal Zone, except that the Centerville Unit will be open until the last day of the State waterfowl season in the East Zone.

(ii) We prohibit upland game hunting on days corresponding with refuge deer gun hunts.

(iii) Hunters must leave the refuge no later than 2 hours after legal sunset.

(iv) When hunting, you must possess only shot size 4 or smaller or 0.22 caliber rimfire rifles or smaller. We allow the use of air rifles.

(v) The conditions set forth at paragraphs (d)(1)(i) through (iii) and (viii) through (x) of this section apply.

(3) Big game hunting. We allow the hunting of white-tailed deer, and the incidental take of feral hog, on designated areas of the refuge subject to the following conditions:

(i) We allow hunting of deer only with firearms (see § 27.42 of this chapter) during 5 specific days during October and November. A youth gun hunt will occur during the last weekend of October. The general gun hunt will occur during the final full weekend in November. The youth gun hunt includes both Saturday and Sunday. The general gun hunt includes the Friday immediately before the weekend.

(ii) We allow archery deer hunting according to the State of Louisiana archery season. We close refuge archery hunting during refuge deer gun hunts.

(iii) We allow each hunter to possess only one deer per day; the deer may be a buck or a doe.

(iv) Hunters may use only portable deer stands. Hunters may erect deer stands no earlier than 48 hours before the deer archery season and must remove them from the refuge within 48 hours after the season closes (see § 27.93 of this chapter). Hunters may place only one deer stand on the refuge. Deer stands must have the owner's State hunting license/sportsman's identification number clearly printed on the stand.

(v) The conditions set forth at paragraphs (d)(1)(i) through (iii), (viii), and (x), and (d)(2)(iii) of this section apply.

(vi) We prohibit the use of deer decoys.

(vii) We prohibit organized deer drives. We define a “deer drive” as an organized or planned effort to pursue, drive, chase, or otherwise frighten or cause deer to move in the direction of any person(s) who is part of the organized or planned hunt and known to be waiting for the deer.

(viii) Deer hunters must display State Wildlife Management Area (WMA) hunter-orange or blaze-pink (as governed by State WMA regulations).

(4) Sport fishing. We allow sport fishing in all refuge waters subject to the following conditions:

(i) We prohibit the use of unattended nets, traps, or lines (trot, jug, bush, etc.).

(ii) The condition set forth at paragraph (d)(1)(i) of this section applies.

(iii) The refuge is only open to recreational finfishing and shellfishing from legal sunrise to legal sunset.

(e) Big Branch Marsh National Wildlife Refuge—(1) Migratory game bird hunting. We allow hunting of duck, merganser, teal, coot, light and dark goose, snipe, rail, gallinule, dove, and woodcock on designated areas of the refuge subject to the following conditions:

(i) Each person age 18 and older must possess and carry a valid, signed refuge user brochure while on the refuge.

(ii) We allow waterfowl, snipe, rail, gallinule, dove, and goose hunting on Wednesdays, Thursdays, Saturdays, and Sundays from ½ hour before legal sunrise until 2 p.m., including waterfowl hunting during the State teal season and State youth and veterans waterfowl seasons. We only allow hunting of woodcock until 2 p.m.

(iii) We allow light goose hunting for that part of the season that extends beyond the regular duck season from ½ hour before legal sunrise until 2 p.m.

(iv) We allow only temporary blinds, and hunters must remove blinds and decoys by 2 p.m. each day (see § 27.93 of this chapter).

(v) All youth hunters age 15 and younger must be supervised by an adult during all hunts. One adult may supervise up to two youths during small game hunts and migratory bird hunts, but may supervise only one youth during big game hunts. The supervising adult must maintain visual and voice contact with the youth at all times. Adult guardians are responsible for ensuring that youth hunters do not violate refuge rules.

(vi) We prohibit hunting or discharge of firearms (see § 27.42 of this chapter) within 500 feet (152 meters (m)) of any residence adjacent to the refuge or oil and gas infrastructure on the refuge, or within 200 feet (61 m) from the center of any road, railroad, levee, water control structure, designated public use maintained trail, designated parking area, or other designated public use facility.

(vii) We allow migratory bird hunters to enter the refuge no earlier than 4 a.m., and all hunters must exit the refuge no later than 2 hours after legal sunset.

(viii) We allow only reflective tacks as trail markers on the refuge.

(ix) We allow the incidental take of raccoon, feral hog, armadillo, opossum, and coyote with approved shot and weapons allowed during any open season on the refuge.

(x) We only allow the incidental take of nutria with approved shot and weapons during any open waterfowl (duck, teal, merganser, light and dark goose, and coot) season on the refuge.

(2) Upland game hunting. We allow hunting of squirrel, rabbit, and quail, and the incidental take of nutria, coyote, raccoon, armadillo, and opossum, on designated areas of the refuge subject to the following conditions:

(i) When hunting, you must possess only shot size 4 or smaller, or 0.22 caliber rim-fire rifles or smaller. We allow the use of air rifles.

(ii) When hunting squirrel and rabbit, and for the incidental take of raccoon, we allow the use of dogs only after the close of the State archery deer season. When hunting quail, you may only use dogs to locate, point, and retrieve.

(iii) The conditions set forth at paragraphs (e)(1)(i), (v), (vi), and (viii) through (x) of this section apply.

(iv) During the dog season for squirrel and rabbit, all hunters, including archers (while on the ground), except waterfowl hunters, must wear a minimum of a cap or hat that is hunter orange, blaze pink, or other such color as governed by State regulations.

(v) We only allow hunting of quail until 2 p.m.

(3) Big game hunting. We allow hunting of white-tailed deer, and the incidental take of feral hog, on designated areas of the refuge subject to the following conditions:

(i) We are open only during the State season for archery hunting of deer.

(ii) We prohibit organized deer drives. We define a “deer drive” as an organized or planned effort to pursue, drive, chase, or otherwise frighten or cause deer to move in the direction of any person(s) who is part of the organized or planned hunt and known to be waiting for the deer.

(iii) We allow placement of temporary deer stands no earlier than 48 hours prior to the start of deer archery season. Hunters must remove all deer stands within 48 hours after the archery deer season closes (see § 27.93 of this chapter). We allow only one deer stand per hunter on the refuge. Deer stands must have the owner's State license/sportsmen's identification number clearly printed on the stand. We prohibit hunting stands on trees painted with white bands.

(iv) The conditions set forth at paragraphs (e)(1)(i), (v), (vi), and (viii) through (x) of this section apply.

(v) We prohibit the use of deer decoys.

(4) Sport fishing. We allow recreational finfishing and shellfishing on designated areas of the refuge subject to the following conditions:

(i) You may only fish from legal sunrise until legal sunset, except we allow night fishing from the bank and pier on Lake Road.

(ii) You must only use rod and reel or pole and line while fishing.

(iii) You must attend to any fishing, crabbing, and crawfishing equipment at all times.

(iv) The condition set forth at paragraph (e)(1)(i) of this section applies.

* * * * *

(g) Bogue Chitto National Wildlife Refuge—(1) Migratory game bird hunting. We allow hunting of duck, merganser, teal, light and dark goose, coot, gallinule, rail, snipe, dove, and woodcock on designated areas of the refuge subject to the following conditions:

(i) Each person age 18 and older must possess and carry a valid, signed refuge user brochure while on the refuge.

(ii) We only allow hunting of duck, merganser, teal, light and dark goose, and gallinule from ½ hour before legal sunrise until 2 p.m. of the State seasons, including during the State teal season, State youth waterfowl season, State veterans season, and special light goose conservation season.

(iii) You must remove blinds and decoys by 2 p.m. each day (see § 27.93 of this chapter).

(iv) When hunting migratory game birds, you may only use dogs to locate, point, and retrieve game.

(v) All youth hunters age 15 and younger must be supervised by an adult during all hunts. One adult may supervise up to two youths during upland game hunts and migratory bird hunts, but may supervise only one youth during big game hunts. The supervising adult must maintain visual and voice contact with the youth at all times. Adult guardians are responsible for ensuring that youth hunters do not violate refuge rules.

(vi) We prohibit hunting or discharge of firearms (see § 27.42 of this chapter) within 500 feet (152 meters (m)) of any residence or oil and gas infrastructure, or within 200 feet (61 m) of any road, railroad, levee, water control structure, designated public use trail, building, designated camping area, designated parking area, or other designated public facility.

(vii) For the purpose of hunting, we prohibit possession of slugs, buckshot, and rifle and pistol ammunition, except during the deer gun and primitive firearm seasons (see § 32.2(k)).

(viii) You may use only reflective tacks as trail markers on the refuge.

(ix) We allow the incidental take of feral hog, raccoon, armadillo, opossum, and coyote with approved shot and weapons allowed during any open season on the refuge.

(x) We only allow incidental take of nutria with approved shot and weapons during any open waterfowl season on the refuge.

(2) Upland game hunting. We allow hunting of squirrel, rabbit, and quail, and the incidental take of nutria, coyote, raccoon, armadillo, and opossum, on designated areas of the refuge subject to the following conditions:

(i) We allow the use of dogs for rabbit and squirrel hunting, and the incidental take of raccoon, on specific dates listed in the refuge hunt brochure.

(ii) During any open deer firearm or primitive firearm season on the refuge, all hunters, except waterfowl hunters and nighttime incidental raccoon and incidental opossum hunters, must wear hunter orange, blaze pink, or other such color as governed by State regulations.

(iii) The conditions set forth at paragraphs (g)(1)(i) and (v) through (x) of this section apply.

(iv) You may use .22-caliber rifles or smaller while hunting upland game and ammunition must be size 4 or smaller (see § 32.2(k)).

(v) We will close the refuge to hunting (except waterfowl) and camping when the Pearl River reaches 15.5 feet (4.72 meters) on the Pearl River Gauge at Pearl River, Louisiana.

(vi) During the dog season for squirrels, rabbits, and incidental take of raccoon, all hunters, including archery hunters (while on the ground), except waterfowl hunters, must wear a cap or hat that is hunter-orange, blaze pink, or other such color as governed by State regulations.

(vii) We prohibit upland game hunting on days corresponding with refuge deer gun and primitive firearm hunts.

(viii) We only allow quail hunting until 2 p.m.

(3) Big game hunting. We allow hunting of white-tailed deer, turkey, and feral hog, and the incidental take of feral hog, on designated areas of the refuge subject to the following conditions:

(i) The conditions set forth at paragraphs (g)(1)(i) and (v) through (x), and (g)(2)(ii), (v), and (vi) of this section apply.

(ii) Hunters may erect deer stands no earlier than 48 hours before the deer archery season opens and must remove them from the refuge within 48 hours after this season closes (see § 27.93 of this chapter). We allow only one deer stand per hunter on the refuge. Deer stands must have the owner's State license/sportsmen's identification number clearly printed on the stand.

(iii) Deer hunters hunting from concealed blinds must display State Wildlife Management Area (WMA) hunter-orange or blaze-pink (as governed by State WMA regulations) above or around their blinds that is visible from 360 degrees.

(iv) We hold a special dog hog hunt in February. During this hunt, the following conditions apply, in addition to the other conditions set forth in this paragraph (g)(3):

(A) You must use trained hog-hunting dogs to aid in the take of hog.

(B) We allow take of hog from ½ hour before legal sunrise until ½ hour after legal sunset.

(C) You must possess only approved nontoxic shot, or pistol or rifle ammunition not larger than .22 caliber rim-fire, to take the hog after it has been caught by dogs.

(v) You must kill all hogs prior to removal from the refuge.

(vi) We prohibit the use of deer and turkey gobbler decoys.

(vii) We prohibit using shot larger than BB-lead, or T-steel, while hunting during turkey season.

(viii) We describe the dates for deer general gun hunts, youth hunts, and veterans hunts in the refuge user brochure.

(4) Sport fishing. We allow only recreational fishing year-round on designated areas of the refuge subject to the following conditions:

(i) We only allow cotton limb lines.

(ii) We close the fishing ponds at the Pearl River Turnaround to fishing from April through the first full week of June and to boating during the months of April, May, June, and July.

(iii) When the Pearl River Turnaround area is open, we allow boats that do not have gasoline-powered engines attached in the fishing ponds at the Pearl River Turnaround. Anglers must hand-launch these boats into the ponds. When the fishing ponds at the Pearl River Turnaround are open, hook and line is the only legal method of take in those ponds.

(iv) The Pearl River Turnaround area, when open to fishing, is open ½ hour before legal sunrise to ½ hour after legal sunset.

(v) The conditions set forth at paragraphs (g)(1)(i) and (viii), and (g)(2)(v) of this section apply.

* * * * *

(i) * * *

(1) * * *

(iv) Every hunter must complete and turn in a Harvest Report (FWS Form 3-2542) available from a self-clearing check station after each hunt.

* * * * *

(3) * * *

(iii) Each hunter must complete and turn in a Harvest Report (FWS Form 3-2542) available from a self-clearing check station after each hunt.

* * * * *

(j) Cat Island National Wildlife Refuge—(1) Migratory game bird hunting. We allow hunting of duck, merganser, teal, light and dark goose, coot, snipe, rail, gallinule, dove, and woodcock on designated areas of the refuge subject to the following conditions:

(i) Each person age 18 and older must possess and carry a valid, signed refuge user brochure while on the refuge.

(ii) We allow migratory bird hunters to enter the refuge no earlier than 4 a.m., and all hunters must exit the refuge within 2 hours after legal sunset.

(iii) We allow the incidental take of beaver, feral hog, raccoon, armadillo, opossum, and coyote with approved shot and weapons allowed during any open season on the refuge.

(iv) We allow all-terrain vehicles (ATVs) and utility-type vehicle (UTVs) as governed by State Wildlife Management Area regulations and size specifications on designated trails (see § 27.31 of this chapter) from the third Saturday in September until February 28.

(v) We prohibit hunting within 500 feet (152 meters (m)) of any residence or oil and gas infrastructure, or within 200 feet (61 m) of any road, railroad, levee, water control structure, designated public use trail, building, designated parking area, or designated public use facility.

(vi) All youth hunters age 15 and younger must be supervised by an adult during hunts. One adult may supervise up to two youths during small game hunts and migratory bird hunts, but may supervise only one youth during big game hunts. The supervising adult must maintain visual and voice contact with the youth at all times. Adult guardians are responsible for ensuring that youth hunters do not violate refuge rules.

(vii) We allow waterfowl (duck, merganser, teal, light and dark goose, coot, and gallinule) hunting daily during the State regular season, including waterfowl hunting during the State teal season and State youth and veteran waterfowl seasons, from ½ hour before legal sunrise until 2 p.m.

(viii) You must remove harvested waterfowl, temporary blinds, and decoys used for duck hunting by 2 p.m. each day (see § 27.93 of this chapter).

(ix) When hunting migratory game birds, you may only use dogs to locate, point, and retrieve.

(x) We prohibit accessing refuge property by boat from the Mississippi River.

(xi) We allow only the use of reflective tacks as marking devices.

(xii) We only allow the incidental take of nutria with approved shot and weapons during any open waterfowl season on the refuge.

(2) Upland game hunting. We allow hunting of squirrel and rabbit, and the incidental take of nutria, beaver, coyote, raccoon, armadillo, and opossum, on designated areas of the refuge subject to the following conditions:

(i) The conditions set forth at paragraphs (j)(1)(i) through (vi) and (x) through (xii) of this section apply.

(ii) While upland game hunting, we prohibit the possession of hunting firearms larger than 0.22 caliber rimfire, shotgun slugs, and buckshot (see § 27.42 of this chapter).

(iii) We allow the use of dogs during designated small game with dog seasons. We require the owner's contact information on the collars of all dogs. We only allow up to two dogs per hunting party for squirrel hunting.

(iv) We prohibit upland game hunting on days corresponding with refuge deer gun hunts.

(3) Big game hunting. We allow hunting of white-tailed deer on designated areas of the refuge subject to the following conditions:

(i) The conditions set forth at paragraphs (j)(1)(i) through (vi), (x), and (xi) of this section apply.

(ii) We allow archery deer hunting, youth deer gun hunting during the first weekend of the State youth firearm season, and one weekend of primitive firearm season on the refuge. We list specific dates of these hunts in the refuge annual user brochure.

(iii) Hunters may erect deer stands no earlier than 48 hours before the deer archery season opens and must remove them from the refuge within 48 hours after this season closes (see § 27.93 of this chapter). We grant extensions to retrieve stands due to high water refuge closure. We allow only one deer stand or blind per hunter on the refuge. Deer stands must have the owner's State license/sportsmen's identification number clearly printed on the stand.

(iv) You may only take one deer of either sex per day during the deer seasons listed. State season limits apply.

(v) Deer hunters must display State Wildlife Management Area (WMA) hunter-orange or blaze-pink (as governed by State WMA regulations).

(vi) We prohibit organized drives. We define a “drive” as an organized or planned effort to pursue, drive, chase, or otherwise frighten or cause game to move in the direction of any person(s) who is part of the organized or planned hunt and known to be waiting for the game.

(4) Sport fishing. We allow recreational finfishing and shellfishing on designated areas of the refuge subject to the following conditions:

(i) The conditions set forth at paragraphs (j)(1)(i), (iv) (on the open portions of Wood Duck ATV trail for wildlife-dependent activities throughout the year), (x), and (xi) of this section apply.

(ii) We prohibit slat traps or hoop nets on the refuge.

(iii) Anglers may only crawfish during designated days and times. The harvest limit is 50 pounds (22.5 kilograms) per person per day.

(iv) You must attend all crawfish traps and nets at all times. We allow up to, and no more than, 20 traps per angler on the refuge.

* * * * *

(m) Delta National Wildlife Refuge—(1) Migratory game bird hunting. We allow hunting of duck, merganser, teal, light and dark goose, dove, snipe, rail, gallinule, and coot on designated areas of the refuge subject to the following conditions:

(i) Each person age 18 and older must possess and carry a valid, signed refuge user brochure while on the refuge.

(ii) We allow migratory bird hunting on Wednesdays, Thursdays, Saturdays, and Sundays from ½ hour before legal sunrise until 2 p.m. during the State seasons, including the regular waterfowl season, the State teal season, State youth waterfowl season, State veterans waterfowl season, and State light goose special conservation season.

(iii) We only allow temporary blinds. You must remove both blinds and decoys by 2 p.m. each day (see § 27.93 of this chapter).

(iv) When hunting migratory game birds, you may only use dogs to locate, point, and retrieve game.

(v) We prohibit discharge of firearms (see § 27.42 of this chapter) within 500 feet (152 meters (m)) of any residence or oil and gas infrastructure, or within 200 feet (61 m) of any road, railroad, levee, water control structure, designated public use trail, designated parking area, or other designated public use facilities.

(vi) All youth hunters age 15 and younger must be supervised by an adult during all hunts. One adult may supervise up to two youths during upland game and migratory game bird hunts, but may supervise only one youth during big game hunts. The supervising adult must maintain visual and voice contact with the youth at all times.

(vii) Migratory bird hunters may enter the refuge no earlier than 4 a.m., and all hunters must exit the refuge no later than 2 hours after legal sunset.

(viii) We allow the incidental take of raccoon, feral hog, armadillo, opossum, and coyote with approved shot and weapons allowed during any open season on the refuge.

(ix) We only allow the incidental take of nutria with approved shot and weapons during any open waterfowl season on the refuge.

(x) We allow only the use of reflective tacks as marking devices.

(2) Upland game hunting. We allow hunting of rabbit, and the incidental take of nutria, coyote, raccoon, armadillo, and opossum on designated areas of the refuge subject to the following conditions:

(i) The refuge rabbit season opens the day after the State duck season closes and continues through the remainder of the State rabbit season.

(ii) We restrict hunting to shotgun only.

(iii) We allow the use of dogs when rabbit hunting.

(iv) We prohibit upland game hunting on days corresponding with refuge deer gun hunts.

(v) The conditions set forth at paragraphs (m)(1)(i) and (v) through (viii) of this section apply.

(3) Big game hunting. We allow hunting of white-tailed deer on designated areas of the refuge subject to the following conditions:

(i) The conditions set forth at paragraphs (m)(1)(i) and (v) through (x) of this section apply.

(ii) We allow archery deer hunting, bucks only, from October 1 through 15. We allow either-sex archery deer hunting from October 16 through 31, and from the day after the close of the State duck season through the end of the State deer archery season.

(iii) We allow placement of temporary deer stands up to 48 hours prior to the start of deer archery season. Hunters must remove all deer stands within 48 hours after the archery deer season closes (see § 27.93 of this chapter). We allow only one deer stand per hunter on the refuge. Deer stands must have the owner's State license/sportsmen's identification number clearly printed on the stand.

(iv) We prohibit organized deer drives. We define a “deer drive” as an organized or planned effort to pursue, drive, chase, or otherwise frighten or cause deer to move in the direction of any person(s) who is part of the organized or planned hunt and known to be waiting for the deer.

(v) We prohibit the use of deer decoys.

(vi) We allow shotgun hunting of deer on the Saturday and Sunday during the first split of the regular waterfowl season.

(vii) Deer hunters must display State Wildlife Management Area (WMA) hunter-orange or blaze-pink (as governed by State WMA regulations).

(4) Sport fishing. We allow recreational finfishing and shellfishing on designated areas of the refuge subject to the following conditions:

(i) We only allow sport finfishing and shellfishing from ½ hour before legal sunrise until ½ hour after legal sunset. During the State waterfowl hunting seasons, we only allow sport finfishing and shellfishing from 2 p.m. until ½ hour after legal sunset. However, during the waterfowl season, we prohibit all public entry between Main Pass and Raphael Pass.

(ii) We prohibit the use of trotlines, limblines, slat traps, jug lines, nets, or alligator lines.

(iii) The condition set forth at paragraph (m)(1)(i) of this section applies.

* * * * *

(o) * * *

(1) * * *

(iv) Each hunter must complete and turn in a Harvest Report (FWS Form 3-2542), available from a self-clearing check station, after each hunt.

* * * * *

(3) * * *

(v) Each hunter must complete and turn in a Harvest Report (FWS Form 3-2542) available from a self-clearing check station, after each hunt.

* * * * *

(q) Mandalay National Wildlife Refuge—(1) Migratory game bird hunting. We allow hunting of duck, teal, merganser, light and dark goose, gallinule (including moorhen), coot, rail, snipe, and dove on designated areas of the refuge subject to the following conditions:

(i) Each person age 18 and older must possess and carry a valid, signed refuge user brochure while on the refuge.

(ii) We allow only youth hunting of migratory game birds and only in the Hanson Unit on Wednesdays, Thursdays, Saturdays, and Sundays until 2 p.m. of the State teal, youth, and regular waterfowl seasons.

(iii) We open the Hanson Unit only to youth goose hunting during any segment of the goose season that extends beyond the regular duck season on Wednesdays, Thursdays, Saturdays, and Sundays until 2 p.m.

(iv) Migratory bird hunters are only allowed to enter the refuge after 4 a.m.

(v) All youth hunters age 15 and younger must be supervised by an adult during all hunts. One adult may supervise up to two youths during small game and migratory game bird hunts. An adult may supervise only one youth during big game hunts. The supervising adult must maintain visual and voice contact with the youth at all times. The youth must be capable of and must actively participate in the hunt by possessing and/or firing a legal weapon during the hunt for the express purpose of harvesting game. Parents or adult guardians are responsible for ensuring that hunters age 15 and younger do not violate refuge rules.

(vi) Adults accompanying youth on refuge hunts may participate by hunting, but are not allowed to harvest more than their own daily bag limit.

(vii) We only allow incidental take of nutria with approved shot and weapons during any open waterfowl season on the refuge.

(viii) We allow incidental take of raccoon, feral hog, armadillo, opossum, and coyote with approved shot and weapons allowed during any open season on the refuge.

(ix) We prohibit hunting within 500 feet (152 meters (m)) of any residence or oil and gas infrastructure, or within 200 feet (61 m) of any road, railroad, levee, water control structure, designated public use trail, designated parking area, or other designated public use facility.

(x) We allow only temporary blinds, and hunters must remove blinds and decoys by 2 p.m. each day (see § 27.93 of this chapter).

(2) Upland Game Hunting. We allow youth hunting of squirrel and rabbit, and the incidental take of nutria, coyote, raccoon, armadillo, and opossum, on designated areas of the refuge subject to the following conditions:

(i) When hunting, you must possess only shot size 4 or smaller, or 0.22 caliber rim-fire rifles or smaller. We allow the use of air rifles.

(ii) The conditions set forth at paragraphs (q)(1)(i) and (v) through (ix) apply.

(iii) The Hanson Unit is closed to youth hunting prior to 2 p.m. on Wednesdays, Thursdays, Saturdays, and Sundays during waterfowl hunt season.

(iv) Hunters must leave the refuge no later than 2 hours after legal sunset.

(3) Big game hunting. We allow the hunting of white-tailed deer, and the incidental take of feral hog, on designated areas of the refuge subject to the following conditions:

(i) We open the refuge to hunting of white-tailed deer only during the State archery season in State Area 9.

(ii) You may take only one deer of either sex per day.

(iii) We prohibit the use of deer decoys.

(iv) We only allow portable stands. Hunters may erect temporary deer stands no earlier than 48 hours prior to the start of deer archery season. Hunters must remove all deer stands within 48 hours after the archery deer season closes (see § 27.93 of this chapter). Hunters may place only one deer stand on the refuge. Deer stands must have the owner's State hunting license/sportsman's identification number clearly printed on the stand.

(v) We prohibit organized deer drives. We define a “deer drive” as an organized or planned effort to pursue, drive, chase, or otherwise frighten or cause deer to move in the direction of any person(s) who is part of the organized or planned hunt and known to be waiting for the deer.

(vi) The conditions set forth at paragraphs (q)(1)(i), (v), (vi), (viii), and (ix), and (q)(2)(iv) of this section apply.

(4) Sport fishing. We allow recreational finfishing and shellfishing in all refuge waters subject to the following conditions:

(i) We prohibit the use of unattended nets, traps, or lines (trot, jog, bush, etc.).

(ii) The refuge is open from legal sunrise until legal sunset.

(iii) The condition set forth at paragraph (q)(1)(i) of this section applies.

(r) Red River National Wildlife Refuge—(1) Migratory game bird hunting. We allow hunting of duck, goose, coot, woodcock, snipe, rail, gallinule, and dove on designated areas of the refuge subject to the following conditions:

(i) Hunters must possess and carry a signed refuge brochure.

(ii) We allow waterfowl hunting until 12 p.m. (noon) during the State season. Waterfowl hunters must exit the refuge no later than 1:30 p.m.

(iii) Hunters may enter the refuge no earlier than 4 a.m.

(iv) Hunters may only hunt during designated times and seasons within specified State seasons as listed in refuge brochure.

(v) We prohibit hunting within 100 feet (30 meters) of any public road, refuge road, trail or ATV trail, residence, building, aboveground oil or gas or electrical transmission facility, or designated public facility.

(vi) When hunting migratory game birds, you may only use dogs to locate, point, and retrieve.

(vii) We allow the incidental take of coyote, beaver, and feral hogs in designated areas during any refuge hunt with the weapons legal for that hunt, subject to applicable State seasons and regulations.

(2) Upland game hunting. We allow hunting of quail, squirrel, rabbit, raccoon, and opossum, and incidental take of coyote and beaver, on designated areas of the refuge subject to the following conditions:

(i) The conditions set forth at paragraphs (r)(1)(i), (iii) through (v), and (vii) of this section apply.

(ii) We allow hunting of raccoon and opossum during the daylight hours of rabbit and squirrel season. We allow night hunting during December and January, and you may use dogs for night hunting.

(iii) We allow the use of dogs to hunt squirrel and rabbit after December 31.

(iv) Hunters must exit the refuge no later than 1 hour after legal shooting hours, unless participating in authorized hunting after legal sunset.

(3) Big game hunting. We allow hunting of white-tailed deer and turkey, and the incidental take of feral hog, on designated areas of the refuge subject to the following condition: The conditions set forth at paragraphs (r)(1)(i), (iii) through (v), and (vii), and (r)(2)(iv) of this section apply.

(4) Sport fishing. We allow sport fishing on designated areas of the refuge subject to the following conditions:

(i) We allow use of only electric trolling motors on all refuge waters while fishing.

(ii) Recreational fishing using commercial gear (slat traps, etc.) requires a special refuge permit (Special Use Permit (FWS Form 3-1383-G)), which is available at the refuge office. You must possess and carry the special refuge permit while fishing using commercial gear.

(iii) We prohibit the taking of alligator snapping turtle (see § 27.21 of this chapter).

(s) * * *

(1) * * *

(iv) Each hunter must complete and turn in a Harvest Report (FWS Form 3-2542) from a self-clearing check station after each hunt.

* * * * *

(t) Tensas River National Wildlife Refuge—(1) Migratory game bird hunting. We allow hunting of duck, goose, rail, gallinule, coot, woodcock, and snipe on designated areas of the refuge subject to the following conditions:

(i) All hunters and anglers age 16 and older must purchase an Annual Public Use Permit (FWS Form 3-2439). This permit allows individuals to participate in open (non-quota) hunting and fishing seasons.

(ii) All hunters and anglers must obtain a Self-Clearing Permit (FWS Form 3-2405), available at refuge entry points and at the Visitor Center, and complete the self-clearing process when exiting the refuge at the end of each day.

(iii) We allow hunting of duck, goose, rail, gallinule, coot, and snipe on Tuesdays, Thursdays, Saturdays, and Sundays until 2 p.m. during the State season. We prohibit migratory bird hunting during refuge gun hunts for deer.

(iv) We allow refuge hunters to enter the refuge no earlier than 4 a.m., and they must leave no later than 2 hours after legal sunset unless they are participating in the refuge nighttime raccoon hunt.

(v) We allow all-terrain vehicle (ATV) travel on designated trails for access typically from October 1 to the last day of the refuge squirrel season.

(vi) We prohibit field dressing of game within 150 feet (45 meters) of parking areas, maintained roads, and trails.

(vii) An adult age 18 or older must supervise youth hunters age 17 and younger during all hunts. One adult may supervise two youths during small game and migratory bird hunts, but may supervise only one youth during big game hunts. Youth must remain within normal voice contact of the adult who is supervising them.

(viii) We allow the incidental take of coyote, beaver, raccoon, opossum, feral hog, armadillo, and nutria during authorized hunts with firearms and archery equipment legal for use during the hunt.

(2) Upland game hunting. We allow hunting of raccoon, squirrel, and rabbit, and the incidental take of coyote, beaver, raccoon, opossum, armadillo, and nutria, on designated areas of the refuge subject to the following conditions:

(i) The conditions set forth at paragraphs (t)(1)(i), (ii), and (iv) through (viii) of this section apply.

(ii) A nighttime raccoon hunt will be conducted during December, January, and/or February, usually in conjunction with the adjacent State Wildlife Management Area (WMA) raccoon hunting season.

(iii) We allow the use of dogs when squirrel and rabbit hunting subject to the following conditions:

(A) We allow hunting without dogs from the beginning of the State season to December 31.

(B) From the beginning of the State season to December 31, we do not require hunters to wear hunter orange.

(C) We allow squirrel and rabbit hunting with or without dogs from January 1 to the last day of February.

(D) From January 1 to the last day of February, squirrel and rabbit hunters are required to wear a minimum solid hunter orange cap.

(E) We allow no more than three dogs per hunting party.

(iv) We close squirrel and rabbit hunting during the following gun hunts for deer: Refuge-wide youth hunt, primitive firearms hunt, and modern firearms hunts.

(3) Big game hunting. We allow hunting of white-tailed deer and turkey, and the incidental take of feral hogs, on designated areas of the refuge subject to the following conditions:

(i) The conditions set forth at paragraphs (t)(1)(i), (ii), and (iv) through (viii) of this section apply.

(ii) We require a valid Quota Modern Firearm Permit (FWS Form 3-2439) to hunt during a Deer Quota Modern Firearm Hunt. You must complete and submit an application for all Deer Quota Hunts, and hunters will be notified of their drawing status. If selected, hunters are required to purchase the Annual Public Use Permit (FWS Form 3-2439) to claim their Quota Modern Firearm Permit for the selected hunt. Hunters must carry a signed paper copy or electronic version of the permit with them on their person while hunting.

(iii) Deer archery season will begin the first Saturday in November and will conclude on January 31, except for during the youth gun hunt and modern firearms hunts, when archery is prohibited.

(iv) The deer primitive firearms season will occur between November 1 and January 31. We allow all legal primitive firearms as governed by State regulations.

(v) During the deer primitive firearms season, hunters may fit any legal primitive firearms with magnified scopes.

(vi) We allow hunters using primitive weapons to hunt reforested areas.

(vii) We prohibit youth hunters from using modern firearms during the primitive weapon hunt.

(viii) During modern firearm hunts, all firearm hunting, even hunting with primitive weapons or muzzleloaders, is governed by applicable Federal and State regulations. We require a quota hunt permit (FWS Form 3-2439) for these hunts.

(ix) During modern firearm hunts, we prohibit hunting in reforested areas. We prohibit hunting and/or shooting into or across any reforested area during the quota hunt for deer.

(x) For the guided quota youth hunts, we consider youth to be ages 8 through 15.

(xi) We will conduct a refuge-wide youth deer hunt that will coincide with the State youth hunt weekend.

(xii) Hunters may take only one deer (one buck or one doe) per day during refuge deer hunts, except that during guided youth and wheelchair-bound hunts, the limit will be one antlerless and one antlered deer per day.

(xiii) We allow turkey hunting in designated areas during the State turkey hunt season not to exceed 16 days.

(xiv) We allow a youth turkey hunt weekend in conjunction with the State youth turkey hunt weekend.

(xv) We allow muzzleloader hunters to discharge their primitive firearms at the end of each hunt safely into the ground at least 150 feet (45 meters (m)) from any designated public road, maintained road, trail, fire break, dwelling, or aboveground oil and gas production facility. We define a “maintained road or trail” as one that has been mowed, disked, or plowed, or one that is free of trees.

(xvi) We prohibit deer hunters leaving deer stands unattended before the opening day of the refuge archery season. Hunters must remove stands from the refuge by the end of the last day of the refuge archery season (see § 27.93 of this chapter). Hunters must remove portable stands from trees at the end of each day's hunt and place freestanding stands in a nonhunting position when unattended. Hunters must clearly mark stands left unattended on the refuge with the hunter's last name, Louisiana Department of Wildlife and Fisheries license number, and I-Sportsman Permit Number.

(xvii) We allow hunting with slugs, rifle, or pistol ammunition larger than .22 caliber rimfire only during the quota hunts for deer. We prohibit use of buckshot when hunting.

(4) Sport fishing. We allow sport fishing on designated areas of the refuge subject to the following conditions:

(i) The conditions set forth at paragraphs (t)(1)(i) and (ii) of this section apply.

(ii) We allow anglers to enter the refuge no earlier than 4 a.m., and they must depart no later than 2 hours after legal sunset.

(iii) We prohibit the taking of turtle (see § 27.21 of this chapter).

(iv) We prohibit fish cleaning within 150 feet (45 m) of parking areas, maintained roads, and trails.

(u) Upper Ouachita National Wildlife Refuge—(1) Migratory game bird hunting. We allow hunting of duck, goose, coot, dove, rail, gallinule, snipe, and woodcock on designated areas of the refuge subject to the following conditions:

(i) You must carry a signed refuge public use brochure and must carry and fill out daily a Visitor Check-In Permit and Report (FWS Form 3-2405).

(ii) Hunters may only hunt during designated refuge seasons as listed in the signed refuge public use brochure.

(iii) We allow waterfowl hunting until 12 p.m. (noon) during the State season. Waterfowl hunters must exit the refuge no later than 1:30 p.m.

(iv) Hunters may enter the refuge no earlier than 4 a.m.

(v) We prohibit hunting within 100 feet (30 meters (m)) of the maintained rights-of-way of roads and from or across all-terrain vehicle (ATV) trails. We prohibit hunting within 50 feet (15 meters (m)) of, or trespassing on, aboveground oil, gas, or electrical transmission facilities.

(vi) When hunting migratory game birds, you may only use dogs to locate, point, and retrieve.

(vii) We allow ATVs only on trails designated for their use and marked by signs (see § 27.31 of this chapter). ATV trails are closed March 1 through August 31.

(viii) We allow the incidental take of coyote, beaver, and feral hog during any refuge hunt with the weapons legal for that hunt, subject to applicable State seasons and regulations.

(2) Upland game hunting. We allow hunting of quail, squirrel, rabbit, raccoon, and opossum, and the incidental take of coyote and beaver, on designated areas of the refuge subject to the following conditions:

(i) The conditions set forth at paragraphs (u)(1)(i), (ii), (iv), (v), (vii), and (viii) of this section apply.

(ii) You must exit no later than 2 hours after legal shooting hours, unless participating in authorized hunting after legal sunset.

(iii) We allow the nighttime hunting of raccoon and opossum from December 1 to January 31 with the aid of dogs. We allow hunting of raccoon and opossum during the daylight hours of rabbit and squirrel season.

(3) Big game hunting. We allow hunting of white-tailed deer and turkey, and the incidental take of feral hog, on designated areas of the refuge subject to the following conditions:

(i) The conditions set forth at paragraphs (u)(1)(i), (ii), (iv), (v), (vii), and (viii), and (u)(2)(ii) of this section apply.

(ii) Deer hunters must wear hunter orange as governed by State deer hunting regulations in wildlife management areas.

(iii) We prohibit hunters from placing stands or hunting from stands on pine trees with white-painted bands and/or rings.

(4) Sport fishing. We allow sport fishing on designated areas of the refuge subject to the following conditions:

(i) We prohibit leaving boats and other personal property on the refuge overnight (see § 27.93 of this chapter).

(ii) You must tend trotlines daily. You must attach ends of trotlines by a length of cotton line that extends into the water.

(iii) Recreational fishing using commercial gear (slat traps, etc.) requires a special refuge permit (Special Use Permit (FWS Form 3-1383-G)), which is available at the refuge office. You must possess and carry the special refuge permit while fishing using commercial gear.

(iv) We prohibit the taking of turtle (see § 27.21 of this chapter).

* * * * *

13. Amend § 32.38 by:

a. Revising paragraphs (a) and (b);

b. Redesignating paragraph (e) as paragraph (g) and paragraph (c) as paragraph (e);

c. Adding new paragraph (c);

d. Revising paragraph (d) and newly redesignated paragraphs (e)(2)(i) and (e)(3)(i);

e. Adding paragraph (f).

The additions and revisions read as follows:

§ 32.38 Maine.

* * * * *

(a) Franklin Island National Wildlife Refuge—(1) Migratory game bird hunting. We allow hunting of waterfowl on designated areas of the refuge subject to the following conditions:

(i) We allow the use of dogs consistent with State regulations.

(ii) We allow temporary or portable blinds. We require hunters to remove all portable or temporary blinds and decoys from the refuge following each day's hunt (see § 27.93 of this chapter).

(2)-(4) [Reserved]

(b) Moosehorn National Wildlife Refuge—(1) Migratory game bird hunting. We allow hunting of duck, goose, American woodcock, and snipe on designated areas of the refuge subject to the following conditions:

(i) We allow the use of dogs consistent with State regulations.

(ii) We allow hunters to enter the refuge 1 hour before legal shooting hours, and they must exit the refuge by 1 hour past legal shooting hours.

(iii) We only allow portable or temporary blinds and decoys that must be removed from the refuge following each day's hunt (see § 27.93 of this chapter).

(iv) Hunters must retrieve all species harvested on the refuge.

(2) Upland game hunting. We allow hunting of bobcat, eastern coyote, ruffed grouse, snowshoe hare, red fox, gray and red squirrel, raccoon, skunk, porcupine, and woodchuck on designated areas of the refuge subject to the following conditions:

(i) The conditions set forth at paragraphs (b)(1)(i), (ii) (except for hunters pursuing raccoon and coyote at night), (iii), and (iv) of this section apply.

(ii) We allow hunting for eastern coyote, red squirrel, and woodchuck only from October 1 to March 31.

(3) Big game hunting. We allow hunting of black bear, moose, and white-tailed deer on designated areas of the refuge subject to the following conditions:

(i) The conditions set forth at paragraphs (b)(1)(i), (ii), and (iv) of this section apply.

(ii) We allow tree stands, blinds, and ladders to be set up on the opening day of the archery deer season. Hunters must clearly label tree stands, blinds, or ladders left on the refuge overnight with your State hunting license number and last name. Hunters must remove tree stand(s), blind(s), and/or ladder(s) from the refuge on the last day of the muzzleloader deer season (see § 27.93 of this chapter).

(iii) You may hunt black bear, eastern coyote, and white-tailed deer during the State archery and firearms deer seasons on the Baring Division east of State Route 191.

(iv) We prohibit use of firearms to hunt bear during the archery deer season on the Baring Division east of Route 191. We prohibit the use of firearms, other than a muzzleloader, to hunt coyote during the deer muzzleloader season on the Baring Division east of Route 191.

(4) Sport fishing. We allow sport fishing on designated areas of the refuge subject to the following conditions:

(i) We only allow fishing from ½ hour before legal sunrise to ½ hour after legal sunset.

(ii) We prohibit trapping fish for use as bait.

(c) Petit Manan National Wildlife Refuge—(1) Migratory game bird hunting. We allow hunting of duck, goose, seaduck, brant, woodcock, rail, and snipe on designated areas of the refuge subject to the following conditions:

(i) We allow the use of dogs consistent with State regulations.

(ii) We allow temporary or portable blinds. We require hunters to remove all portable or temporary blinds and decoys from the refuge following each day's hunt (see § 27.93 of this chapter).

(2) Upland game hunting. We allow hunting of ruffed grouse, gray squirrel, red squirrel, skunk, snowshoe hare, fox, coyote, porcupine woodchuck, bobcat, and raccoon on designated areas of the refuge subject to the following conditions:

(i) We prohibit the use of dogs for pursuing game.

(ii) We allow hunting for coyotes, red squirrel, porcupine, and woodchuck from November 1 to March 31.

(iii) Hunters must retrieve all species harvested on the refuge.

(iv) We prohibit night hunting from ½ hour after legal sunset until ½ hour before legal sunrise the following day.

(3) Big game hunting. We allow hunting of white-tailed deer and black bear on designated areas of the refuge subject to the following conditions:

(i) Petit Manan Point is open only during the muzzleloader deer season.

(ii) We allow black bear hunting during the firearm season for white-tailed deer.

(iii) We allow hunters to enter the refuge 1 hour before legal sunrise, and they must exit the refuge no later than 1 hour after legal sunset.

(iv) We prohibit the use of dogs when hunting black bear.

(v) We require hunters to remove all tree stands, blinds, and ladders from the refuge on the last day of muzzleloader deer season (see § 27.93 of this chapter).

(4) [Reserved]

(d) Pond Island National Wildlife Refuge—(1) Migratory game bird hunting. We allow hunting of waterfowl on designated areas of the refuge subject to the following conditions:

(i) We allow the use of dogs consistent with State regulations.

(ii) We allow temporary or portable blinds. We require hunters to remove all portable or temporary blinds and decoys from the refuge following each day's hunt (see § 27.93 of this chapter).

(2)-(4) [Reserved]

(e) * * *

(2) * * *

(i) The conditions set forth at paragraphs (e)(1)(i) and (iii) of this section apply.

* * * * *

(3) * * *

(i) The conditions as set forth at paragraphs (e)(1)(i) and (iv) of this section apply.

* * * * *

(f) Sunkhaze Meadows National Wildlife Refuge—(1) Migratory game bird hunting. We allow hunting of duck, goose, rail, American woodcock, and Wilson's snipe on designated areas of the refuge subject to the following conditions:

(i) We allow the use of dogs consistent with State regulations.

(ii) The hunter must retrieve all species harvested on the refuge.

(iii) We only allow portable or temporary blinds and decoys that must be removed from the refuge following each day's hunt (see § 27.93 of this chapter).

(iv) We allow hunters to enter the refuge 1 hour before legal shooting hours, and they must exit the refuge no later than 1 hour after legal shooting hours.

(2) Upland game hunting. We allow hunting of bobcat, coyote, ruffed grouse, hare, red fox, gray squirrel, red squirrel, raccoon, skunk, and woodchuck on designated areas of the refuge subject to the following conditions:

(i) The conditions set forth at paragraphs (f)(1)(i) through (iv) (except for hunters pursing raccoon or coyote at night) of this section apply.

(ii) We allow hunting for eastern coyote, red squirrel, and woodchuck only from October 1 to March 31.

(3) Big game hunting. We allow hunting of black bear, moose, wild turkey, and white-tailed deer on designated areas of the refuge subject to the following conditions:

(i) The conditions set forth at paragraphs (f)(1)(i), (ii), and (iv) of this section apply.

(ii) We allow tree stands, blinds, and ladders to be set up on the opening day of the archery deer season. Hunters must clearly label tree stands, blinds, or ladders left on the refuge overnight with your State hunting license number and last name. Hunters must remove tree stand(s), blind(s), and/or ladder(s) from the refuge on the last day of the muzzleloader deer season (see § 27.93 of this chapter).

(4) Sport fishing. We allow sport fishing on designated areas of the refuge subject to the following condition: We prohibit trapping fish for use as bait.

14. Amend § 32.41 by revising paragraph (b) to read as follows:

§ 32.41 Michigan.

* * * * *

(b) Harbor Island National Wildlife Refuge—(1) Migratory game bird hunting. We allow hunting of migratory game birds on designated areas of the refuge subject to the following conditions:

(i) Hunters may enter the refuge no earlier than 1 hour before legal sunrise and must leave the refuge no later than 1 hour after legal sunset.

(ii) You must remove boats, blinds, blind materials, stands, decoys, and other hunting equipment from the refuge at the end of each day (see §§ 27.93 and 27.94 of this chapter).

(iii) We allow the use of dogs while hunting in accordance with Michigan State regulations, provided the dog is under the immediate control of the hunter at all times.

(2) Upland game hunting. We allow upland game hunting on designated areas of the refuge subject to the following conditions:

(i) The conditions set forth at paragraphs (b)(1)(i) through (iii) of this section apply.

(ii) For hunting, you may possess only approved nontoxic shot shells while in the field, including shot shells used for hunting wild turkey (see § 32.2(k)).

(3) Big game hunting. We allow hunting of big game subject to the following conditions:

(i) The condition set forth at paragraph (b)(1)(i) of this section applies.

(ii) We prohibit dogs for big game hunting.

(iii) Deer hunters may place one portable stand or blind on the refuge for use while deer hunting, but only during the open deer season. The stand must be clearly labeled with the hunter's Michigan license/sportsmen's identification number. The stand must be removed by the end of the season (see §§ 27.93 and 27.94 of this chapter).

(4) Sport fishing. We allow sport fishing on designated areas of the refuge subject to the following condition: We prohibit the taking of any mussel (clam), crayfish, leech, frog, toad, salamander, snake, lizard, turtle, and other non-fish species by any method on the refuge (see § 27.21 of this chapter).

* * * * *

15. Amend § 32.42 by revising paragraphs (p)(1) introductory text, (p)(1)(v), and (p)(2)(ii) to read as follows:

§ 32.42 Minnesota.

* * * * *

(p) * * *

(1) Migratory game bird hunting. We allow hunting of goose, duck, merganser, coot, Sora/Virginia rail, woodcock, snipe, common moorhen/gallinule, mourning dove, and American crow on designated areas of the refuge subject to the following conditions:

* * * * *

(v) You may only hunt American crow from September 1 through the end of February within the migratory bird hunting area. We prohibit hunting from March 1 through August 31.

* * * * *

(2) * * *

(ii) We allow spring turkey hunting for youth hunters and persons with disabilities, and fall turkey hunting for all hunters, on designated areas of the refuge.

* * * * *

16. Amend § 32.43 by:

a. Revising paragraphs (b)(1)(iv), (b)(3)(i), (c)(1)(iv), and (c)(2)(ii);

b. Removing paragraph (c)(2)(iii);

c. Revising paragraph (c)(3)(i);

d. Removing paragraph (c)(3)(ii);

e. Redesignating paragraphs (c)(3)(iii) through (vii) as paragraphs (c)(3)(ii) through (vi); and

f. Revising paragraphs (d), (e)(1)(iii), (e)(3)(iv), (f)(2)(iii), (g)(1)(iii), (h)(1)(iii), (h)(3)(iv), (i)(1)(iii), (i)(3)(iv), (j), (l)(1)(iv), (l)(2)(i), (l)(3)(i), (m)(1)(iii), and (m)(3)(iv).

The revisions read as follows:

§ 32.43 Mississippi.

* * * * *

(b) * * *

(1) * * *

(iv) Each hunter must obtain a daily Harvest Report (FWS Form 3-2542). You must display the card in plain view on the dashboard of your vehicle so that the State-issued license number is readable. Prior to leaving the refuge, you must complete the reverse side of the card and deposit it at one of the refuge information stations. Include all game harvested, and if you harvest no game, report “0.” We prohibit hunters possessing more than one Harvest Report at a time.

* * * * *

(3) * * *

(i) The conditions set forth at paragraphs (b)(1)(i), (ii), (iv), and (vi) of this section apply.

* * * * *

(c) * * *

(1) * * *

(iv) Each hunter must obtain a daily Harvest Report (FWS Form 3-2542). You must display the card in plain view on the dashboard of your vehicle so that the State-issued license number is readable. Prior to leaving the refuge, you must complete the card and deposit it at one of the refuge information stations. Include all game harvested, and if you harvest no game, report “0.” We prohibit hunters possessing more than one Harvest Report at a time.

* * * * *

(2) * * *

(ii) The conditions set forth at paragraphs (c)(1)(i), (ii), (iv), (v), and (ix) of this section apply.

(3) * * *

(i) The conditions set forth at paragraphs (c)(1)(i), (ii), (iv), (v), and (ix) of this section apply.

* * * * *

(d) Grand Bay National Wildlife Refuge—(1) Migratory game bird hunting. We allow hunting of goose, duck, coot, and dove (mourning and white-winged) on designated areas of the refuge subject to the following conditions:

(i) Each hunter must possess and carry a signed copy of the refuge brochure while participating in refuge hunts.

(ii) Hunters must remove all decoys, blind material, and harvested waterfowl from the refuge at the end of each day's hunt (see § 27.93 of this chapter).

(iii) You must only use portable or temporary blinds.

(iv) We only allow the use of dogs when waterfowl hunting. We require all dogs to wear a collar displaying the owner's contact information.

(v) We allow incidental take of coyote and nutria during any refuge hunt with the weapons legal for that hunt, subject to applicable State seasons and regulations.

(2) Upland game hunting. We allow hunting of squirrel (gray and fox) and rabbit (cottontail and swamp), and incidental take of coyote and nutria, on designated areas of the refuge subject to the following conditions:

(i) The conditions set forth at paragraphs (d)(1)(i) and (v) of this section apply.

(ii) We only allow .22 caliber rimfire rifles.

(3) Big game hunting. We allow hunting of white-tailed deer, and incidental take of feral hog, on designated areas of the refuge subject to the following conditions:

(i) The conditions set forth at paragraphs (d)(1)(i) and (v) of this section apply.

(ii) We only allow hunting with bow and arrow. We prohibit firearms.

(iii) We allow portable and climbing tree stands. Hunters must remove tree stands from the refuge at the end of each day's hunt (see § 27.93 of this chapter).

(iv) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following conditions:

(i) Anglers may enter the refuge no earlier than 30 minutes prior to sunrise and must leave the refuge no later than 30 minutes after legal sunset each day.

(ii) We prohibit fishing from legal sunset to legal sunrise.

(e) * * *

(1) * * *

(iii) Before hunting or fishing, all participants must display their Daily Visitor Information/Harvest Report Card (Harvest Report, FWS Form 3-2542) in plain view in their vehicle so that the State-issued license number is readable. You must return all cards upon completion of the activity and before leaving the refuge.

* * * * *

(3) * * *

(iv) The refuge brochure provides deer check station locations and requirements. Prior to leaving the refuge, you must check all harvested deer at the nearest self-service check station (Harvest Report, FWS Form 3-2542) following the posted instructions.

* * * * *

(f) * * *

(2) * * *

(iii) Before hunting or fishing, all participants must display their Daily Visitor Information/Harvest Report Card (Harvest Report, FWS Form 3-2542) in plain view in their vehicle so that the required information is readable. You must return all cards upon completion of the activity and before leaving the refuge.

* * * * *

(g) * * *

(1) * * *

(iii) Before hunting or fishing, all participants must display their Daily Visitor Information/Harvest Report Card (Harvest Report, FWS Form 3-2542) in plain view in their vehicle so that the required information is readable. You must return all cards upon completion of the activity and before leaving the refuge.

* * * * *

(h) * * *

(1) * * *

(iii) Before hunting or fishing, all participants must display their Daily Visitor Information/Harvest Report Card (Harvest Report, FWS Form 3-2542) in plain view in their vehicle so that the required information is readable. You must return all cards upon completion of the activity and before leaving the refuge.

* * * * *

(3) * * *

(iv) The refuge brochure provides deer check station locations and requirements. Prior to leaving the refuge, you must check all harvested deer at the nearest self-service check station (Harvest Report, FWS Form 3-2542) following the posted instructions.

* * * * *

(i) * * *

(1) * * *

(iii) Before hunting or fishing, all participants must display their Daily Visitor Information/Harvest Report Card (Harvest Report, FWS Form 3-2542) in plain view in their vehicle so that the required information is readable. You must return all cards upon completion of the activity and before leaving the refuge.

* * * * *

(3) * * *

(iv) The refuge brochure provides deer check station locations and requirements. Prior to leaving the refuge, you must check all harvested deer at the nearest self-service check station (Harvest Report, FWS Form 3-2542) following the posted instructions.

* * * * *

(j) Sam D. Hamilton Noxubee National Wildlife Refuge—(1) Migratory game bird hunting. We allow hunting of duck, light and dark goose, merganser, woodcock, crow, gallinule (purple and common), snipe, and coot on designated areas of the refuge subject to the following conditions:

(i) Hunters and anglers must purchase a North Mississippi Refuge Complex Hunting/Fishing Permit (#606), available from the Mississippi Department of Wildlife, Fisheries, and Parks (MDWFP).

(ii) Youth hunters age 15 and younger and hunters age 65 and older are not required to obtain a North Mississippi Refuge Complex Hunting/Fishing Permit (#606).

(iii) Hunters must remove all decoys, blind material, and harvested game from the refuge by 1 p.m. each day (see §§ 27.93 and 27.94 of this chapter).

(iv) Hunters may enter the refuge at 4 a.m. and must exit the refuge no later than 2 hours after legal sunset, except during raccoon hunts.

(v) Each hunter must obtain a daily Harvest Report (FWS Form 3-2542). Hunters must display the card in plain view on the dashboard of the vehicle. Prior to leaving the refuge, hunters must complete the card and deposit it at one of the refuge information stations. Hunters must include all game harvested and if you harvest no game, report “0”. We prohibit hunters possessing more than one Harvest Report at a time.

(vi) We limit waterfowl hunters to 25 shotshells per person.

(vii) Hunters must remove all personal property at the end of each day's hunt from the Noxubee Wilderness Area (see §§ 27.93 and 27.94 of this chapter). Outside the Noxubee Wilderness Area, hunters may leave tree stands labeled with the hunter's State hunting license number used for deer hunting.

(viii) We allow hunting of waterfowl (duck, light and dark goose, merganser, coot, and gallinule) during State seasons, including the State Light Goose Conservation Order, only on Wednesday and Saturdays ending at 12 p.m.

(ix) We allow the use of dogs for retrieval of migratory and upland game only.

(x) We allow incidental take of coyote, beaver, nutria, skunk, fox, and feral hog during any refuge hunt with the weapons legal for that hunt, subject to applicable State seasons and regulations.

(2) Upland game hunting. We allow hunting of squirrel, rabbit, quail, opossum, and raccoon, and incidental take of coyote, fox, skunk, beaver, and nutria, on designated areas of the refuge subject to the following conditions:

(i) The conditions set forth at paragraphs (j)(1)(i), (ii), (iv), (v), (vii), (ix), and (x) of this section apply.

(ii) We allow raccoon and opossum hunting between the hours of legal sunset and legal sunrise.

(3) Big game hunting. We allow hunting of white-tailed deer turkey, and incidental take of feral hog, on designated areas of the refuge subject to the following conditions:

(i) The conditions set forth at paragraphs (j)(1)(i), (ii), (iv), (v), (vii), and (x) of this section apply.

(ii) We prohibit the use of buckshot on the refuge.

(iii) We prohibit organized deer drives. We define a “deer drive” as an organized or planned effort to pursue, drive, chase, or otherwise frighten or cause deer to move in the direction of any person(s) who is part of the organized or planned hunt and known to be waiting for the deer.

(iv) You may place one portable tree stand or ground blind for deer hunting on the refuge only during the open deer season. You must clearly label the stand or blind with your State hunting license number.

(v) While climbing a tree, installing a tree stand that uses climbing aids, or hunting from a tree stand on the refuge, you must use a fall-arrest system (full body harness) that is manufactured to the Treestand Manufacturer's Association standards.

(vi) Hunters may place deer stands on the refuge 7 days prior to the hunt, and hunters must remove deer stands no more than 7 days after the refuge's deer season closes (see § 27.93 of this chapter).

(4) Sport fishing. We allow sport fishing on designated areas of the refuge subject to the following conditions:

(i) The general sport fishing, boating, and bow fishing season extends from March 1 through October 31, except that we open the shoreline of Bluff Lake from the Bluff Lake Boardwalk to the visitor center, the entire Noxubee River, and all borrow pit areas along Highway 25 to fishing year-round.

(ii) The condition set forth at paragraph (j)(1)(i) of this section applies.

(iii) Anglers must keep boat travel at idle speed, and they must not create a wake when moving.

(iv) We prohibit limb lines, jug fishing, trotlines, snag lines, and hand grappling in Ross Branch, Bluff, and Loakfoma Lakes, as well as in areas within 100 yards of refuge water and transportation structures.

(v) When left unattended, anglers must tag fishing gear with their State fishing license number. Anglers must check all gear within 24 hours each day or remove these devices (see § 27.93 of this chapter).

(vi) We allow trotlining on the refuge subject to the following conditions:

(A) Anglers must label each end of the trotline floats with the owner's State fishing license number.

(B) We limit trotlines to one line per person, and we allow no more than two trotlines per boat.

(C) Anglers must tend all trotlines every 24 hours, and must remove them when not in use (see § 27.93 of this chapter).

(D) Trotlines must possess at least 6-inch (15.2-centimeter) cotton string leads.

(vii) We allow jug fishing on the refuge subject to the following conditions:

(A) Anglers must label each jug with their State fishing license number.

(B) Anglers must check all jugs every 24 hours, and must remove them when not in use (see § 27.93 of this chapter).

(viii) We prohibit bow fishing after legal sunset.

(ix) We prohibit fishing tournaments on all refuge waters.

(x) We prohibit the taking of frogs, turtles, and crawfish (see § 27.21 of this chapter).

(xi) We prohibit using nets of any type to capture free-roaming fish or wildlife. You may use a fishing net to recover fish caught by hook and line.

(xii) Outside the Noxubee Wilderness Area, anglers may leave trotlines and jugs used for fishing overnight if they are labeled with the angler's State fishing license number.

* * * * *

(l) * * *

(1) * * *

(iv) Each hunter must obtain a daily Harvest Report (FWS Form 3-2542). You must display the card in plain view on the dashboard of your vehicle so that the State-issued license number is readable. Prior to leaving the refuge, you must complete the card and deposit it at one of the refuge information stations. Include all game harvested, and if you harvest no game, report “0.” We prohibit hunters possessing more than one Harvest Report at a time.

* * * * *

(2) * * *

(i) The conditions set forth at paragraphs (l)(1)(i), (ii), (iv), (v), and (ix) of this section apply.

* * * * *

(3) * * *

(i) The conditions set forth at paragraphs (l)(1)(i), (ii), and (iv) of this section apply.

* * * * *

(m) * * *

(1) * * *

(iii) Before hunting or fishing, all participants must display their Daily Visitor Information/Harvest Report Card (Harvest Report, FWS Form 3-2542) in plain view in their vehicle so that the required information is readable. You must return all cards upon completion of the activity and before leaving the refuge.

* * * * *

(3) * * *

(iv) The refuge brochure provides deer check station locations and requirements. Prior to leaving the refuge, you must check all harvested deer at the nearest self-service check station (Harvest Report, FWS Form 3-2542) following the posted instructions.

* * * * *

17. Amend § 32.44 by revising paragraphs (b)(3)(i), (d), (f)(2)(iii), and (f)(3)(ii) to read as follows:

§ 32.44 Missouri.

* * * * *

(b) * * *

(3) * * *

(i) You must register at the hunter sign-in/out station and record the sex and age of deer harvested on the Harvest Report (FWS Form 3-2542).

* * * * *

(d) Loess Bluffs National Wildlife Refuge—(1) Migratory game bird hunting. We allow hunting of goose, crow, merganser, duck, coot, dove, rail, and snipe on designated areas of the refuge subject to the following conditions:

(i) We require a permit issued by the State for waterfowl draw hunts.

(ii) Hunters may enter the refuge no earlier than 1 hour before legal shooting hours and must exit the refuge no later than 1 hour after legal shooting hours. Legal shooting time for waterfowl draw hunts ends at 1 p.m.

(iii) We allow dogs while hunting, provided the dog is under the immediate control of the hunter at all times.

(iv) You must remove all boats, decoys, blinds, blind materials, stands, platforms, and other hunting equipment (see §§ 27.93 and 27.94 of this chapter) brought onto the refuge at the end of each day's hunt.

(v) We prohibit motorized watercraft. We allow nonmotorized boats such as canoes, kayaks, and layout boats.

(2) Upland game hunting. We allow hunting of groundhog/woodchuck, pheasant, quail, rabbit, coyote, raccoon, opossum, skunk, and squirrel on designated areas of the refuge subject to the following condition: The conditions set forth at paragraphs (d)(1)(ii) through (v) of this section apply.

(3) Big game hunting. We allow hunting of deer and wild turkey on designated areas of the refuge subject to the following conditions:

(i) The conditions set forth at paragraphs (d)(1)(ii) and (v) of this section apply.

(ii) For hunting, you may possess only approved nontoxic shot shells while in the field, including shot shells used for hunting wild turkey (see § 32.2(k)).

(iii) Hunters may only hunt white-tailed deer during archery season with the exception of the managed deer hunt, which requires a special permit (FWS Form 3-2439).

(iv) Hunters may use only portable stands in accordance with Missouri Department of Conservation regulations. Portable stands left on the refuge must be marked according to Missouri Department of Conservation guidelines and removed no later than the last day of the season (see § 27.93 of this chapter).

(4) Sport fishing. We allow fishing on designated areas of the refuge subject to the following condition: You may take fish, amphibians, reptiles, and crustaceans only with a hand-held pole and line or rod and reel.

* * * * *

(f) * * *

(2) * * *

(iii) We require that all hunters complete a Harvest Report (FWS Form 3-2542) located at the exit kiosks prior to exiting the refuge.

* * * * *

(3) * * *

(ii) We require that all hunters complete the Harvest Report (FWS Form 3-2542) located at the exit kiosks prior to exiting the refuge.

* * * * *

18. Amend § 32.45 by:

a. Revising paragraph (f)(3) introductory text;

b. Adding paragraph (f)(3)(iv);

c. Revising paragraph (x)(3) introductory text; and

d. Adding paragraph (x)(3)(iv).

The revisions and additions read as follows:

§ 32.45 Montana.

* * * * *

(f) * * *

(3) Big game hunting. We allow hunting of elk, pronghorn, white-tailed deer, mule deer, and mountain lion on designated areas of the refuge subject to the following conditions:

* * * * *

(iv) Mountain lion hunting will follow State-established dates for the archery-only and fall seasons.

* * * * *

(x) * * *

(3) Big game hunting. We allow hunting of elk, pronghorn, white-tailed deer, mule deer, and mountain lion on designated areas of the refuge subject to the following conditions:

* * * * *

(iv) Mountain lion hunting will follow State-established dates for the archery-only and fall seasons.

* * * * *

19. Amend § 32.47 by adding paragraphs (b)(1) and (2) to read as follows:

§ 32.47 Nevada.

* * * * *

(b) * * *

(1) Migratory game bird hunting. We allow hunting of dove on designated areas of the refuge subject to the following conditions:

(i) We allow hunting on designated days.

(ii) You may not possess more than 25 shot shells while in the field once you have left your vehicle.

(2) Upland game hunting. We allow hunting of chukar and quail on designated areas of the refuge subject to the following condition: The conditions set forth at paragraphs (b)(1)(i) and (ii) of this section apply.

* * * * *

20. Amend § 32.48 by revising paragraph (b) to read as follows:

§ 32.48 New Hampshire.

* * * * *

(b) Silvio O. Conte National Fish and Wildlife Refuge—(1) Migratory game bird hunting. We allow hunting of duck, goose, coot, common snipe, and American woodcock on designated areas of the refuge subject to the following condition: We allow the use of dogs consistent with State regulations.

(2) Upland game hunting. We allow hunting of coyote, fox, raccoon, woodchuck, red squirrel, eastern gray squirrel, porcupine, skunk, crow, snowshoe hare, muskrat, opossum, fisher, mink, weasel, ring-necked pheasant, and ruffed grouse on designated areas of the refuge subject to the following condition: We allow the use of dogs consistent with State regulations.

(3) Big game hunting. We allow hunting of white-tailed deer, moose, black bear, and wild turkey on designated areas of the refuge subject to the following conditions:

(i) We allow tree stands and blinds that are clearly marked with the owner's State hunting license number.

(ii) You must remove your tree stand(s) and blind(s) no later than 72 hours after the close of the season (see § 27.93 of this chapter).

(4) Sport fishing. We allow sport fishing on designated areas of the refuge.

* * * * *

21. Amend § 32.49 by:

a. Revising paragraphs (a), (c), (d), and (e)(2)(ii);

b. Adding paragraph (e)(3)(iii); and

c. Revising paragraphs (e)(4) introductory text and (e)(4)(i) and (iv).

The revisions and addition read as follows:

§ 32.49 New Jersey.

* * * * *

(a) Cape May National Wildlife Refuge—(1) Migratory game bird hunting. We allow hunting of light goose, dark goose, duck, sea duck, gallinule, coot, rail, snipe, crow, and woodcock on designated areas of the refuge subject to the following conditions:

(i) We allow the use of dogs consistent with State regulations.

(ii) The snipe and crow season on the refuge begins with the start of the State woodcock south zone season and continues through the end of the State snipe and crow seasons.

(iii) We prohibit falconry.

(iv) We prohibit night hunting from ½ hour after legal sunset until ½ hour before legal sunrise the following day.

(2) Upland game hunting. We allow hunting of coyote, fox, woodchuck, rabbit, squirrel, and pheasant on designated areas of the refuge subject to the following conditions:

(i) The conditions set forth at paragraphs (a)(1)(i), (iii), and (iv) of this section apply.

(ii) We allow woodchuck hunting from the beginning of the State woodcock south zone season until the end of the State rabbit season.

(iii) Coyote, fox, rabbit, squirrel, and pheasant seasons open at the beginning of the State woodcock south zone season and close in accordance with the State seasons for each species.

(3) Big game hunting. We allow hunting of white-tailed deer and turkey on designated areas of the refuge subject to the following conditions:

(i) The conditions set forth at paragraphs (a)(1)(i), (iii), and (iv) of this section apply.

(ii) Tree stands must be marked with the owner's New Jersey conservation identification number.

(iii) We allow turkey hunting during the State fall season.

(iv) We require the use of nontoxic ammunition for turkey hunting.

(4) Sport fishing. We allow saltwater sport fishing on designated areas of the refuge subject to the following conditions:

(i) We allow fishing from ½ hour before legal sunrise to ½ hour after legal sunset.

(ii) We close the Atlantic Ocean portion of the Two Mile Beach Unit annually to all access, including fishing, between April 1 and September 30.

(iii) We prohibit fishing for, or possession of, crab or shellfish on refuge lands.

* * * * *

(c) Great Swamp National Wildlife Refuge—(1) Migratory game bird hunting. We allow hunting of Canada goose on designated areas of the refuge subject to the following conditions:

(i) We allow the use of dogs consistent with State regulations.

(ii) Hunters must obtain a refuge hunt permit (FWS Form 3-2439), and possess the signed refuge permit at all times while hunting or scouting on the refuge.

(2) Upland game hunting. We allow hunting of coyote and fox on designated areas of the refuge subject to the following condition: We only allow the incidental take of coyote and fox during the refuge deer and turkey hunts.

(3) Big game hunting. We allow hunting of white-tailed deer and wild turkey on designated areas of the refuge subject to the following conditions:

(i) We require the use of nontoxic shot while hunting wild turkey.

(ii) We allow hunters to use sleds to retrieve deer in the Wilderness Area east of Long Hill/New Vernon Road. We prohibit wheeled game carriers in the Wilderness Area.

(iii) We prohibit organized deer drives. We define a “deer drive” as an organized or planned effort to pursue, drive, chase, or otherwise frighten or cause deer to move in the direction of any person(s) who is part of the organized or planned hunt and known to be waiting for the deer.

(4) [Reserved]

(d) Supawna Meadows National Wildlife Refuge—(1) Migratory game bird hunting. We allow hunting of light goose, dark goose, duck, sea duck, gallinule, coot, crow, rail, and snipe on designated areas of the refuge subject to the following conditions:

(i) We allow the use of dogs consistent with State regulations.

(ii) We prohibit falconry.

(iii) We prohibit night hunting from ½ hour after legal sunset until ½ hour before legal sunrise the following day.

(2) Upland game hunting. We allow hunting of coyote, fox, woodchuck, rabbit, squirrel, and pheasant on designated areas of the refuge subject to the following conditions:

(i) We allow woodchuck hunting only during the State coyote and fox seasons.

(ii) The conditions set forth at paragraphs (d)(1)(ii) and (iii) of this section apply.

(3) Big game hunting. We allow hunting of white-tailed deer and turkey on designated areas of the refuge subject to the following conditions:

(i) The conditions set forth at paragraphs (d)(1)(i) through (iii) of this section apply.

(ii) We require the use of nontoxic ammunition for turkey hunting.

(iii) We allow archery hunting for white-tailed deer during all six State Deer Management Zone 63 seasons and on youth hunting days.

(4) Sport fishing. We allow sport fishing on designated areas of the refuge subject to the following conditions:

(i) We prohibit the taking of frogs and turtles from all nontidal waters and refuge lands (see § 27.21 of this chapter).

(ii) We allow fishing in designated nontidal waters from ½ hour before legal sunrise to ½ hour after legal sunset.

(iii) We prohibit bow fishing in nontidal waters.

(iv) We prohibit fishing for, or possession of, crab and shellfish on refuge lands.

(e) * * *

(2) * * *

(ii) We prohibit night hunting from ½ hour after legal sunset until ½ hour before legal sunrise the following day.

(3) * * *

(iii) We require the use of nontoxic ammunition for turkey hunting.

(4) Sport fishing. We allow sport fishing on designated areas of the refuge subject to the following conditions:

(i) At Owens Station Crossing and Hidden Ponds fishing areas, we allow catch-and-release fishing only.

* * * * *

(iv) We prohibit minnow and bait trapping.

22. Amend § 32.50 by:

a. Redesignating paragraph (b)(3)(iii) as paragraph (b)(3)(iv);

b. Adding new paragraphs (b)(3)(iii) and (v); and

c. Revising paragraphs (c) and (f)(1)(iv).

The additions and revisions read as follows:

§ 32.50 New Mexico.

* * * * *

(b) * * *

(3) * * *

(iii) We allow hunting of bearded Rio Grande turkey on the Bajada Hunt Unit, East Hunt Unit, and West Hunt Unit during the general spring turkey season only, as defined by the State. You may take bearded Rio Grande turkey only with a method allowed within each refuge hunt unit.

* * * * *

(v) In the Bajada Hunt Unit, we restrict the methods of take to bow and arrow, crossbow, and muzzleloader or muzzleloading shotguns only, as defined by the State. In the East Hunt Unit and West Hunt Unit, we allow any legal weapon during State big game hunting designated dates.

* * * * *

(c) Las Vegas National Wildlife Refuge—(1) Migratory game bird hunting. We allow hunting of mourning and white-winged dove and goose on designated areas of the refuge subject to the following conditions:

(i) We allow the use of dogs when hunting.

(ii) Hunters must possess a permit (FWS Form 3-2439).

(iii) We allow the hunting of dove from September 1 to September 30.

(iv) We allow the hunting of goose on dates to be determined by refuge staff.

(v) Shooting hours for geese are from ½ hour before legal sunrise until 1 p.m. local time.

(vi) We assign an aggregate bag limit for geese.

(vii) We prohibit falconry on the refuge.

(2) Upland game hunting. We allow hunting of Eurasian collared-dove, desert cottontail, and Eastern cottontail on designated areas of the refuge subject to the following conditions:

(i) The conditions set forth at paragraphs (c)(1)(i), (ii), and (vii) of this section apply.

(ii) We allow the hunting of Eurasian collared-dove and cottontail rabbits from September 1 to September 30.

(iii) We allow only shotgun, muzzleloading shotgun firing shot, bow and arrow, and crossbow for hunting.

(3) Big game hunting. We allow youth elk hunts on designated areas of the refuge subject to the following conditions:

(i) Hunters must attend a refuge hunter orientation before hunting on the refuge.

(ii) Hunters may be accompanied by a maximum of two non-hunting guests.

(iii) Hunters are assigned a hunt unit.

(4) [Reserved]

* * * * *

(f) * * *

(1) * * *

(iv) In Units A and B, the Cornerstone Marsh Unit and Pintail blind, we require a Mobility-Impaired Certification (per Mobility-Impaired Certification in the State hunting rules and information pamphlet).

* * * * *

23. Amend § 32.51 by:

a. Revising paragraphs (c)(1)(ii)(E), (d), (i)(2) introductory text, and (i)(2)(ii);

b. Adding paragraph (i)(3)(iii); and

c. Revising paragraphs (i)(4)(i), (iii), and (iv).

The revisions and addition read as follows:

§ 32.51 New York.

* * * * *

(c) * * *

(1) * * *

(ii) * * *

(E) We allow hunting from legal starting time until 12 p.m. (noon). We require hunters to return a completed Harvest Report (FWS Form 3-2542) no later than 1 p.m. on the day of the hunt.

* * * * *

(d) Montezuma National Wildlife Refuge—(1) Migratory game bird hunting. We allow hunting of waterfowl, Canada goose, snow goose, and gallinule on designated areas of the refuge subject to the following conditions:

(i) We allow the use of dogs consistent with State regulations.

(ii) For the regular waterfowl season and October through January season for Canada goose:

(A) We require daily refuge permits (FWS Form 3-2542) and reservations; we issue permits to hunters with a reservation for that hunt day. Permits may become available on a first-come/first-served, self-serve basis during New York State's second split, subject to hunting conditions and the refuge manager's discretion. We require you to complete and return your permit by the end of the hunt day.

(B) We allow hunting only on Tuesdays, Thursdays, and Saturdays during the established refuge season set within the State western zone season, and during New York State's established special hunts, which can occur any day of the week as set by the State.

(C) All hunters with reservations and their hunting companions must check-in at the Route 89 Hunter Check Station area at least 1 hour before legal shooting time or forfeit their reservation.

(D) We allow motorless boats to hunt waterfowl. We limit hunters to one boat per reservation and one motor vehicle in the hunt area per reservation. Hunters may enter the refuge/Hunter Check Station area no earlier than 2 hours before legal sunrise.

(E) We prohibit shooting from within 500 feet (152 meters) of the Tschache Pool observation tower.

(F) We require proof of successful completion of the New York State waterfowl identification course, the Montezuma nonresident waterfowl identification course, or a suitable nonresident State waterfowl identification course. All hunters must show proof of successful course completion each time they hunt.

(G) You may hunt gallinule and Canada goose on refuge areas designated for the regular waterfowl season only during the regular waterfowl season.

(iii) For Canada goose in September and snow goose hunting:

(A) We allow hunting of Canada goose during the New York State September season and hunting of snow goose during portions of the New York State snow goose season and portions of the period covered by the Light Goose Conservation Order.

(B) You must possess a valid daily hunt permit (FWS Form 3-2542). We require you to complete and return the daily hunt permit card by the end of the hunt day.

(C) For snow goose hunting, hunters may enter the refuge/Hunter Check Station area no earlier than 4 hours before legal sunrise. For Canada goose hunting, hunters may enter the refuge/Hunter Check Station area no earlier than 2 hours before legal sunrise.

(2) Upland game hunting. We allow hunting of rabbit and squirrel on designated areas of the refuge subject to the following conditions:

(i) The condition set forth at paragraph (d)(1)(i) of this section applies.

(ii) You must possess a valid daily hunt permit (FWS Form 3-2542) and are required to complete and return the daily hunt permit card by the end of each hunt day.

(iii) We allow upland game hunters to access the refuge from 2 hours before legal sunrise until 2 hours after legal sunset.

(iv) We require the use of approved nontoxic shot for upland game hunting (see § 32.2(k)).

(3) Big game hunting. We allow hunting of white-tailed deer and wild turkey on designated areas of the refuge subject to the following conditions:

(i) The condition set forth at paragraph (d)(1)(i) of this section applies.

(ii) You must possess a valid daily hunt permit (FWS Form 3-2542). We require you to complete and return the daily hunt permit card by the end of the hunt day.

(iii) We allow white-tailed deer and turkey hunters to access the refuge from 2 hours before legal sunrise until 2 hours after the end of legal shooting time.

(iv) We allow youth and special big game hunts during New York State's established youth and special big game hunts each year.

(4) Sport fishing. We allow access for fishing from designated areas of the refuge subject to the following condition: We prohibit the use of lead fishing tackle.

* * * * *

(i) * * *

(2) Upland game hunting. We allow hunting of rabbit/hare, gray/black/fox squirrel, pheasant, jackrabbit, chukar, woodchuck, bobwhite quail, ruffed grouse, crow, red/gray fox, coyote, bobcat, raccoon, skunk, mink, weasel, and opossum on designated areas of the refuge subject to the following conditions:

* * * * *

(ii) We prohibit night hunting from ½ hour after legal sunset until ½ hour before legal sunrise the following day.

(3) * * *

(iii) We require nontoxic ammunition while hunting turkey.

(4) * * *

(i) At Owens Station Crossing and Hidden Ponds fishing areas, we allow catch-and-release fishing only.

* * * * *

(iii) We prohibit the taking of amphibians and reptiles (see § 27.21 of this chapter).

(iv) We prohibit minnow and bait trapping.

* * * * *

24. Amend § 32.52 by:

a. Revising paragraph (d);

b. Adding paragraph (e)(1); and

c. Revising paragraph (e)(3).

The revisions and addition read as follows:

§ 32.52 North Carolina.

* * * * *

(d) Great Dismal Swamp National Wildlife Refuge. Refer to § 32.65(g) for regulations.

(e) * * *

(1) Migratory game bird hunting. We allow hunting of swan, light and dark goose, duck, merganser, coot, moorhen, and gallinule on designated areas of the refuge subject to the following conditions:

(i) We require a North Carolina Waterfowl Hunt Permit or a signed refuge hunt brochure that must be carried while hunting on the refuge.

(ii) Hunters must hunt from their assigned blind location.

(iii) We allow hunting from ½ hour before legal sunrise to 4:20 p.m. (as governed by County regulations).

(iv) We allow hunters to access the refuge 1½ hours before legal shooting time until 5:20 p.m.

(v) We allow incidental take of coyote and feral hog while hunting.

* * * * *

(3) Big game hunting. We allow hunting of deer, and incidental take of feral hog, on designated areas of the refuge subject to the following conditions:

(i) We require a signed refuge hunt brochure that hunters must sign and carry while hunting on the refuge.

(ii) We allow the use of shotguns, muzzleloading rifles/shotguns, pistols, crossbows, and bows. We prohibit the use of all other rifles.

(iii) We allow access to hunting areas from 5 a.m. until 8 p.m.

(iv) We prohibit carrying a loaded firearm on or within 50 feet (15 meters) of gravel roads.

(v) The condition set forth at paragraph (e)(1)(v) of this section applies.

* * * * *

25. Amend § 32.53 by:

a. Removing paragraph (e)(3)(i);

b. Redesignating paragraphs (e)(3)(ii) and (iii) as paragraphs (e)(3)(i) and (ii); and

c. Revising the heading of paragraph (k).

The revision reads as follows:

§ 32.53 North Dakota.

* * * * *

(k) Canfield Lake National Wildlife Refuge.

* * * * *

26. Amend § 32.55 by:

a. Revising paragraphs (a)(1)(i), (a)(3)(i), (b)(1)(iii), (b)(2)(iii), (b)(3)(vi), (d)(2)(i), and (f)(1)(i);

b. Removing paragraph (f)(1)(iv);

c. Redesignating paragraphs (f)(1)(v) through (vii) as paragraphs (f)(1)(iv) through (vi); and

d. Revising paragraphs (f)(2) introductory text, (f)(2)(i), (f)(3)(i) and (ii), (f)(4), (g)(1)(ii), (g)(4)(ii), (i)(1)(i), (j)(1)(i), and (j)(4).

The revisions read as follows:

§ 32.55 Oklahoma.

* * * * *

(a) * * *

(1) * * *

(i) You must possess and carry a signed refuge hunt brochure.

* * * * *

(3) * * *

(i) You must possess and carry a signed refuge hunt brochure for the archery deer hunt. Hunters must turn in a Harvest Report (FWS Form 3-2542) by December 31 annually. Failure to submit the report will render the hunter ineligible for the next year's limited season archery deer hunt.

* * * * *

(b) * * *

(1) * * *

(iii) You must possess and carry a signed refuge hunt brochure while hunting.

* * * * *

(2) * * *

(iii) You may take beaver, raccoon, and coyote as incidental take to any daytime established refuge hunt with legal weapons and a signed hunt brochure for the current hunt season.

* * * * *

(3) * * *

(vi) You may hunt feral hog during any established refuge hunting season. Signed refuge hunt brochure and legal weapons apply for the current hunting season.

* * * * *

(d) * * *

(2) * * *

(i) You must possess and carry a signed refuge hunt brochure.

* * * * *

(f) * * *

(1) * * *

(i) You must possess and carry a signed refuge hunt brochure.

* * * * *

(2) Upland game hunting. We allow hunting of Eastern gray and fox squirrel and swamp and Eastern cottontail rabbit on designated areas of the refuge subject to the following conditions:

(i) The conditions set forth at paragraphs (f)(1)(i) through (vi) of this section apply.

* * * * *

(3) * * *

(i) The conditions set forth at paragraphs (f)(1)(i) through (iii) and (vi) of this section apply.

(ii) We require a limited hunt permit (State-issued) for controlled hunts for muzzleloader and archery deer, and for spring wild turkey hunts.

* * * * *

(4) Sport fishing. We allow fishing and frogging on designated areas of the refuge subject to the following conditions:

(i) We prohibit fishing or frogging from September 1 through March 31 in the waterfowl sanctuary south of refuge headquarters, as designated by buoys and signs.

(ii) You must remove setlines (trotlines, throwlines, juglines, limblines, yo-yos) from the waterfowl sanctuary before September 1 (see § 27.93 of this chapter).

(iii) The conditions set forth at paragraphs (f)(1)(v) and (vii) of this section apply.

(iv) We prohibit the take of reptiles, amphibians (except bullfrogs), mollusks, and crayfish (see § 27.21 of this chapter).

(v) We prohibit the use of setlines in creeks and tributaries entering the Arkansas River or Canadian River on the refuge.

(g) * * *

(1) * * *

(ii) Hunters must possess and carry a signed hunt brochure.

* * * * *

(4) * * *

(ii) Anglers may use boats from March 1 through September 30 in designated waters unless otherwise specified on the fishing brochure.

* * * * *

(i) * * *

(1) * * *

(i) We require hunters to carry a signed refuge hunt brochure while hunting duck, goose, merganser, and sandhill crane.

* * * * *

(j) * * *

(1) * * *

(i) Hunters must possess a current signed refuge hunt brochure while hunting on the refuge.

* * * * *

(4) Sport fishing. We allow fishing on designated areas of the refuge subject to the following conditions:

(i) You may take fish only with pole and line or rod and reel.

(ii) We prohibit taking of frogs and turtles (see § 27.21 of this chapter).

(iii) Anglers may use motorized boats on Elmer Thomas Lake; however, we enforce a no-wake rule on the lake.

(iv) Anglers may use hand-powered boats only on Elmer Thomas, Jed Johnson, Rush, Quanah Parker and French Lakes.

(v) Anglers may use electric trolling motors on boats 14 feet or less in length only on Elmer Thomas, Jed Johnson, Rush, Quanah Parker, and French Lakes.

(vi) We allow fishing after legal sunset on the refuge including by boat, but we prohibit all other boating after legal sunset.

(vii) We prohibit fishing from public roadways and bridges opened to motorized vehicles.

(viii) We allow wading when fishing, provided that wading anglers must use tube-type floaters, life jackets, or buoyant vests.

(ix) We close Kiowa Lake to fishing except for shoreline fishing associated with a U.S. Fish and Wildlife Service-sponsored aquatic education program.

27. Amend § 32.56 by:

a. Revising paragraphs (k)(1) through (3), (q)(1)(xi), (t)(1) introductory text, and (t)(1)(viii);

b. Adding paragraph (u)(1); and

c. Revising paragraph (u)(3).

The revisions and addition read as follows:

§ 32.56 Oregon.

* * * * *

(k) * * *

(1) Migratory game bird hunting. We allow hunting of dove, goose, duck, merganser, coot, and snipe on designated areas of the refuge subject to the following conditions:

(i) We allow nonmotorized boats or boats equipped with only electric motors on the North and South Malheur Lake Hunt Units.

(ii) We allow only portable and temporary hunting blinds.

(iii) You must remove boats, decoys, blinds, materials, and all personal property at the end of each day's hunt (see §§ 27.93 and 27.94 of this chapter).

(iv) You may take Eurasian collared-dove only during the State mourning dove season.

(2) Upland game hunting. We allow hunting of pheasant, quail, partridge, chukar, rabbit, hare, and coyote on designated areas of the refuge.

(3) Big game hunting. We allow hunting of deer and pronghorn on designated areas of the refuge subject to the following conditions:

(i) We allow only short-range weapons (archery, shotgun, and muzzleloader) on the Buena Vista Unit.

(ii) Mule deer hunting in the Buena Vista Unit will close the Friday before the opening day of the Oregon Statewide rooster pheasant season.

* * * * *

(q) * * *

(1) * * *

(xi) Hunters must check-in and check-out with a refuge representative and submit a Harvest Report (FWS Form 3-2542) when checking out.

* * * * *

(t) * * *

(1) Migratory game bird hunting. We allow hunting of duck and coot on designated areas of the refuge subject to the following conditions:

* * * * *

(viii) Hunters must submit a Harvest Report (FWS Form 3-2542) at the end of each day's hunt.

* * * * *

(u) * * *

(1) Migratory game bird hunting. We allow hunting of duck, merganser, goose, and coot on designated areas of the refuge subject to the following conditions:

(i) We allow only portable and temporary hunting blinds.

(ii) You must remove all blinds, decoys, shotshell hulls, and other personal equipment and garbage from the refuge at the end of each day's hunt (see §§ 27.93 and 27.94 of this chapter).

(iii) Hunters may enter the refuge no earlier than 2 hours before legal shooting hours and must exit the refuge no later than 1 hour after legal shooting hours.

(iv) We allow the use of dogs when hunting.

* * * * *

(3) Big game hunting. We allow deer and elk hunting on designated areas of the refuge subject to the following conditions:

(i) You may harvest only antlerless elk.

(ii) We require a refuge permit (FWS Form 3-2439) for hunting elk.

(iii) We prohibit hunting from any refuge structure, observation blind, or boardwalk.

(iv) We allow short-range weapons only. We allow archery hunting only on the William L. Finley and Snag Boat Bend Zone 2 hunt units.

(v) Hunters may enter the refuge no earlier than 1 hour before legal shooting hours and must exit the refuge no later than 1 hour after legal shooting hours.

* * * * *

28. Amend § 32.57 by revising paragraph (a)(2) to read as follows:

§ 32.57 Pennsylvania.

* * * * *

(a) * * *

(2) Upland game hunting. We allow hunting of squirrel, grouse, rabbit, pheasant, quail, woodchuck, crow, fox, raccoon, opossum, skunk, weasel, coyote, chukar, and bobcat on designated areas of the refuge subject to the following conditions:

(i) The conditions set forth at paragraphs (a)(1)(i) and (iii) of this section apply.

(ii) We prohibit night hunting from ½ hour after legal sunset until ½ hour before legal sunrise the following day.

* * * * *

29. Amend § 32.59 by revising paragraphs (b)(3)(iii), (c)(1)(i), (ii) and (v), and (c)(3) to read as follows:

§ 32.59 South Carolina.

* * * * *

(b) * * *

(3) * * *

(iii) Harvested deer, feral hog, or turkey must be checked at the designated check station prior to removal from the refuge. Hunters must complete the Harvest Report (FWS Form 3-2542).

* * * * *

(c) * * *

(1) * * *

(i) We require each hunter to carry at all times while hunting a valid signed, current refuge hunting brochure.

(ii) Each youth hunter (age 15 and younger) must remain within sight and normal voice contact of an assistant, parent, or guardian age 21 or older. Youth hunters must have successfully completed a State-approved hunter education course.

* * * * *

(v) We only allow the use of dogs when migratory game bird hunting.

* * * * *

(3) Big game hunting. We allow hunting of white-tailed deer and turkey, and incidental take of feral hog, on designated areas of the refuge subject to the following conditions:

(i) The conditions set forth at paragraphs (c)(1)(i) and (ii) of this section apply.

(ii) Only youth hunters may hunt turkey on the refuge.

(iii) Except for the special quota permit hunts, we allow only archery or muzzleloader hunting for deer. During special quota permit hunts, we allow use of centerfire rifles or shotguns. We only allow shotguns for turkey hunts.

(iv) On hunt days, hunters and assistants, parents, or guardians may enter the refuge no earlier than 5 a.m. and must leave the refuge no later than 1 hour after legal sunset. We allow hunting from ½ hour before official sunrise until ½ hour after official sunset.

(v) We require all deer taken during any hunt to be checked at the designated refuge check station before removal from the refuge. In addition, all deer and turkey must be tagged (State-issued).

(vi) The refuge daily bag limit is two antlerless deer and one antlered buck that must have at least three antler points on one side. We define a “point” as an antler projection of at least 1 inch (2.5 centimeters) or more in length. The youth turkey hunter bag limit is one male turkey.

(vii) We allow incidental take of feral hog during deer hunts only. There is no size or bag limit on hogs. We may offer special hog hunts during and after deer season to further control this invasive species. We prohibit removal of live hogs from the refuge.

(viii) You must hunt deer from an elevated deer stand. We prohibit shooting big game from a boat.

(ix) All permanently fixed ground blinds are for the mobility-impaired hunt only.

(x) We prohibit crossbows on the archery hunts. We only allow muzzleloading rifles using a single projectile on the muzzleloader hunts. We prohibit buckshot.

(xi) You may use flagging to mark the site of hunter entry from roads or trails and again at the stand site. You may use clothespins with reflective tape between these sites to mark the route to the stand. Hunters must label all such markers with their last name and State hunting license number.

(xii) We require hunters to wear an outer garment visible above the waist that contains a minimum of 500 square inches (3,226 square centimeters) of solid, florescent-orange material at all times during the muzzleloader and mobility-impaired hunts for deer.

(xiii) We prohibit organized deer drives. We define a “deer drive” as an organized or planned effort to pursue, drive, chase, or otherwise frighten or cause deer to move in the direction of any person(s) who is part of the organized or planned hunt and known to be waiting for the deer.

(xiv) We prohibit accessing hunt units by watercraft.

* * * * *

30. Amend § 32.60 by:

a. Revising paragraph (b)(4)(i);

b. Adding paragraph (b)(4)(iii); and

c. Revising paragraph (h)(4).

The revisions and addition read as follows:

§ 32.60 South Dakota.

* * * * *

(b) * * *

(4) * * *

(i) We prohibit the use or possession of live minnows or bait fish.

* * * * *

(iii) We prohibit the use of lead fishing sinkers on all waters of the refuge except the Little River Recreation Area.

* * * * *

(h) * * *

(4) Sport fishing. We allow fishing on designated areas of the refuge subject to the following conditions:

(i) Ice fishing anglers must not be on the ice until 1 hour prior to legal sunrise and must be off the ice by 1 hour after legal sunset.

(ii) Ice fishing anglers must remove ice shacks by 1 hour after legal sunset (see § 27.93 of this chapter).

(iii) We restrict angler foot travel to posted access points, public roads, and lake ice.

(iv) We allow fishing with the use of nonmotorized boats, canoes, and kayaks.

* * * * *

31. Amend § 32.62 by:

a. Revising paragraphs (a)(1)(i) and (ii), (e)(1) introductory text, (e)(1)(i), (iii) and (ix);

b. Adding paragraphs (e)(1)(x) through (xii);

c. Revising paragraph (e)(4)(iii);

d. Redesignating paragraph (e)(4)(iv) as paragraph (e)(4)(v);

e. Adding new paragraphs (e)(4)(iv) and (g)(2);

f. Revising paragraphs (g)(3), (h)(1)(i), (h)(2), (h)(3)(iv), (i)(3)(ii) and (iii);

g. Removing paragraph (i)(3)(iv);

h. Redesignating paragraphs (i)(3)(v) through (xi) as paragraphs (i)(3)(iv) through (x);

i. Revising newly redesignated paragraphs (i)(3)(iv) and (viii);

j. Revising paragraphs (i)(4), (j)(1)(i), (k)(1)(ii), (viii) and (xii);

k. Redesignating paragraphs (l) through (n) as paragraphs (n) through (p);

l. Adding new paragraphs (l) and (m); and

m. Revising newly redesignated paragraphs (n)(4)(ii), (o)(1)(ii), (o)(4)(iii), (p)(2)(i) through (iii), (p)(3)(i) and (ii).

The revisions and additions read as follows:

§ 32.62 Texas.

* * * * *

(a) * * *

(1) * * *

(i) You must carry a current signed refuge hunting permit (signed refuge hunt brochure) while waterfowl hunting on all refuge hunt units.

(ii) Season dates for waterfowl will be concurrent with the State, except as specified in the refuge hunt brochure.

* * * * *

(e) * * *

(1) Migratory game bird hunting. We allow hunting of goose, duck, coot, merganser, mourning dove, white-winged dove, Eurasian collared-dove, and rock pigeon on designated areas of the refuge subject to the following conditions:

(i) Season dates will be concurrent with the State for the September teal season; youth-only season; duck, coot, and merganser regular season in the Texas South Zone; goose regular season in the Texas East Zone; and dove and pigeon season in the Texas South Zone, including special white-winged dove days, except that we prohibit duck (not including the September teal and youth-only seasons), coot, and merganser hunting on the refuge until the last Saturday in October. If the State-specified duck, coot, and merganser regular season opens later than the last Saturday in October, then hunting on the refuge will open consistent with the State-specified season date.

* * * * *

(iii) Hunters may enter the refuge waterfowl hunt units no earlier than 4 a.m. Hunting starts at the designated legal shooting time and ends at 12 p.m. (noon). Hunters must leave refuge hunt units by 1 p.m.

* * * * *

(ix) You may access hunt units from land by foot or nonmotorized conveyance from designated parking areas and turn-arounds. You may access public waterfowl hunting areas by motorized boat from State waters, where applicable.

(x) Hunters may enter the refuge dove/pigeon hunt units no earlier than 30 minutes prior to designated legal shooting time and leave refuge hunt units no later than 30 minutes after legal sunset.

(xi) Hunting dove and pigeon in the Farm Field Unit is only allowed after early teal season and will close before the beginning of general duck season in October.

(xii) Hunters must possess a signed brochure on their person while hunting on the refuge.

* * * * *

(4) * * *

(iii) We prohibit the use of trotlines, sail lines, set lines, jugs, gigs, spears, bush hooks, snatch hooks, crossbows, noodling, or bows and arrows of any type.

(iv) Anglers age 17 and older fishing in Cannan Bend Recreation Area must possess a day or annual fishing pass and a signed fishing brochure on their person.

* * * * *

(g) * * *

(2) Upland game hunting. We allow the hunting of Eastern gray and fox squirrel on designated areas of the refuge subject to the following conditions:

(i) Squirrel hunting on the refuge will open with the close of the white-tailed deer season in January and close February 28. The season will reopen from May 1 through May 31.

(ii) Hunters must possess and carry a signed refuge hunt brochure while hunting.

(iii) We allow the use of shotgun only.

(3) Big game hunting. We allow hunting of white-tailed deer and feral hog on designated areas of the refuge subject to the following conditions:

(i) The refuge will determine season dates and bag limits.

(ii) The condition set forth at paragraph (g)(2)(ii) of this section applies.

(iii) Hunters age 17 and younger must be under the direct supervision of an adult age 18 or older.

(iv) You may hunt feral hog during any established white-tailed deer refuge hunting season. You must obtain and possess a refuge signed hunt brochure and may only use legal weapons for the current hunting season.

(v) We allow hunters to access the refuge no more than 2 hours before legal sunrise and no more than 2 hours after legal sunset.

(vi) You may participate in the refuge firearms drawn deer hunt only with a Texas Parks and Wildlife Department-drawn hunt permit.

(vii) We allow the use of only portable blinds and tree stands on the refuge. You must remove blinds, tree stands, and all other personal equipment from the refuge at the end of each day's hunt (see § 27.93 of this chapter).

(viii) We allow all-terrain vehicles for medically documented disabled hunters by Special Use Permit (FWS Form 3-1383-G only).

* * * * *

(h) * * *

(1) * * *

(i) You must possess and carry a signed refuge hunt brochure.

* * * * *

(2) Upland game hunting. We allow hunting of fox squirrel and Eastern cottontail rabbit in the months of January, February, and September on designated areas of the refuge and subject to the following condition: The conditions set forth at paragraphs (h)(1)(i) through (vii) of this section apply.

(3) * * *

(iv) We allow muzzleloaders, bow and arrow, and shotguns only for feral hog and spring turkey hunts. You may possess only lead-free, approved nontoxic (steel, bismuth, copper, or tungsten; see § 32.2(k)) bullets, slugs, and shot (00 buck for hogs, no shell larger than #4 shot size for turkey).

* * * * *

(i) * * *

(3) * * *

(ii) We require hunters to attend refuge hunter orientation before hunting on the refuge. We require each hunter to obtain and carry with them a signed and dated refuge hunt brochure in addition to the State hunt permit.

(iii) Bag limits for species hunted on the refuge are provided in the refuge hunt brochure annually.

(iv) We allow a scouting period prior to the commencement of each refuge hunt period. A permitted hunter and a limit of two non-permitted individuals may enter the hunt units during the scouting period, which begins after hunter orientation and ends at legal sunset. Each hunter must clearly display a Vehicle Validation Tag (FWS Form 3-2405) face up on the vehicle dashboard when scouting and hunting.

* * * * *

(viii) During American alligator hunts, we allow hunters to leave hooks set over only one night period at a time; set lines must be checked daily.

* * * * *

(4) Sport fishing. We allow fishing and crabbing on designated areas of the refuge subject to the following conditions:

(i) We allow only pole and line, rod and reel, hand line, dip net, and cast net for fishing. We prohibit the use of crab traps or pots for crabbing.

(ii) Anglers must attend all fishing lines, crabbing equipment, and other fishing devices at all times.

(iii) Inside the refuge boundary on San Martin Lake, we allow bank and wade fishing within a designated area, which may be accessed only on foot.

(j) * * *

(1) * * *

(i) We require hunters to obtain a refuge hunt permit (signed refuge hunt brochure) and to possess and carry that signed refuge hunt brochure at all times during the designated hunt period. Hunters must also display the vehicle placard (part of the refuge hunt permit) while participating in the designated hunt period.

* * * * *

(k) * * *

(1) * * *

(ii) You must possess and carry a current signed refuge hunting permit (signed refuge hunt brochure) while hunting on all units of the refuge.

* * * * *

(viii) We only allow hunting in the Spaced Hunt Units on Saturdays, Sundays, and Tuesdays of the regular waterfowl season. We allow a maximum of four hunters per area. Hunters must possess and carry Special Fee Area Permits (signed refuge hunt brochure) while hunting.

* * * * *

(xii) We require a minimum distance between hunt parties, and between hunters and drivable roads and buildings, of 200 yards (183 meters).

* * * * *

(l) Muleshoe National Wildlife Refuge—(1) Migratory game bird hunting. We allow hunting of mourning dove, white-winged dove, and Eurasian collared-dove on designated areas of the refuge subject to the following conditions:

(i) Hunters must possess and carry a signed refuge hunt brochure while hunting.

(ii) During the dove season set by the State of Texas, we limit hunting to no more than 6 days with a maximum of 12 hunters per season.

(iii) We allow hunting from ½ hour before legal sunrise until 12 p.m. (noon).

(iv) We require hunters to check in and out at refuge headquarters.

(v) Hunters must exit the refuge no later than 45 minutes after legal sunset, unless they are camping in a designated camping area. From 45 minutes after legal sunset until 30 minutes before legal sunrise, we prohibit hunters in all areas of the refuge except designated camping areas.

(vi) We allow the use of dogs when hunting.

(vii) We only allow shotguns.

(2) Upland game hunting. We allow the hunting of Northern bobwhite and scaled (blue) quail on designated areas of the refuge subject to the following conditions:

(i) The conditions set forth at paragraphs (l)(1)(i), and (iv) through (vii) of this section apply.

(ii) During the first 2 weeks of the quail season set by the State of Texas, we limit hunting to no more than 6 days with a maximum of 12 hunters per season.

(iii) We allow hunting from 8:30 a.m. to 4:30 p.m.

(3) Big game hunting. We allow the hunting of white-tailed deer and mule deer, and the incidental take of feral hog, on designated areas of the refuge subject to the following conditions:

(i) The conditions set forth at paragraphs (l)(1)(i), (iv), and (v) of this section apply.

(ii) Between October and January, we limit hunting to no more than 20 days with a maximum of 8 hunters per season.

(iii) You may use only high-powered rifles of .242/6mm caliber or larger and archery equipment to hunt big game on the refuge.

(4) [Reserved]

(m) Neches River National Wildlife Refuge—(1) Migratory game bird hunting. We allow hunting of ducks, coot, and merganser on designated areas of the refuge subject to the following conditions:

(i) Hunters may enter the refuge no earlier than 4:30 a.m. We allow hunting from the State-designated legal shooting time until 12 p.m. (noon). Hunters must leave refuge hunt units by 1 p.m.

(ii) In Dead Water unit only, we allow the use of floating craft and motor boats, but only if they are propelled by paddling, push pole, or electric trolling motor.

(iii) We prohibit hunting within 50 yards (45 meters) of any road or trail, and within 200 yards (183 meters) of any building.

(iv) We require each hunter to obtain and carry with them a signed refuge hunt brochure in addition to the State hunt permit.

(v) You must remove all boats, blinds, temporary blinds, stands decoys, and other personal equipment following each hunt day (see §§ 27.93 and 27.94 of this chapter).

(vi) We allow the use of dogs when hunting.

(2) Upland game hunting. We allow hunting of Eastern gray and fox squirrel, cottontail and swamp rabbit, raccoon, beaver, and coyote subject to the following conditions:

(i) The conditions set forth at paragraphs (m)(1)(iii), (iv), and (vi) of this section apply.

(ii) We allow incidental take of beaver and coyote during any refuge hunt with the weapons legal for that hunt, subject to applicable State seasons and regulations.

(iii) We allow the hunting of raccoon and coyote from legal sunset to legal sunrise. We allow artificial lighting for hunting raccoon and coyote.

(iv) We require that refuge hunters turn in the Harvest Report (FWS Form 3-2542) within 2 weeks of the end of your hunt.

(v) We allow squirrel, rabbit, and raccoon hunting on the refuge from October 1 to 23.

(3) Big game hunting. We allow hunting of white-tailed deer and feral hog on designated areas of the refuge subject to the following conditions:

(i) The conditions set forth at paragraphs (m)(1)(iii) and (iv) of this section apply.

(ii) We allow incidental take of feral hog during any refuge hunt with the weapons legal for that hunt, subject to applicable State seasons and regulations.

(iii) We require a Harvest Report (FWS Form 3-2542) within 2 weeks of the end of your hunt. Failure to submit the Harvest Report will render the hunter ineligible for the next year's hunt.

(iv) We require a minimum distance between hunt parties of 150 yards (137 meters).

(v) We prohibit the use of dogs when feral hog hunting.

(4) [Reserved]

(n) * * *

(4) * * *

(ii) The condition set forth at paragraph (n)(1)(v) of this section applies.

* * * * *

(o) * * *

(1) * * *

(ii) You must possess and carry a current signed refuge hunting permit (signed refuge hunt brochure) while hunting on all hunt units of the refuge.

* * * * *

(4) * * *

(iii) The conditions set forth at paragraphs (o)(1)(vi) and (vii) of this section apply.

* * * * *

(p) * * *

(2) * * *

(i) We require hunters to possess a refuge permit (signed refuge hunt brochure). The hunter must carry the nontransferable permit at all times while hunting.

(ii) We require that refuge hunters turn in the Harvest Report (FWS Form 3-2542) by the date specified on the permit. Failure to submit the report will render the hunter ineligible for the next year's limited upland game hunt.

(iii) The condition set forth at paragraph (p)(1)(v) of this section applies.

* * * * *

(3) * * *

(i) We require a refuge permit (signed refuge hunt brochure) and Harvest Report (FWS Form 3-2542). Hunters must turn in both forms by the date specified on the permit. Failure to submit the Harvest Report will render the hunter ineligible for the next year's limited big game hunt. Drawings are by lottery. The hunter must carry the nontransferable permit at all times while hunting.

(ii) The conditions set forth at paragraphs (p)(1)(v) and (p)(2)(iv) through (vii) of this section apply.

* * * * *

32. Amend § 32.63 by revising paragraphs (c)(1) introductory text and (c)(3) introductory text to read as follows:

§ 32.63 Utah.

* * * * *

(c) * * *

(1) Migratory game bird hunting. We allow hunting of duck, coot, sandhill crane, and goose on designated areas of the refuge subject to the following condition: During hunting season, the refuge is open from 1½ hours before legal sunrise to 1½ hours after legal sunset.

* * * * *

(3) Big game hunting. We allow hunting of deer, pronghorn, and elk on designated areas of the refuge subject to the following conditions:

* * * * *

33. Revise § 32.64 to read as follows:

§ 32.64 Vermont.

The following refuge units are open for hunting and/or fishing as governed by applicable Federal and State regulations, and are listed in alphabetical order with additional refuge-specific regulations.

(a) Missisquoi National Wildlife Refuge—(1) Migratory game bird hunting. We allow hunting of goose, duck, brant, merganser, coot, woodcock, and snipe on designated areas of the refuge subject to the following conditions:

(i) We allow the use of dogs consistent with State regulations.

(ii) We require the use of dogs for hunting waterfowl in the Maquam Swamp, Long Marsh Channel/Metcalfe Island, and Saxes Pothole/Creek and Shad Island Pothole areas.

(iii) We prohibit blind staking and unattended decoys.

(iv) In the controlled waterfowl hunting areas:

(A) Hunters must possess a refuge permit (FWS Form 3-2439).

(B) Hunters may only hunt within 100 feet (30 meters) of a numbered stake placed by the refuge staff.

(v) In the Delta Lakeshore Area, we prohibit jumpshooting within 200 yards (183 meters) of a party hunting from a boat or blind.

(vi) In the Maquam Shore Area:

(A) We do not require a refuge permit to hunt or scout in this area.

(B) We prohibit jumpshooting within 200 yards (183 meters) of a party hunting from a boat or blind.

(vii) In the Saxes Pothole/Creek and Shad Island Pothole, each hunting party must possess and carry a permit (FWS Form 3-2439) for the specific zone on the specific day they are hunting in this area. Permits are not transferable.

(viii) In the Junior Waterfowl Hunting Area:

(A) Each junior hunter must possess and carry a permit (FWS Form 3-2439) for the assigned blind site and day. On Mentor Day, mentors must also possess and carry this permit for the assigned blind site. Each adult hunting party must possess and carry a permit for the blind site and day they are hunting. Permits are not transferable.

(B) Shooting hours end at 11 a.m.

(ix) In the Long Marsh Channel and Metcalfe Island:

(A) We limit hunting to Tuesdays, Thursdays, and Saturdays throughout the waterfowl hunting season for duck.

(B) Each hunting party must possess and carry a permit for the blind on the specific day they are hunting in this area. Permits are not transferable.

(C) Shooting hours end at 11 a.m.

(D) We close this area to waterfowl hunting during split seasons when geese are the only waterfowl that hunters may legally take.

(2) Upland game hunting. We allow hunting of cottontail rabbit, snowshoe hare, ruffed grouse, gray squirrel, coyote, red fox, gray fox, skunk, raccoon, weasel, and opossum on designated areas of the refuge subject to the following conditions:

(i) The condition set forth at paragraph (a)(1)(i) of this section applies.

(ii) Prior to hunting, you must obtain from refuge headquarters and sign a current refuge hunt brochure (signed brochure). You must possess the signed refuge hunt brochure at all times while hunting, and you must hold a valid State hunting license.

(iii) You may use only shotguns, muzzleloaders, or archery equipment on open areas east and north of Vermont Route 78, east of the Missisquoi River, and on Shad Island.

(iv) We prohibit hunting from the end of the State snowshoe hare and rabbit season (early March) until September 1.

(v) On the Eagle Point Unit, the conditions set forth at paragraphs (a)(2)(i) through (iii) of this section do not apply.

(3) Big game hunting. We allow hunting of white-tailed deer, moose, bear, and turkey on designated areas of the refuge subject to the following conditions:

(i) Prior to hunting, you must obtain from refuge headquarters and sign a current refuge hunt brochure (signed brochure). You must possess the signed refuge hunt brochure at all times while hunting, and you must hold a valid State hunting license.

(ii) You may use only shotguns, muzzleloaders, or archery equipment on open areas east and north of Vermont Route 78, east of the Missisquoi River. We prohibit rifles in these areas at any time.

(iii) You may use portable tree stands as governed by State regulations guiding their use on State wildlife management areas with the following exception: We allow only one tree stand or ground blind for each permit holder.

(iv) On the Eagle Point Unit, we allow hunting subject to the following conditions:

(A) You may use portable tree stands as governed by State regulations guiding their use on State wildlife management areas.

(B) We allow training of dogs during the regular hunting seasons as governed by State regulations. We allow dog training outside the regular hunting seasons (i.e., from June 1 through July 31) only with a Special Use Permit (FWS Form 3-1383-G).

(4) Sport fishing. We allow sport fishing on designated areas of the refuge subject to the following conditions:

(i) We allow sport fishing (including bow fishing) by boat and ice fishing in designated areas with the following exceptions:

(A) We close the following areas year-round: Goose Bay, Saxes Creek and Pothole, Metcalfe Island Pothole, Long Marsh Channel, and Clark Marsh.

(B) We close the following areas from Labor Day to December 31: Long Marsh Bay and Long Marsh Channel.

(ii) We allow bank fishing along designated areas of Charcoal Creek.

(iii) We prohibit taking fish with firearms.

(iv) We prohibit boat launching on the refuge with the following exceptions: We allow launching from Louie's Landing year-round, and from Mac's Bend boat launch area from September through December (inclusive).

(b) Silvio O. Conte National Fish and Wildlife Refuge—(1) Migratory game bird hunting. We allow hunting of duck, goose, coot, crow, snipe, and American woodcock on designated areas of the refuge subject to the following conditions:

(i) We allow disabled hunters to hunt from a vehicle that is at least 10 feet from the traveled portion of the refuge road if the hunter possesses a State-issued disabled hunting license and a Special Use Permit (FWS Form 3-1383-G) issued by the refuge manager.

(ii) We allow the use of dogs consistent with State regulations.

(2) Upland game hunting. We allow hunting of coyote, fox, raccoon, bobcat, woodchuck, red squirrel, eastern gray squirrel, porcupine, skunk, snowshoe hare, eastern cottontail, muskrat, opossum, weasel, pheasant, and ruffed grouse on designated areas of the refuge subject to the following conditions:

(i) The conditions set forth at paragraphs (b)(1)(i) and (ii) of this section apply.

(ii) We prohibit shooting from, over, or within 10 feet of the traveled portion of any road.

(iii) We require hunters hunting at night to possess a Special Use Permit (FWS Form 3-1383-G) issued by the refuge manager.

(3) Big game hunting. We allow hunting of white-tailed deer, moose, black bear, and wild turkey on designated areas of the refuge subject to the following conditions:

(i) The conditions set forth at paragraphs (b)(1)(i) and (b)(2)(ii) of this section apply.

(ii) You may use portable tree stands and/or blinds. You must clearly label your tree stand(s) and/or blind(s) with your hunting license number. You must remove your tree stand(s) and/or blind(s) no later than 72 hours after the close of the season (see § 27.93 of this chapter).

(iii) You may retrieve moose at the Nulhegan Basin Division with the use of a commercial moose hauler, if the hauler possesses a Special Use Permit (FWS Form 3-1383-C) issued by the refuge manager.

(4) Sport fishing. We allow sport fishing on designated areas of the refuge consistent with State regulations.

34. Amend § 32.65 by:

a. Revising paragraph (c);

b. Adding paragraph (d)(4);

c. Revising paragraphs (e) through (k);

d. Redesignating paragraph (l) as (n); and

e. Adding new paragraphs (l) and (m).

The revisions and additions read as follows:

§ 32.65 Virginia.

* * * * *

(c) Eastern Shore of Virginia National Wildlife Refuge—(1) Migratory game bird hunting. We allow hunting of waterfowl, rail, snipe, gallinule/moorhen, coot, woodcock, dove, and crow on designated areas of the refuge subject to the following conditions:

(i) We allow holders of a signed hunt brochure (signed brochure) to access areas of the refuge typically closed to the non-hunting public. All occupants of a vehicle or hunt party must possess a signed brochure and be actively engaged in hunting. We allow an exception for those persons aiding a disabled person who possesses a valid State-issued Commonwealth of Virginia Disabled Resident Lifetime License or Commonwealth of Virginia Resident Disabled Veteran's Lifetime License.

(ii) Hunters may enter the refuge no earlier than 2 hours prior to legal sunrise and must exit the refuge no later than 2 hours after legal sunset.

(iii) In the Firearms Units only, we allow the use of dogs consistent with State and Northampton County regulations.

(iv) We allow hunting on the refuge only from September 1 until February 28. Hunting will follow State seasons during that period.

(v) We allow migratory bird hunting with archery and firearms in the designated Firearms Units on the refuge in accordance with State and County regulations.

(2) Upland game hunting. We allow hunting of rabbit, squirrel, quail, raccoon, opossum, fox, coyote, and other nuisance species (groundhog, European starling, English sparrow, and pigeon) on designated areas of the refuge subject to the following conditions:

(i) The conditions set forth at paragraphs (c)(1)(i) through (iv) of this section apply.

(ii) We allow the use of archery tackle, as defined by the State, in designated Archery and Firearms Units.

(iii) We allow the use of firearms in accordance with State and Northampton County regulations in the designated Firearms Units only.

(3) Big game hunting. We allow hunting of white-tailed deer and wild turkey on designated areas of the refuge subject to the following conditions:

(i) The conditions set forth at paragraphs (c)(1)(i), (ii), and (iv), and (c)(2)(ii) and (iii) of this section apply.

(ii) We allow turkey hunting during the spring season only for a mentor-led hunt.

(iii) We require the use of nontoxic ammunition when hunting turkey in the Firearms Units.

(iv) We prohibit organized deer drives. We define a “deer drive” as an organized or planned effort to pursue, drive, chase, or otherwise frighten or cause deer to move in the direction of any person(s) who is part of the organized or planned hunt and known to be waiting for the deer.

(v) You may not hunt, discharge a firearm, or nock an arrow or crossbow bolt outside of the designated hunting areas.

(vi) We allow the use of portable tree stands and require removal of the stands after each day's hunt (see § 27.93 of this chapter).

(4) Sport fishing. We allow sport fishing on designated areas of the refuge subject to the following conditions:

(i) Anglers may access the refuge to fish from shore on the Bull Tract and Skidmore Island from ½ hour before legal sunrise to ½ hour after legal sunset.

(ii) Anglers may access State waters via the Wise Point Boat Ramp on the refuge from 5 a.m. to 10 p.m.

(d) * * *

(4) Sport fishing. We allow freshwater fishing in designated areas of the refuge subject to the following conditions:

(i) We allow fishing from nonmotorized boats only.

(ii) We prohibit the use of lead fishing tackle.

(e) Featherstone National Wildlife Refuge—(1) Migratory game bird hunting. We allow hunting of waterfowl on designated areas of the refuge subject to the following conditions:

(i) We allow the use of dogs consistent with State regulations.

(ii) We limit boat access to nonmotorized boats only in Farm Creek Unit. We allow motorized boat access in Neabsco Creek Unit.

(2)-(3) [Reserved]

(4) Sport fishing. We allow sport fishing on designated areas of the refuge subject to the following conditions:

(i) The condition set forth at paragraph (e)(1)(ii) of this section applies.

(ii) We prohibit the use of lead fishing tackle.

(f) Fisherman Island National Wildlife Refuge—(1) Migratory game bird hunting. We allow hunting of waterfowl, rail, snipe, gallinule/moorhen, coot, woodcock, dove, and crow on designated areas of the refuge subject to the following conditions:

(i) We allow the use of dogs consistent with State regulations.

(ii) We require hunters to possess and carry a signed refuge hunt brochure when hunting.

(iii) We allow hunting and hunter access by boat only. We prohibit hunting from land. Retrieval dogs may retrieve fallen game on shore.

(iv) We allow hunting on the refuge from September 1 until February 28. Hunting will follow State seasons during that period.

(v) Hunters may enter the refuge 2 hours before legal sunrise and must exit the refuge no later than 2 hours after legal sunset.

(2)-(4) [Reserved]

(g) Great Dismal Swamp National Wildlife Refuge. (1) [Reserved]

(2) Upland game hunting. We allow hunting of gray squirrel and coyote on designated areas of the refuge subject to the following conditions:

(i) We allow hunting on Thursdays, Fridays, and Saturdays only.

(ii) You must possess and carry a signed refuge permit (FWS Form 3-2439).

(3) Big game hunting. We allow hunting of white-tailed deer, wild turkey, and black bear on designated areas of the refuge subject to the following conditions:

(i) The conditions set forth at paragraphs (g)(2)(i) and (ii) of this section apply.

(ii) We require the use of nontoxic ammunition for hunting wild turkey.

(4) Sport fishing. We allow sport fishing on designated areas of the refuge subject to the following conditions:

(i) We allow fishing in Lake Drummond from a boat (maximum 25 horsepower) and from the piers at Washington Ditch Road and Interior Ditch Road.

(ii) We prohibit fishing from the ditch banks on the refuge.

(iii) We require a Special Use Permit (FWS Form 3-1383-G) for vehicular access to the boat ramp on Interior Ditch Road on the west side of Lake Drummond.

(h) James River National Wildlife Refuge. (1) [Reserved]

(2) Upland game hunting. We allow hunting of rabbit, squirrel, and coyote on designated areas of the refuge subject to the following conditions:

(i) We only allow the hunting and take of coyote concurrently during the refuge deer hunting season.

(ii) We allow rabbit and squirrel hunting only during the mentor-led hunt.

(iii) We prohibit the use of pursuit dogs.

(3) Big game hunting. We allow hunting of white-tailed deer and wild turkey on designated areas of the refuge subject to the following conditions:

(i) The condition set forth at paragraph (h)(2)(iii) of this section applies.

(ii) We require spring turkey hunters to possess and carry a refuge hunting permit (FWS Form 3-2439).

(iii) Hunters may enter the refuge no earlier than 1 hour prior to the start of legal shooting time and must exit the refuge no later than 1 hour after the end of legal shooting time.

(iv) We require the use of nontoxic ammunition when hunting spring wild turkey.

(v) Hunters using a muzzleloader must hunt from a stand elevated 10 feet (3 meters) or more above the ground.

(vi) We prohibit organized deer drives. We define a “deer drive” as an organized or planned effort to pursue, drive, chase, or otherwise frighten or cause deer to move in the direction of any person(s) who is part of the organized or planned hunt and known to be waiting for the deer.

(4) Sport fishing. We allow fishing on designated areas of the refuge subject to the following conditions:

(i) We allow fishing access each day from legal sunrise to legal sunset.

(ii) We allow fishing only by use of one or more attended poles with hook and line attached. We prohibit all other fishing methods and means.

(iii) We prohibit the use of lead fishing tackle.

(iv) We prohibit the use of minnows as bait.

(i) Mackay Island National Wildlife Refuge. Refer to § 32.52(e) for regulations.

(j) Occoquan Bay National Wildlife Refuge. (1) [Reserved]

(2) Upland game hunting. We allow hunting of coyote and fox on designated areas of the refuge subject to the following condition: We only allow the incidental take of coyote and fox during the refuge deer hunting season.

(3) Big game hunting. We allow hunting of white-tailed deer and wild turkey on designated areas of the refuge subject to the following conditions:

(i) With the exception of mentored hunt participants, white-tailed deer hunters must possess and carry a signed refuge permit (FWS Form 3-2439) and be selected in the refuge lottery to hunt.

(ii) We only allow shotguns with slugs during the firearm season.

(iii) We prohibit organized deer drives. We define a “deer drive” as an organized or planned effort to pursue, drive, chase, or otherwise frighten or cause deer to move in the direction of any person(s) who is part of the organized or planned hunt and known to be waiting for the deer.

(iv) We prohibit the use of pursuit dogs when hunting deer.

(v) We require the use of nontoxic ammunition when hunting wild turkey.

(vi) Hunters must certify and qualify weapons and ammunition at a refuge-approved range and view the refuge orientation session online prior to issuance of a refuge permit (FWS Form 3-2439).

(vii) Wild turkey hunting is a mentor-led hunt only.

(4) Sport fishing. We allow sport fishing on designated areas of the refuge subject to the following conditions:

(i) We allow boat access by nonmotorized boats only.

(ii) We prohibit the use of lead fishing tackle.

(k) Plum Tree Island National Wildlife Refuge—(1) Migratory game bird hunting. We allow hunting of migratory waterfowl and coot on designated areas of the refuge subject to the following conditions:

(i) You must hunt from a designated refuge blind.

(ii) We allow the use of dogs consistent with State regulations.

(2)-(3) [Reserved]

(4) Sport fishing. We allow fishing in designated areas of the refuge subject to the following conditions:

(i) We allow fishing access April 1 through August 31, from legal sunrise to legal sunset.

(ii) We prohibit shoreline fishing. We allow fishing only from boats untethered to refuge lands, or from designated blinds.

(iii) We allow fishing only by use of one or more attended poles with hook and line attached. We prohibit all other fishing methods and means.

(iv) We prohibit the use of lead fishing tackle.

(l) Presquile National Wildlife Refuge. (1) [Reserved]

(2) Upland game hunting. We allow hunting of coyote on designated areas of the refuge subject to the following conditions:

(i) Hunters may enter the refuge no earlier than 2 hours prior to the start of legal shooting time and must exit the refuge no later than 2 hours after the end of legal shooting time.

(ii) We only allow the hunting and take of coyote concurrently during the refuge deer hunting season.

(iii) We require hunters to dock their boats at designated locations on the refuge.

(3) Big game hunting. We allow hunting of white-tailed deer on designated areas of the refuge subject to the following conditions:

(i) The condition set forth at paragraph (l)(2)(iii) of this section applies.

(ii) We prohibit the use of pursuit dogs when hunting white-tailed deer.

(iii) We require big game hunters to obtain a permit through a lottery administered by a third-party contractor.

(iv) We prohibit organized deer drives. We define a “deer drive” as an organized or planned effort to pursue, drive, chase, or otherwise frighten or cause deer to move in the direction of any person(s) who is part of the organized or planned hunt and known to be waiting for the deer.

(4) Sport fishing. We allow fishing on designated areas of the refuge subject to the following conditions:

(i) We allow fishing access each day from legal sunrise to legal sunset.

(ii) We prohibit bank fishing. We allow fishing only from boats untethered to refuge lands.

(iii) We allow fishing only by use of one or more attended poles with hook and line attached. We prohibit all other fishing methods and means.

(iv) We prohibit the use of minnows as bait.

(v) We prohibit the use of lead fishing tackle.

(m) Rappahannock River Valley National Wildlife Refuge. (1) [Reserved]

(2) Upland game hunting. We allow hunting of coyote, rabbit, and squirrel on designated areas of the refuge subject to the following conditions:

(i) We prohibit the use of pursuit dogs.

(ii) We only allow the hunting and take of coyote concurrently during the refuge deer hunting season.

(3) Big game hunting. We allow hunting of white-tailed deer and wild turkey on designated areas of the refuge subject to the following conditions:

(i) The condition set forth at paragraph (m)(2)(i) of this section applies.

(ii) We require the use of nontoxic ammunition when hunting spring wild turkey.

(iii) In designated areas and for the spring turkey hunt, we require hunters to possess and carry a refuge hunting permit (FWS Form 3-2439).

(iv) Hunters may enter the refuge no earlier than 1 hour prior to the start of legal shooting time and must exit the refuge no later than 1 hour after the end of legal shooting time.

(v) We prohibit organized deer drives. We define a “deer drive” as an organized or planned effort to pursue, drive, chase, or otherwise frighten or cause deer to move in the direction of any person(s) who is part of the organized or planned hunt and known to be waiting for the deer.

(4) Sport fishing. We allow sport fishing on designated areas of the refuge subject to the following conditions:

(i) We allow fishing access each day from legal sunrise to legal sunset.

(ii) During the period when the refuge is open for hunting, we may close hunting areas to all other uses, including sport fishing.

(iii) We allow fishing only by use of one or more attended poles with hook and line attached. We prohibit all other fishing methods and means.

(iv) We prohibit the use of lead fishing tackle in freshwater ponds, including Wilna Pond and Laurel Grove Pond.

(v) We require catch-and-release fishing for largemouth bass in freshwater ponds, including Wilna Pond and Laurel Grove Pond. Anglers may take other finfish species as governed by State regulations.

(vi) We prohibit the use of minnows as bait.

(vii) We prohibit the use of boats propelled by gasoline motors, sail, or mechanically operated paddle wheel while fishing.

* * * * *

35. Amend § 32.66 by revising paragraphs (f)(3)(v), (i)(1)(iv), (x) and (xi) to read as follows:

§ 32.66 Washington.

* * * * *

(f) * * *

(3) * * *

(v) We require hunters to sign in and out each day at the refuge headquarters. When signing out for the day, you must report hunting success or failure, and any hit-but-not-retrieved animals on the Harvest Report (FWS Form 3-2542).

* * * * *

(i) * * *

(1) * * *

(iv) Prior to entering the hunt area, you must check in at the refuge check station, and obtain a Harvest Report (FWS Form 3-2542). You must carry the Harvest Report while hunting as proof of blind assignment and user fee payment.

* * * * *

(x) Prior to switching blinds, you must first report to the refuge check station to obtain a new blind assignment. You must submit an accurate Harvest Report (FWS Form 3-2542) for the blind being vacated, and obtain a new Harvest Report for the new blind.

(xi) Prior to leaving the hunt area, you must check out at the refuge check station, submit an accurate Harvest Report (FWS Form 3-2542), and present all harvested birds for inspection by check station personnel.

* * * * *

36. Amend § 32.67 by revising paragraphs (b)(2) and (3) to read as follows:

§ 32.67 West Virginia.

* * * * *

(b) * * *

(2) Upland game hunting. We allow hunting of squirrel, Eastern cottontail rabbit, red and gray fox, coyote, bobcat, opossum, raccoon, skunk, woodchuck, weasel, ruffed grouse, quail, pheasant, and crow on designated areas of the refuge subject to the following condition: The conditions set forth at paragraphs (b)(1)(i) through (iii) of this section apply.

(3) Big game hunting. We allow hunting of white-tailed deer, wild turkey, and black bear on designated areas of the refuge subject to the following conditions:

(i) The conditions set forth at paragraphs (b)(1)(i) and (ii) of this section apply.

(ii) We only allow the use of archery equipment.

(iii) We prohibit organized deer drives. We define a “deer drive” as an organized or planned effort to pursue, drive, chase, or otherwise frighten or cause deer to move in the direction of any person(s) who is part of the organized or planned hunt and known to be waiting for the deer.

(iv) You must label portable tree stands with your last name and State license number. You may erect your stand(s) on the first day of the hunting season. You must remove your stand(s) by the last day of the hunting season (see § 27.93 of this chapter).

* * * * *

37. Amend § 32.68 by:

a. Revising paragraphs (c) and (f)(1);

b. Adding paragraph (f)(2)(vi); and

c. Revising paragraph (f)(3) and (4).

The revisions and addition read as follows:

§ 32.68 Wisconsin.

* * * * *

(c) Hackmatack National Wildlife Refuge. Refer to § 32.32(f) for regulations.

* * * * *

(f) * * *

(1) Migratory game bird hunting. We allow hunting of duck, goose, coot, merganser, dove, moorhen/gallinule, rail, snipe, and woodcock on designated areas of the refuge subject to the following conditions:

(i) Hunters may enter the refuge no earlier than 1 hour before legal shooting hours and must exit the refuge no later than 1 hour after legal shooting hours.

(ii) You must remove all boats, decoys, blinds, blind materials, stands, platforms, and other hunting equipment (see §§ 27.93 and 27.94 of this chapter) brought onto the refuge at the end of each day's hunt.

(iii) We allow the use of dogs while hunting, provided the dog is under the immediate control of the hunter at all times.

(iv) We prohibit hunting or shooting within 50 feet (15 meters (m)) of the centerline of all public roads, service roads, and trails, and around parking lots. It is considered hunting if you have a loaded weapon, if you have a nocked arrow while bow hunting, or if you are in an elevated tree stand or ground blind with a means to take, within these areas.

(2) * * *

(vi) The conditions set forth at paragraphs (f)(1)(i), (ii), and (iv) of this section apply.

(3) Big game hunting. We allow hunting of white-tailed deer on designated areas of the refuge subject to the following conditions:

(i) The conditions set forth at paragraphs (f)(1)(i) and (iv) of this section apply.

(ii) You may use portable elevated devices, but you must lower them to ground level at the close of shooting hours each day. You must remove all blinds, stands, platforms, and ladders from the refuge at the end of the hunting season (see §§ 27.93 and 27.94 of this chapter).

(iii) You must clearly mark all non-natural blinds, stands, platforms, and ladders on the exterior with the hunter's Wisconsin Department of Natural Resources customer identification number.

(iv) We open Refuge Area 2 to deer hunting during the State archery, gun, and muzzleloader seasons, except that we close Refuge Area 2 to deer hunting during any early State antlerless-only hunts.

(v) We open Refuge Area 3 to deer hunting during the State regular gun, muzzleloader, and late archery seasons. Unarmed deer hunters may enter Refuge Area 3 to scout beginning the Saturday prior to the gun deer season.

(vi) You must remove flagging used during hunting by the close of the archery deer season (see §§ 27.93 and 27.94 of this chapter).

(vii) Any ground blind used during any gun deer season must display at least 144 square inches (929 square centimeters) of solid-blaze-orange or fluorescent pink material visible from all directions.

(4) Sport fishing. We allow sport fishing on designated areas of the refuge subject to the following conditions:

(i) Fishingareas are open from 30 minutes prior to legal sunrise to 30 minutes after legal sunset duringrefuge-specificseasons.

(ii)We allow use of nonmotorized boats in Sprague-Goose pools only when we open these pools to fishing.

(iii) We allow motorized boats in Suk Cerney Pool.

(iv) We allow fishing by hook and line only.

(v) We prohibit the taking of any mussel (clam), crayfish, frog, leech, or turtle species by any method on the refuge (see § 27.21 of this chapter).

* * * * *

38. Amend § 32.69 by revising paragraph (d)(3) to read as follows:

§ 32.69 Wyoming.

* * * * *

(d) * * *

(3) Big game hunting. We allow hunting of elk, pronghorn, white-tailed deer, and bison on designated areas of the refuge subject to the following conditions:

(i) We require refuge permits (issued by State of Wyoming).

(ii) We prohibit shooting from or across refuge roads and parking areas.

(iii) We allow hunting of pronghorn with a firearm in Pronghorn Hunt Area 1 from September 10 through October 31, and in Pronghorn Hunt Area 2 from October 1 through 31.

(iv) We allow archery hunting of pronghorn in Pronghorn Hunt Area 1 in accordance with State seasons and regulations.

(v) We allow hunting of white-tailed deer with a firearm in the White-tailed Deer Hunt Area from September 15 through October 30.

(vi) We allow archery hunting of white-tailed deer in the White-tailed Deer Hunt Area in accordance with State seasons and regulations.

(vii) The refuge hunt brochure will specify the type of ammunition approved for hunting on the refuge.

* * * * *

SUBCHAPTER E—MANAGEMENT OF FISHERIES CONSERVATION AREAS

PART 71—HUNTING AND SPORT FISHING ON NATIONAL FISH HATCHERIES

39. The authority citation for part 71 continues to read as follows:

Authority: Sec. 4, Pub. L. 73-121, 48 Stat. 402, as amended; sec. 4, Pub. L. 87-714, 76 Stat. 654; 5 U.S.C. 301; 16 U.S.C. 460k, 664, 668dd, 1534.

§ 71.11 [Amended]

40. Amend § 71.11 by:

a. In paragraph (c)(4), removing the words “§ 71.12(k)” and adding in their place the words “§ 71.12(l)”;

b. In paragraph (d)(4), removing the words “§ 71.12(l)” and adding in their place the words “§ 71.12(m)”;

c. In paragraph (e)(4), removing the words “§ 71.12(m)” and adding in their place the words “§ 71.12(n)”; and

d. In paragraph (g)(4), removing the words “§ 71.12(o)” and adding in their place the words “§ 71.12(p)”.

41. Amend § 71.12 by:

a. Redesignating paragraphs (g) through (r) as paragraphs (h) through (s); and

b. Adding a new paragraph (g).

The addition reads as follows:

§ 71.12 National fish hatcheries open for sport fishing.

* * * * *

(g) Green Lake National Fish Hatchery. We allow sport fishing on designated areas of the hatchery.

* * * * *

Shannon A. Estenoz,
Principal Deputy Assistant Secretary for Fish and Wildlife and Parks, Exercising the Delegated Authority of the Assistant Secretary for Fish and Wildlife and Parks.

[FR Doc. 2021-08013 Filed 5-3-21; 8:45 am]

BILLING CODE 4333-15-P